DEPARTMENT OF STATE

[Public Notice: 9749]

Office of the Chief of Protocol; Gifts to Federal Employees From Foreign Government Sources Reported to Employing Agencies in Calendar Year 2015

The Department of State submits the following comprehensive listing of the statements which, as required by law, federal employees filed with their employing agencies during calendar year 2015 concerning gifts received from foreign government sources. The compilation includes reports of both tangible gifts and gifts of travel or travel expenses of more than minimal value, as defined by the statute. Also included are gifts received in previous years including one gift in 1997, one gift in 2001, one gift in 2002, one gift in 2003, one gift in 2004, five gifts in 2006, thirty gifts in 2007, twenty-two gifts in 2008, sixty-one gifts in 2009, twenty-seven gifts in 2010, twenty-one gifts in 2011, forty-six gifts in 2012, twenty-five gifts in 2013, fifty gifts in 2014, and twelve gifts with unknown dates. With the exception of the gifts reported by the United States Senate, these latter gifts are being reported in 2015 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: September 22, 2016.
Patrick F. Kennedy,
Under Secretary for Management, U.S. Department of State.

Agency: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Barack Obama, President of the United States | Framed etching of Stonehenge. Rec'd—1/15/2015. Est. Value—$2,090.00. Disposition—National Archives and Records Administration | The Right Honorable David Cameron, MP, Prime Minister of the United Kingdom of Great Britain and Northern Ireland | Non-acceptance would cause embarrassment to donor and U.S. Government.
The Honorable Barack Obama, President of the United States | Telegram facsimile from the U.S. to India's Constituent Assembly in 1946. Reproduction of the cover page of a report on India's Constitutional Debates. 17″ x 13″ framed photograph of Marian Anderson's radio interview in India. Hand-carved wooden Jali box with a small wooden latch and photo of Marian Anderson's radio interview in India on the lid. CD set, title: All India Radio Interview with Ms. Marian Anderson, 18 November 1957, New Delhi. Hand-carved black wooden Jali box with painting on the lid. Blue Shahmina shawl. Red Shahmina shawl. Beige and cream colored Shahmina shawl. Rec'd—1/25/2015. Est. Value—$1,231.00. Disposition—National Archives and Records Administration | His Excellency Narendra Modi, Prime Minister of the Republic of India | Non-acceptance would cause embarrassment to donor and U.S. Government.
The Honorable Barack Obama, President of the United States | Model spinning wheel with white tread looped around the wheel. Cloth scroll listing the Seven Social Sins as articulated by Mahatma Ghandi. Book, title: Mahatma Gandhi. Book, title: An Autobiography—The Story of my Experiments with the Truth. Ivory colored cloth. 56″ x 96″ bronze-colored bust of Mohandas Karamchard Gandhi on a wood base. Small burlap tote bag with zipper. Small burlap bag with velcro closure. Large burlap bag with straps and zippers. Rec'd—1/24/2015. Est. Value—$929.01. Disposition—National Archives and Records Administration | Mr. Rajnish Kumar, Secretary of the Rajghat Samadhi Committee of the Republic of India | Non-acceptance would cause embarrassment to donor and U.S. Government.
The Honorable Barack Obama, President of the United States | Book, title: Thoughts and Reflections. Book, title: Winged Wonders of Rashtrapati Bhavan RB Series 2012-2014. Photobook, title: State Visit of His Excellency Mr. Barack H. Obama, President of the United States of America and Mrs. Michelle Obama to India 25 to 27 January 2015. Rec'd—1/26/2015. Est. Value—$825.00. Disposition—National Archives and Records Administration | His Excellency Pranab Mukherjee, President of the Republic of India | Non-acceptance would cause embarrassment to donor and U.S. Government.
The Honorable Barack Obama, President of the United States | Framed watercolor painting of men playing basketball. Book, title: Ulrich Zeh. Rec'd—2/9/2015. Est. Value—$440.00. Disposition—National Archives and Records Administration | Her Excellency Dr. Angela Merkel, Chancellor of the Federal Republic of Germany | Non-acceptance would cause embarrassment to donor and U.S. Government.
The Honorable Barack Obama, President of the United States | Silver bowl with the Qatari insignia in the center and bordered by an alphabetical listing of national capitals and their distance from Doha in kilometers. Rec'd—2/24/2015. Est. Value—$6,500.00. Disposition—National Archives and Records Administration | His Highness Sheikh Tamim bin Hamad Al Thani, Emir of the State of Qatar | Non-acceptance would cause embarrassment to donor and U.S. Government.
The Honorable Barack Obama, President of the United States | Hunter green hardcover book of poetry authored by William Butler Yeats. Crystal presentation bowl with personalized inscription and quotes by Yeats along the top border with shamrocks with a round base. Rec'd—3/16/2015. Est. Value—$10,556.00. Disposition—National Archives and Records Administration | His Excellency Enda Kenny, T.D., Prime Minister of Ireland | Non-acceptance would cause embarrassment to donor and U.S. Government.
The Honorable Barack Obama, President of the United States | 10″ diameter blue lapis lazuli vase with stone inlay. 10″ diameter blue lapis lazuli bowl in a mosaic pattern. Rec'd—3/23/2015. Est. Value—$2,425.00. Disposition—National Archives and Records Administration | His Excellency Mohammad Ashraf Ghani, President of the Islamic Republic of Afghanistan | Non-acceptance would cause embarrassment to donor and U.S. Government.
The Honorable Barack Obama, President of the United States | Two 15″ x 10″ glass display panels in bright multicolor with stands. Shirt of sheer white cotton. Rec'd—4/9/2015. Est. Value—$384.79. Disposition—National Archives and Records Administration | His Excellency Juan Carlos Varela, President of the Republic of Panama | Non-acceptance would cause embarrassment to donor and U.S. Government.
The Honorable Barack Obama, President of the United States | Four etchings on copper plates each depicting a theater: Greek, Roman, Odeaon, and Gaul-Roman. Rec'd—4/16/2015. Est. Value—$760.00. Disposition—National Archives and Records Administration | His Excellency Matteo Renzi, President of the Council of Ministers of the Italian Republic | Non-acceptance would cause embarrassment to donor and U.S. Government.
The Honorable Barack Obama, President of the United States | 35″ x 43″ framed painting of shapes and lines in blue, grey, black, and purple. Brown leather portfolio. Rec'd—4/20/2015. Est. Value—$1,040.00. Disposition—National Archives and Records Adminsitration | His Highness Sheikh Mohammed Bin Zayed Al Nahyan, Crown Prince of Abu Dhabi | Non-acceptance would cause embarrassment to donor and U.S. Government.
The Honorable Barack Obama, President of the United States | GPS solar analog wristwatch with steel link band, charcoal dial, and solar panel face. Rec'd—4/27/2015. Est. Value—$1,722.00. Disposition—National Archives and Records Administration | His Excellency Shinzo Abe, Prime Minister of Japan | Non-acceptance would cause embarrassment to donor and U.S. Government.
The Honorable Barack Obama, President of the United States | 36″ sword with handle made of mother-of-pearl and gold and a sheath of ruby-encrusted gold and handmade silver detail. Rec'd—5/13/2015. Est. Value—$87,900.00. Disposition—National Archives and Records Administration | His Royal Highness Mohammed bin Naif bin Abdulaziz Al Saud, Crown Prince, Deputy Prime Minister, and Minister of Interior of the Kingdom of Saudi Arabia | Non-acceptance would cause embarrassment to donor and U.S. Government.
The Honorable Barack Obama, President of the United States | Sterling silver coffee pot with beaded handle. Six small porcelain coffee cups. Two glass jars with silver lids. Box of assorted dates. Rec'd—5/13/2015. Est. Value—$502.50. Disposition—National Archives and Records Administration. Perishable items handled pursuant to United States Secret Service policy | His Highness Sheikh Mohammed Bin Zayed Al Nahyan, Crown Prince of Abu Dhabi | Non-acceptance would cause embarrassment to donor and U.S. Government.
The Honorable Barack Obama, President of the United States | Large sterling silver coffee pot with detailed engravings. Rec'd—5/13/2015. Est. Value—$1,900.00. Disposition—National Archives and Records Adminstration | His Highness Sayyid Fahd Bin Mahmoud Al Said, Deputy Prime Minister for the Council of Ministers of the Sultanate of Oman | Non-acceptance would cause embarrassment to donor and U.S. Government.
The Honorable Barack Obama, President of the United States | 24″ x 15″ silver-coated resin sculpture of camels and Bedouin on a green marble base. Rec'd—5/14/2015. Est. Value—$42,000.00. Disposition -National Archives and Records Administration | His Highness Sheikh Sabah Al-Ahmed Al-Jaber Al-Sabah, Amir of the State of Kuwait | Non-acceptance would cause embarrassment to donor and U.S. Government.
The Honorable Barack Obama, President of the United States | Sterling silver sphere that opens to display a clock under a magnifying glass on a wooden pedestal. Rec'd—5/14/2015. Est. Value—$10,064.00. Disposition —National Archives and Records Administration | His Royal Highness Salman Bin Hamad Al Khalifa, Crown Prince of the Kingdom of Bahrain | Non-acceptance would cause embarrassment to donor and U.S. Government.
The Honorable Barack Obama, President of the United States | 31″ x 42″ framed pencil sketch portrait of President Obama. Rec'd—5/14/2015. Est. Value—$550.00. Disposition—National Archives and Records Administration. | His Excellency Lieutenant General Dr. Seretse Khama Ian Khama, President of the Republic of Botswana | Non-acceptance would cause embarrassment to donor and U.S. Government.
The Honorable Barack Obama, President of the United States | 9″ gold-plated mechanical bird of a Common Chiffchaff that tweets, turns, and flaps its wings once per hour. Rec'd—5/14/2015. Est. Value—$110,000.00. Disposition—National Archives and Records Administration | His Highness Sheikh Tamim bin Hamad Al Thani, Emir of the State of Qatar | Non-acceptance would cause embarrassment to donor and U.S. Government.
The Honorable Barack Obama, President of the United States | 12″ miniature replica palm tree made of silver filigree on a marble base. Rec'd—5/21/2015. Est. Value—$1,900.00. Disposition—National Achives and Records Administration | His Excellency Beji Caid Essebsi, President of the Republic of Tunisia | Non-acceptance would cause embarrassment to donor and U.S. Government.
The Honorable Barack Obama, President of the United States | Personalized bicycle made of black metal with bell. 10″ x 12″ framed inscribed photograph of the King and Queen of the Netherlands. Rec'd—5/31/2015. Est. Value—$1,600.00. Disposition—National Archives and Records Administration | His Majesty King Willem-Alexander, King of the Netherlands | Non-acceptance would cause embarrassment to donor and U.S. Government.
The Honorable Barack Obama, President of the United States | Gold-tone cufflinks engraved with Bavarian coat of arms. 20″ carved wooden statue of a barefoot man with a walking stick and red satchel. Trekking poles with wristbands attached at the top. Black traditional Bavarian jacket with green collar. Brown leather hiking boots. Black hiking socks. Rec'd—6/7/2015. Est. Value—$1,928.71. Disposition—National Archives and Records Administration | His Excellency Horst Seehofer, Minister-President of Bavaria | Non-acceptance would cause embarrassment to donor and U.S. Government.
The Honorable Barack Obama, President of the United States | Ballpoint pen. Silver pocketwatch. USB drive. Rec'd—6/10/2015. Est. Value—$440.99. Disposition—National Archives and Records Administration. USB drive handle pursuant to United States Secret Service policy | Dr. Saleem Al-Jabouri, Speaker of the Council of Representatives of the Republic of Iraq | Non-acceptance would cause embarrassment to donor and U.S. Government.
The Honorable Barack Obama, President of the United States | Warm-up jacket for the Brazil Olympic Team. Rio 2016 white t-shirt. Book set of Brazilian classic literature in green leather-bound volumes. Silvertone cufflinks. Rec'd—6/30/2015. Est. Value—$695.50. Disposition—National Archives and Records Administration | Her Excellency Dilma Rousseff, President of the Federative Republic of Brazil | Non-acceptance would cause embarrassment to donor and U.S. Government.
The Honorable Barack Obama, President of the United States | 7' diameter circular leather mat with geometric pattern. Three 28″ diameter leather covers for seating pads. Rec'd—7/19/2015. Est. Value—$2,260.00. Disposition—National Archives and Records Administration | His Excellency Muhammadu Buhari, President of the Federal Republic of Nigeria | Non-acceptance would cause embarrassment to donor and U.S. Government.
The Honorable Barack Obama, President of the United States | Two 41″ x 29″ framed photographs of then-Senator Obama's 2006 visit to Ethiopia. Body sash in the colors of the Ethiopian flag. 16″ x 20″ black and silver Amharic number script art. Blue and silver neck tie with Amharic numbers. Rec'd—7/27/2015. Est. Value—$747.95. Disposition—National Archives and Records Administration | His Excellency Hailemariam Desalegn, Prime Minister of the Federal Democratic Republic of Ethiopia | Non-acceptance would cause embarrassment to donor and U.S. Government.
The Honorable Barack Obama, President of the United States | Book, title: Kenya. Book, title: Kenya the Beautiful. 12″ x 17″ miniature model of an elephant named Ahmed, known as the “King of Marsabit.” 31″ x 25″ painted black and white portrait of the First Family. 36″ x 25″ painted black and white portrait of President Obama. 24″ x 34″ framed oil painting of lions approaching zebras on the African plain. Rec'd—7/27/2015. Est. Value—$3,264.46. Disposition—National Archives and Records Administration | His Excellency Uhuru Kenyatta, President of the Republic of Kenya | Non-acceptance would cause embarrassment to donor and U.S. Government.
The Honorable Barack Obama, President of the United States | 13″ x 10″ silver-tone plate with etching of Angkor Wat. Book, title: Cambodia's Birds. Rec'd—8/3/2015. Est. Value—$421.32. Disposition—National Archives and Records Administration | His Excellency Chum Bun Rong, Ambassador of the Kingdom of Cambodia to the United States | Non-acceptance would cause embarrassment to donor and U.S. Government.
The Honorable Barack Obama, President of the United States | 66″ x 22″ framed parchment scroll with hand-painted calligraphy. Rec'd—8/4/2015. Est. Value—$1,200.00. Disposition—National Archives and Records Administration | His Excellency Ban Ki-moon, Secretary-General of the United Nations | Non-acceptance would cause embarrassment to donor and U.S. Government.
The Honorable Barack Obama, President of the United States | 26″ x 22″ hand-made and specially commissioned bronze sculpture depicting two horses, one rearing and unsaddled and one standing and saddled, made with gold-plated sterling silver, diamonds, tsavorites, yellow sapphires, rubies, and obsidian mounted on a piano black lacquer rotating base. Chronometer shaped like a large winch from wooden sail ships with gold-plated casing, brass dial, crystal glass, and detail along the sides naming celebrated ships that made significant voyages. Set of ten golf irons. Leather golf bag with white stitching. Rec'd—9/3/2015. Est. Value—$522,972.00. Disposition—National Archives and Records Administration | The Custodian of the Two Holy Mosques Salman bin Abdulaziz Al Saud, King of the Kingdom of Saudi Arabia | Non-acceptance would cause embarrassment to donor and U.S. Government.
The Honorable Barack Obama, President of the United States | 13.5″ painted ebony wooden hand lantern. 18″ x 27″ framed relief art of a woman carrying a basket on her shoulder. Ten pieces of Dutch cloth of varied patterns and colors. Twenty-nine table linen sets of various colors, each including a table cloth, a table runner, and place mats. Twelve bottles of champagne. Rec'd—9/9/2015. Est. Value—$9,054.88. Disposition—National Archives and Records Administration | His Excellency Thomas Boni Yayi, President of the Republic of Benin | Non-acceptance would cause embarrassment to donor and U.S. Government.
The Honorable Barack Obama, President of the United States | 15″ x 61″ x 12″ bronze sculpture of five oxen facing different directons along a plank with a plaque describing the artwork's significance. Book, title: Friends of the Chinese People—Commemorative Stamps. Book, title: For Justice and Peace. Rec'd—9/25/2015. Est. Value—$3,840.00. Disposition—National Archives and Records Administration | His Excellency Xi Jinping, President of the People's Republic of China | Non-acceptance would cause embarrassment to donor and U.S. Government.
The Honorable Barack Obama, President of the United States | 14″ large silver teapot with ornate vine design, the symbol of Brunei on the side, a felt bottom, a lid with a knob, and a pivoting handle. Rec'd—10/1/2015. Est. Value—$790.00. Disposition—National Archives and Records Administration | His Majesty Sultan Haji Hassanal Bolkiah Mu'izzaddin Waddaulah, Sultan and Yang Di-Pertuan of Brunei Darussalam | Non-acceptance would cause embarrassment to donor and U.S. Government.
The Honorable Barack Obama, President of the United States | Men's stainless steel watch with leather band. Soccer ball in German National Team colors signed by the team. German National Team World Cup soccer jersey. Rec'd—10/6/2015. Est. Value—$2,659.99. Disposition—National Archives and Records Administration | His Excellency Joachim Gauck, President of the Federal Republic of Germany | Non-acceptance would cause embarrassment to donor and U.S. Government.
The Honorable Barack Obama, President of the United States | 13″ x 13″ x 8″ Kismet chest decorated in multicolored glass. Rec'd -10/16/2015. Est. Value—$2,950.00. Disposition—National Archives and Records Administration | His Excellency Ahmet Davutoğlu, Prime Minister of the Republic of Turkey | Non-acceptance would cause embarrassment to donor and U.S. Government.
The Honorable Barack Obama, President of the United States | Chest of dark wood with metal corners, latch and lock, and lid decorated with an ox horn panel depicting an 18th century royal procession. Rec'd—10/16/2015. Est. Value—$2,900.00. Disposition—National Archives and Records Administration | Her Excellency Park Geun-hye, President of the Republic of Korea | Non-acceptance would cause embarrassment to donor and U.S. Government.
The Honorable Barack Obama, President of the United States | Cufflinks with shell design. 11' x 8' rug of multicolored silk. Four framed pictures of President Obama's mother working in Pakistan. Rec'd—10/21/2015. Est. Value—$23,615.00. Disposition—National Archives and Records Administration | His Excellency Muhammad Nawaz Sharif, Prime Minister of the Islamic Republic of Pakistan | Non-acceptance would cause embarrassment to donor and U.S. Government.
The Honorable Barack Obama, President of the United States | 13″ diameter round tray of polished silver with engraving around the edge and four spherical legs. Rec'd—10/26/2015. Est. Value—$990.00. Disposition—National Archives and Records Administration | His Excellency Joko Widodo, President of the Republic of Indonesia | Non-acceptance would cause embarrassment to donor and U.S. Government.
The Honorable Barack Obama, President of the United States | Necktie of woven Turkish Kutnu fabric. Four sheets of stamps commemorating the G20 summit. Silk neck tie with Turkey G20 logo. Two cotton bathrobes with matching 55″ monogrammed towels. Book, title: A Vision of Global Peace. 6.25″ silver-tone candy dish with star and crescent moon engraved into top and filled with Turkish delight candy. 12″ porcelain vase with lid. Rec'd—11/15/2015. Est. Value—$1,112.00. Disposition—National Archives and Records Administration. Perishable items handled pursuant to United States Secret Service policy | His Excellency Recep Tayyip Erdoğan, President of the Republic of Turkey | Non-acceptance would cause embarrassment to donor and U.S. Government.
The Honorable Barack Obama, President of the United States | 20″ wood and metal sculpture of APEC member countries. 16″ x 8″ glass platter with brass banca boat handles. Tablet computer with case. Fifteen bottles of spirits. Banana chips. Chocolate-covered mangos. Rec'd—11/18/2015. Est. Value—$5,026.84. Disposition—National Archives and Records Administration. Table and perishable items handled pursuant to United States Secret Service policy | His Excellency Benigno Aquino, President of the Republic of the Philippines | Non-acceptance would cause embarrassment to donor and U.S. Government.
The Honorable Barack Obama, President of the United States | 70″ x 104″ rug made of silk in floral pattern with tassels. Rec'd—11/20/2015. Est. Value—$1,600.00. Disposition—National Archives and Records Administration | General Raheel Sharif, Chief of Army Staff of the Islamic Republic of Pakistan | Non-acceptance would cause embarrassment to donor and U.S. Government.
The Honorable Barack Obama, President of the United States | 6″ pewter tankard with lid. Miniature silver gong suspended by chains from two curved arms with striking mallet and stand. Leather briefcase set including black document bag with handle and combination lock. 2016 daily planner. Rec'd—11/21/2015. Est. Value—$520.00. Disposition—National Archives and Records Administration | YAB Dato' Sri Najib bin Tun Abdul Razak, Prime Minister of Malaysia | Non-acceptance would cause embarrassment to donor and U.S. Government.
The Honorable Barack Obama, President of the United States | Food basket of handmade glass with blue tint. Assorted food products. Three candles. 17.5″ x 17.5″ wooden serving board with two holes on the end. Two 3.5″ small metal serving bowls. 8″ x 10″ silver-tone picture frame. Gas-powered wine system. Ten argon gas canisters. 20″ x 12″ x 12″ navy trunk. Rec'd -12/1/2015. Est. Value—$1,636.71. Disposition—National Archives and Records Administration. Food, candles, and gas canisters handled pursuant to United States Secret Service policy | His Majesty Sultan Haji Hassanal Bolkiah Mu'izzaddin Waddaulah, Sultan and Yang Di-Pertuan of Brunei Darussalem | Non-acceptance would cause embarrassment to donor and U.S. Government.
The Honorable Barack Obama, President of the United States | Seven boxes of cigars. Rec'd—12/9/2015. Est. Value—$4,158.00. Disposition—Handled pursuant to United States Secret Service policy | Government of the Republic of Cuba | Non-acceptance would cause embarrassment to donor and U.S. Government.
The Honorable Barack Obama, President of the United States | 29″ x 24″ framed and matted painting of President Obama decorated with floral and animal design. Rec'd—12/27/2015. Est. Value—$460.00. Disposition—National Archives and Records Administration | His Excellency Jalil Abbas Jilani, Ambassador of the Islamic Republic of Pakistan to the United States | Non-acceptance would cause embarrassment to donor and U.S. Government.
The Honorable Barack Obama, President of the United States, and Mrs. Michelle Obama | 4″ x 4″ Tree of Life clay figurine including members of the First Family. 4″ x 4″ President Barack Obama's Tree of Life clay figurine. 2″ x 2″ Tree of Life clay figurine including the White House and staff members. Magnifying glass. Golf ball and baseball cap signed by Mexican professional golfer. Book, title: Tribute to Lorena Ochoa.. Rec'd—1/5/2015. Est. Value—$2,950.00. Disposition—National Archives and Records Administration | His Excellency Enrique Peña Nieto, President of the United Mexican States | Non-acceptance would cause embarrassment to donor and U.S. Government.
The Honorable Barack Obama, President of the United States, and Mrs. Michelle Obama | Two brown leather cell phone sleeves. Two tablet computer sleeves. Laptop computer sleeve. Silk tapestry in red, blue, and brown. Handmade scarf. Rec'd -2/20/2015. Est. Value—$510.00. Disposition—National Archives and Records Administration | His Excellency Kadyr Toktogulov, Ambassador of the Kyrgyz Republic to the United States | Non-acceptance would cause embarrassment to donor and U.S. Government.
The Honorable Barack Obama, President of the United States, and Mrs. Michelle Obama | Ten CDs of Cuban music with CD rack. Long-sleeved button down linen Guyaybera shirt. Four bottles of spirits. Box of cigars with lighter. Wooden humidor. Four bottles of floral fragrances. Rec'd—4/11/2015. Est. Value—$1,193.57. Disposition—National Archives and Records Administration. Liquids, cigars, lighter, and humidor handled pursuant to United States Secret Service policy | His Excellency Raúl Castro Ruz, President of the Republic of Cuba | Non-acceptance would cause embarrassment to donor and U.S. Government.
The Honorable Barack Obama, President of the United States, and Mrs. Michelle Obama | 12″ x 10″ signed photograph of the King and Queen of Spain in a silver frame. Rec'd—9/15/2015. Est. Value—$1,100.00. Disposition—National Archives and Records Administration | His Majesty Felipe VI, King of Spain | Non-acceptance would cause embarrassment to donor and U.S. Government.
The Honorable Barack Obama, President of the United States, and Mrs. Michelle Obama | 12″ x 10″ signed and framed photograph of Prince Henry of Wales. Rec'd—10/28/2015. Est. Value—$450.00. Disposition—National Archives and Records Administration | His Royal Highness Prince Henry of Wales | Non-acceptance would cause embarrassment to donor and U.S. Government.
Mrs. Michelle Obama, First Lady of the United States | Assorted chocolates in presentation basket. Rec'd—1/20/2015. Est. Value—$842.00. Disposition—Perishable items handled pursuant to United States Secret Service Policy | His Majesty Mohammed VI, King of Morocco | Non-acceptance would cause embarrassment to donor and U.S. Government.
Mrs. Michelle Obama, First Lady of the United States | Hand-embroidered Shahmina shawl. Hand-carved wooden Jali box. Assorted Indian tea. Rec'd—1/24/2015. Est. Value—$662.00. Disposition—National Archives and Records Administration. Tea handled pursuant to United States Secret Service policy | His Excellency Narendra Modi, Prime Minister of the Republic of India | Non-acceptance would cause embarrassment to donor and U.S. Government.
Mrs. Michelle Obama, First Lady of the United States | Pashmina Shawl with hand-embroidery. Specially commissioned tea set, including pot, six cups, six saucers, milk pitcher, and sugar jar. Rec'd—1/26/2015. Est. Value—$900.00. Disposition—National Archives and Records Administration | His Excellency Pranab Mukherjee, President of the Republic of India | Non-acceptance would cause embarrassment to donor and U.S. Government.
Mrs. Michelle Obama, First Lady of the United States | Quilt, hand-made from yellow and blue cotton fabric. Rec'd—2/27/2015. Est. Value—$450.00. Disposition—National Archives and Records Administration | Her Excellency Ellen Johnson Sirleaf, President of the Republic of Liberia | Non-acceptance would cause embarrassment to donor and U.S. Government.
Mrs. Michelle Obama, First Lady of the United States | 4″ x 6″ framed drawing of President Obama in blue ink. 5″ x 7″ framed drawing of First Lady Michelle Obama in blue ink. Silk scarf with tassels. Rec'd—3/18/2015. Est. Value—$390.00. Disposition—National Archives and Records Administration | Ms. Mu Sochua, Member of Parliament of the Kingdom of Cambodia | Non-acceptance would cause embarrassment to donor and U.S. Government.
Mrs. Michelle Obama, First Lady of the United States | Necklace of pearls and gold links. 14.5″ x 10.5″ plate of bone china, oval shape, with hand-painted image of Bo and Sunny. Rec'd—3/19/2015. Est. Value—$2,260.00. Disposition—National Archives and Records Administration | Mrs. Akie Abe, Spouse of the Prime Minister of Japan | Non-acceptance would cause embarrassment to donor and U.S. Government.
Mrs. Michelle Obama, First Lady of the United States | Clutch purse in graphite swirl pattern. Aluminum chrysanthemum ornament. Pet accessories set including tray, two collars, and two collar bells, made of beige leather and green thatching. Rec'd—4/27/2015. Est. Value—$413.00. Disposition—National Archives and Records Administration | Mrs. Akie Abe, Spouse of the Prime Minister of Japan | Non-acceptance would cause embarrassment to donor and U.S. Government.
Mrs. Michelle Obama, First Lady of the United States | Commemorative coin from the 5th Anniversary of the Proclamation of His Highness Sheikh Sabah Al-Ahmed Al-Jaber Al-Sabah as the Emir of Kuwait (2006-2011). Leather greeting card with gold lettering. Black box with gold trim. Black robe with golden embroidery. Pink robe with golden embroidery. Case of six small gold-plated silver coins issued by the Central Bank of Kuwait. Rec'd—5/14/2015. Est. Value—$3,550.00. Disposition—National Archives and Records Administration | His Highness Sheikh Sabah Al-Ahmed Al-Jaber Al-Sabah, Amir of the State of Kuwait | Non-acceptance would cause embarrassment to donor and U.S. Government.
Mrs. Michelle Obama, First Lady of the United States | Six porcelain plates with hand-painted designs of birds, butterflies, and flowers, applied with polished 24-carat gold. Rec'd—5/14/2015. Est. Value—$6,900.00. Disposition—National Archives and Records Administration | His Highness Sheikh Tamim bin Hamad Al Thani, Emir of the State of Qatar | Non-acceptance would cause embarrassment to donor and U.S. Government.
Mrs. Michelle Obama, First Lady of the United States | Personalized bicycle made of black metal with bell. Rec'd—5/31/2015. Est. Value—$975.00. Disposition—National Archives and Records Administration | His Majesty King Willem-Alexander, King of the Netherlands | Non-acceptance would cause embarrassment to donor and U.S. Government.
Mrs. Michelle Obama, First Lady of the United States | Sterling silver flower dish. Rec'd—6/17/2015. Est. Value—$650.00. Disposition—National Archives and Records Administration | His Excellency Matteo Renzi, President of the Council of Ministers of the Italian Republic | Non-acceptance would cause embarrassment to donor and U.S. Government.
Mrs. Michelle Obama, First Lady of the United States | 18″ two-sided Suzshou embroidery depicting two giant pandas, a mother and her cub, in a circular wooden frame. Antique porcelain jewelry set including a pair of earrings, a ring, a bracelet, and a pendant. Rec'd—9/25/2015. Est. Value—$654.00. Disposition—National Archives and Records Administration | His Excellency Xi Jinping, President of the People's Republic of China | Non-acceptance would cause embarrassment to donor and U.S. Government.
Mrs. Michelle Obama, First Lady of the United States | Silver jewelry set of rubies and diamonds, including a necklace with teardrop pendant, a ring, two teardrop earrings, and a bracelet. Rec'd—9/30/2015. Est. Value—$73,200.00. Disposition—National Archives and Records Administration | Her Majesty Raja Isteri Pengiran Anak Haja Saleha of Brunei Darussalam | Non-acceptance would cause embarrassment to donor and U.S. Government.
Mrs. Michelle Obama, First Lady of the United States | Red ox leather bag. Rec'd—10/6/2015. Est. Value—$600.10. Disposition—National Archives and Records Administration | His Excellency Joachim Guack, President of the Federal Republic of Germany | Non-acceptance would cause embarrassment to donor and U.S. Government.
Mrs. Michelle Obama, First Lady of the United States | 45″ painting of a young African girl surrounded by musical instruments on Sierra Leone-shaped wood. Rec'd—10/22/2015. Est. Value—$780.00. Disposition—National Archives and Records Administration | Mrs. Sia Koroma, First Lady of the Republic of Sierra Leone | Non-acceptance would cause embarrassment to donor and U.S. Government.
Mrs. Michelle Obama, First Lady of the United States | 6″ x 6″ x 3″ music box of light brown wood and a hinged top with a decorative brass plate. Jewelry set of silver and orange onyx including round earrings with a centered stone and a 16″ necklace of gemstone and silver beads. 88″ x 34″ silk scarf. Rec'd—10/26/2015. Est. Value—$521.41. Disposition—National Archives and Records Administration | His Excellency Joko Widodo, President of the Republic of Indonesia | Non-acceptance would cause embarrassment to donor and U.S. Government.
Mrs. Michelle Obama, First Lady of the United States | Polished music box of light and dark-colored indigenous wood. Rec'd—11/2/2015. Est. Value—$17,720.00. Disposition—National Archives and Records Administration | Her Highness Sheikha Moza bint Nasser Al Missned of the State of Qatar | Non-acceptance would cause embarrassment to donor and U.S. Government.
Mrs. Michelle Obama, First Lady of the United States | 9″ gold-plated mechanical bird of a Common Chiffchaff that tweets, turns, and flaps its wings once per hour. Rec'd—11/2/2015. Est. Value—$110,000.00. Disposition—National Archives and Records Administration | His Highness Sheikh Tamim bin Hamad Al Thani, Emir of the State of Qatar | Non-acceptance would cause embarrassment to donor and U.S. Government.
Mrs. Michelle Obama, First Lady of the United States | Book, title: Menashe Kadishman. 10″ x 10″ painting of a sheep's head in multicolor. Three music CDs. Three spiral notebooks with floral pattern. Necklace of velvet fabric with floral print combining laces, glass beads, hand-sewn ribbons and colorful chains. Medallion pendant in Victorian style with crystals. Necklace of fairy with tassel skirt. Rec'd—8/6/2014. Est. Value—$2,761.00. Disposition—National Archives and Records Administration | Mrs. Sara Netanyahu, Spouse of the Prime Minister of the State of Israel | Non-acceptance would cause embarrassment to donor and U.S. Government.
Mrs. Michelle Obama, First Lady of the United States | Necklace of hand-cut rubies and 22-carat gold clasp. Rec'd—11/20/2015. Est. Value—$740.00. Disposition—National Archives and Records Administration | General Raheel Sharif, Chief of Army Staff of the Islamic Republic of Pakistan | Non-acceptance would cause embarrassment to donor and U.S. Government.
Mrs. Michelle Obama, First Lady of the United States | 4″ x 6.5″ silver and gold-tones metal purse with chain strap and gemstone above the latch. 44″ x 150″ section of dark blue fabric. 75.5″ x 20.5″ dark blue scarf with silver design and stars. Rec'd—11/21/2015. Est. Value—$620.00. Disposition—National Archives and Records Administration | YABhg. Datin Paduka Seri Rosmah Mansor, Spouse of the Prime Minister of Malaysia | Non-acceptance would cause embarrassment to donor and U.S. Government.
First Family | Mini purse of red and pink leather with gold-tone chain strap. Purple floral print silk scarf. Rec'd—6/17/2015. Est. Value—$1,420.00. Disposition—National Archives and Records Administration | His Excellency Matteo Renzi, President of the Council of Ministers of the Italian Republic | Non-acceptance would cause embarrassment to donor and U.S. Government.
First Family | 10″ bronze-colored medallion stamped with the symbol of the World Meeting of Families in 22″ x 19″ blue velvet matte and frame. Rec'd—9/22/2015. Est. Value—$425.00. Disposition—National Archives and Records Administration | His Holiness Pope Francis | Non-acceptance would cause embarrassment to donor and U.S. Government.
White House Staff Member Lisa Monaco | 5″ small round silver-plated bangle bowl. Rec'd—2/19/2015. Est. Value—$380.00. Disposition—Transferred to General Services Administration | Mr. Bernard Cazeneuve, Minister of the Interior of the Republic of France | Non-acceptance would cause embarrassment to donor and U.S. Government.
White House Staff Member Susan Rice | 24″ x 15″ silver-coated resin sculpture of camels and Bedouin on a green marble base. Rec'd—5/14/2015. Est. Value—$850.00. Disposition—Transferred to General Services Administration | His Royal Highness Salman Bin Hamad Al Khalifa, Crown Prince of the Kingdom of Bahrain | Non-acceptance would cause embarrassment to donor and U.S. Government.
White House Staff Member Major Andrew Steadman | Book, title: Bavaria—Land at the Heart of Europe. Gray backpack with G7 logo. Compact umbrella. White cup with G7 logo. 4.5″ white lion figurine. Rec'd—6/6/2015. Est. Value—$604.87. Disposition—Transferred to General Services Administration | His Excellency Horst Seehofer, Minister-President of Bavaria | Non-acceptance would cause embarrassment to donor and U.S. Government.
White House Staff Member Susan Rice | Two bronze-colored coins engraved with the donor's name and image of the Great Wall of China. Book, title: Let History Bear Witness to Our Friendship. Silk scarf with purple floral print. 16″ commemorative plate with a picture of President Obama on a wooden stand. 16″ x 16″ framed floral print embroidery. Rec'd—6/12/2015. Est. Value—$880.00. Disposition—Transferred to General Services Administration | General Fan Changlong, Vice Chairman of the Central Military Commission of the People's Republic of China | Non-acceptance would cause embarrassment to donor and U.S. Government.
White House Staff Member Susan Rice | Travel jewelry organizer. Five-strand cranberry red ruby necklace. Replica of the National Martyrs Memorial. 10″ silver bowl. Rec'd—8/29/2015. Est. Value—$1,245. Disposition—Transferred to General Services Administration | General Raheel Sharif, Chief of Army Staff of the Islamic Republic of Pakistan | Non-acceptance would cause embarrassment to donor and U.S. Government.
White House Staff Member Susan Rice | 13″ x 16″ silver and gold-plated sculpture of three gemsbok on rocky surface among palms on a lacquer base. Rec'd—9/4/2015. Est. Value—$31,500.00. Disposition—Transferred to General Services Administration | The Custodian of the Two Holy Mosques Salman bin Abdulaziz Al Saud, King of the Kingdom of Saudi Arabia | Non-acceptance would cause embarrassment to donor and U.S. Government.
White House Staff Member Denis McDonough | 14″ x 12″ silver and gold-plated sculpture of three figures of a Bedouin group and tent among palm trees set on polished green malachite. Rec'd—9/4/2015. Est. Value—$52,000.00. Disposition—Transferred to General Services Administration | The Custodian of the Two Holy Mosques Salman bin Abdulaziz Al Saud, King of the Kingdom of Saudi Arabia | Non-acceptance would cause embarrassment to donor and U.S. Government.
White House Staff Member Courtney Cooper | 6.5″ blue lapis lazuli bowl. Rec'd—9/12/2015. Est. Value—$425.00. Disposition—Transferred to General Services Administration | His Excellency Mohammad Hanif Atmar, National Security Advisor of the Islamic Republic of Afghanistan | Non-acceptance would cause embarrassment to donor and U.S. Government.
White House Staff Member Josh White | Lapis lazuli desk organizer with business card holder, clock, and pen holder. Rec'd—9/15/2015. Est. Value—$425.00. Disposition—Transferred to General Services Administration | His Excellency Nasir Ahmad Durrani, Minister of Rual Rehabilitation and Development of the Islamic Republic of Afghanistan | Non-acceptance would cause embarrassment to donor and U.S. Government.
White House Staff Member Caitlin Spicer | 20″ x 52″ Handwoven rug with fringe, multicolored with diamond and triangle pattern. Rec'd—12/15/2015. Est. Value—$900.00. Disposition—Transferred to General Services Administration | His Excellency Eng. Sami Halaseh, Minister of Public Works and Housing for the Hashemite Kingdom of Jordan | Non-acceptance would cause embarrassment to donor and U.S. Government.

Agency: The White House—Office of the Vice President
[Report of Tangible Gifts Furnished by the White House—Office of the Vice President]
Name and title of person accepting the gift on behalf of the U.S. Government | Gift, date of acceptance on behalf of the U.S. Government, estimated value, and current disposition or location | Identity of foreign donor and government | Circumstances justifying acceptance
The Honorable Joseph R. Biden, Jr., Vice President of the United States | Blue lapis lazuli box with gold-colored trim. Rec'd—3/10/2014. Est. Value—$490.00. Disposition—National Archives and Records Administration | His Excellency Miguel Juan Sebastián Piñera Echenique, President of the Republic of Chile | Non-acceptance would cause embarrassment to donor and U.S. Government.
The Honorable Joseph R. Biden, Jr., Vice President of the United States | Azerbaijani handwoven wool rug. Rec'd—12/17/2014. Est. Value—$450.00. Disposition—National Archives and Records Administration | His Excellency Elin Suleymanov, Ambassador of the Republic of Azerbaijan to the United States | Non-acceptance would cause embarrassment to donor and U.S. Government.
The Honorable Joseph R. Biden, Jr., Vice President of the United States | Silver recumbent horse on rectangular wood base in a presentation box. Rec'd—2/24/2015. Est. Value—$3,200.00. Disposition—National Archives and Records Administration | His Highness Sheikh Tamim bin Hamad Al Thani, Emir of the State of Qatar | Non-acceptance would cause embarrassment to donor and U.S. Government.
The Honorable Joseph R. Biden, Jr., Vice President of the United States | Acrylic painting on canvas of five individuals wearing multicolored headwraps in religious processional. Rec'd—3/1/2015. Est. Value—$950.00. Disposition—National Archives and Records Administration | His Excellency Otto Pérez Molina, President of the Republic of Guatemala | Non-acceptance would cause embarrassment to donor and U.S. Government.
The Honorable Joseph R. Biden, Jr., Vice President of the United States | Lapis lazuli footed bowl. Rec'd—4/13/2015. Est. Value—$485.00. Disposition—National Archives and Records Administration | His Excellency Mohammad Ashraf Ghani, President of the Islamic Republic of Afghanistan | Non-acceptance would cause embarrassment to donor and U.S. Government.
The Honorable Joseph R. Biden, Jr., Vice President of the United States | Small filigree silver pot with lid in a red leatherette presentation box. Rec'd—5/5/2015. Est. Value—$525.00. Disposition—National Archives and Records Administration | His Excellency Beji Caid Essebsi, President of the Republic of Tunisia | Non-acceptance would cause embarrassment to donor and U.S. Government.
The Honorable Joseph R. Biden, Jr., Vice President of the United States | Prologue Arabian horse head in bronze with black ruthenium finish, a gold-plated mane, sterling silver bridle and reins, gold-plated tassels, and cabochon blue sapphire on a rotating red crocodile leather base with hand-chased sterling silver arabesque elements with gold-plated buckles. Rec'd—5/13/2015. Est. Value—$48,500.00. Disposition—National Archives and Records Administration | His Royal Highness Prince Mohammed bin Naif bin Abdulaziz Al Saud, Crown Prince, Deputy Prime Minister and Minister of Interior of the Kingdom of Saudi Arabia | Non-acceptance would cause embarrassment to donor and U.S. Government.
The Honorable Joseph R. Biden, Jr., Vice President of the United States | Framed oil painting by Tsegmed Tserennadmid depicting a desert settlement and camels with a personalized plaque. Rec'd—6/25/2015. Est. Value—$750.00. Disposition—National Archives and Records Administration | His Excellency Mr. Chimed Saikhanbileg, Prime Minister of Mongolia | Non-acceptance would cause embarrassment to donor and U.S. Government.
The Honorable Joseph R. Biden, Jr., Vice President of the United States | Nigerian leather floor mat with tan and golden floral and geometric pattern. Three matching round cushions. Rec'd—7/20/2015. Est. Value—$1,000.00. Disposition—National Archives and Records Administration | His Excellency Muhammadu Buhari, President of the Federal Republic of Nigeria | Non-acceptance would cause embarrassment to donor and U.S. Government.
The Honorable Joseph R. Biden, Jr., Vice President of the United States | Thomas Mercer clock in presentation box. Rec'd—9/4/2015. Est. Value—$160,070.00. Disposition—National Archives and Records Administration | The Custodian of the Two Holy Mosques Salman bin Abdulaziz Al Saud, King of the Kingdom of Saudi Arabia | Non-acceptance would cause embarrassment to donor and U.S. Government.
The Honorable Joseph R. Biden, Jr., Vice President of the United States | Nine 12″ pieces of cotton cloth by Vlisco. Twenty-nine cotton table linen sets in assorted colors with various machine-embroidered designs in a multicolored striped bag. Painting. Lamp. Two case of champagne. Rec'd—9/9/2015. Est. Value—$7,451.00. Disposition—National Archives and Records Administration. Champagne handled pursuant to United States Secret Service policy | His Excellency Boni Yayi, President of the Republic of Benin | Non-acceptance would cause embarrassment to donor and U.S. Government.
The Honorable Joseph R. Biden, Jr., Vice President of the United States | Porcelain vase with yellow details and floral design. Book, title: Zhuangzi I. Book, title: Zhuangzi II. Rec'd—9/25/2015. Est. Value—$570.00. Disposition—National Archives and Records Administration | His Excellency Xi Jinping, President of the People's Republic of China, and Madame Peng Liyuan | Non-acceptance would cause embarrassment to donor and U.S. Government.
The Honorable Joseph R. Biden, Jr., Vice President of the United States | Blue lapis lazuli bowl. Rec'd—9/29/2015. Est. Value—$440.00. Disposition—National Archives and Records Administration | His Excellency Dr. Abdullah Abdullah, Chief Executive of the Islamic Republic of Afghanistan | Non-acceptance would cause embarrassment to donor and U.S. Government.
The Honorable Joseph R. Biden, Jr., Vice President of the United States | 830-grade silver urn. Rec'd—9/29/2015. Est. Value—$440.00. Disposition—National Archives and Records Administration | His Excellency Nicos Anastasiades, President of the Republic of Cyprus | Non-acceptance would cause embarrassment to donor and U.S. Government.
The Honorable Joseph R. Biden, Jr., Vice President of the United States | 96″ x 124″ low-pile silk Pakistani rug. Rec'd—10/21/2015. Est. Value—$8,260.00. Disposition—On display for official use | His Excellency Muhammad Nawaz Sharif, Prime Minister of the Islamic Republic of Pakistan | Non-acceptance would cause embarrassment to donor and U.S. Government.
Dr. Jill Biden, Second Lady of the United States | Milla Guirst pearl necklace. Rec'd—3/2/2015. Est. Value—$680.00. Disposition—National Archives and Records Administration | Mrs. Ana García de Hernández, First Lady of the Republic of Honduras | Non-acceptance would cause embarrassment to donor and U.S. Government.
Dr. Jill Biden, Second Lady of the United States | Black and gold robe. Royal blue and gold dress. Silver coin commemorating the 20th Anniversary of the Liberation of Kuwait. Set of six silver Kuwait 2011 coins in presentation box. Black leatherette presentation box with gilt line designs, a Kuwaiti emblem and a leather presentation envelope. Rec'd—5/14/2015. Est. Value—$2,760.00. Disposition—National Archives and Records Administration | His Highness Sheikh Sabah Al-Ahmed Al-Jaber Al-Sabah, Amir of the State of Kuwait | Non-acceptance would cause embarrassment to donor and U.S. Government.
Dr. Jill Biden, Second Lady of the United States | Large sculpture of silver gilt date palm trees encircling gold-plated sand surrounding cystal water in a presentation box. Rec'd—9/4/2015. Est. Value—$18,000.00. Disposition—National Archives and Records Administration | The Custodian of the Two Holy Mosques Salman bin Abdulaziz Al Saud, King of the Kingdom of Saudi Arabia | Non-acceptance would cause embarrassment to donor and U.S. Government.

Agency: Department of State
[Report of Tangible Gifts and Travel Furnished by the Department of State]
Name and title of person accepting the gift on behalf of the U.S. Government | Gift, date of acceptance on behalf of the U.S. Government, estimated value, and current disposition or location | Identity of foreign donor and government | Circumstances justifying acceptance
The Honorable Colin Powell, Secretary of State of the United States | 15.5″ blue porcelain mantel clock on a wooden base. Rec'd—5/31/2003. Est. Value—$395.00. Disposition—Pending transfer to General Services Administration | His Excellency Igor Ivanov, Minister of Foreign Affairs of the Russian Federation | Non-acceptance would cause embarrassment to donor and U.S. Government.
The Honorable Hillary Rodham Clinton, Secretary of State of the United States | Framed watercolor painting, title: “Celestial Water Carrying No Boundary—World Continents Sharing One Origin in The Chinese Pavilition” by Angelique Shidi. Rec'd—5/23/2010. Est. Value—$350.00. Disposition—Retained for official display at Consulate Shanghai | Mr. Yu Zhengsheng, Chairman of the National Committee of the Chinese People's Political Consultative Conference | Non-acceptance would cause embarrassment to donor and U.S. Government.
The Honorable John Kerry, Secretary of State of the United States | 49″ x 71″ silk red, pink, blue, and gray rug. Rec'd—10/22/2013. Est. Value—$5,600.00. Disposition—Pending transfer to General Services Administration | His Excellency Muhammad Nawaz Sharif, Prime Minister of the Islamic Republic of Pakistan | Non-acceptance would cause embarrassment to donor and U.S. Government.
The Honorable John Kerry, Secretary of State of the United States | Book, title: Mahmoud Farshchian. Rec'd—1/16/2015. Est. Value—$400.00. Disposition—Retained for official display | His Excellency Mohammad Javad Zarif, Minister of Foreign Affairs of the Islamic Republic of Iran | Non-acceptance would cause embarrassment to donor and U.S. Government.
The Honorable John Kerry, Secretary of State of the United States | Reproduction of a 17th century muzzle-loaded gun. Small replica statue of the Guard of Honor Martyrs Monument. Rec'd—1/13/2015. Est. Value—$490.00. Disposition—Gun retained for official display. Statue pending transfer to General Services Administration | General Raheel Sharif, Chief of Army Staff of the Islamic Republic of Pakistan | Non-acceptance would cause embarrassment to donor and U.S. Government.
The Honorable John Kerry, Secretary of State of the United States | Walnut wood tray with removable carved boxes ornamented with colored mother-of-pearl inlay and two wood coasters. Photo of the royal family. Rec'd—1/29/2015. Est. Value—$462.00. Disposition—Pending transfer to General Services Administration | Their Majesties King Abdullah II ibn Al Hussein and Queen Rania Al Abdullah, King and Queen of the Hashemite Kingdom of Jordan | Non-acceptance would cause embarrassment to donor and U.S. Government.
The Honorable John Kerry, Secretary of State of the United States | Elephant with baby elephant on a wooden presentation base with plaque. Rec'd—2/18/2015. Est. Value—$470.00. Disposition—Pending transfer to General Services Administration | The Honorable Major (Rtd) Joseph Nkaissery, MGH, Cabinet Secretary of the Interior of the Republic of Kenya | Non-acceptance would cause embarrassment to donor and U.S. Government.
The Honorable John Kerry, Secretary of State of the United States | 11.25″ blue lapis lazuli bowl with mosaic pattern. Rec'd—3/24/2015. Est. Value—$1,100.00. Disposition—Pending transfer to General Services Administration | His Excellency Mohammad Ashraf Ghani, President of the Islamic Republic of Afghanistan | Non-acceptance would cause embarrassment to donor and U.S. Government.
The Honorable John Kerry, Secretary of State of the United States | Fine wool light ivory hand-crafted traditional Moroccan robe. Brass box with a replica of an intricately designed door. Rec'd—4/9/2015. Est. Value—$550.00. Disposition—Pending transfer to General Services Administration | His Excellency Salaheddine Mezouar, Minister of Foreign Affairs and Cooperation of the Kingdom of Morocco | Non-acceptance would cause embarrassment to donor and U.S. Government.
The Honorable John Kerry, Secretary of State of the United States | 8″ small lapis bowl. Rec'd—4/13/2015. Est. Value—$600.00. Disposition—Pending transfer to General Services Administration | His Excellency Mohammad Ashraf Ghani, President of the Islamic Republic of Afghanistan | Non-acceptance would cause embarrassment to donor and U.S. Government.
The Honorable John Kerry, Secretary of State of the United States | Framed leather artwork by Zeinelkhan Mukhamedzhan depicting a traditional Kazakh house and a young bride. Rec'd—4/16/2015. Est. Value—$440.00. Disposition—Pending transfer to General Services Administration | His Excellency Karim Masimov, Prime Minister of the Republic of Kazakhstan | Non-acceptance would cause embarrassment to donor and U.S. Government.
The Honorable John Kerry, Secretary of State of the United States | Glass coffee pot with gold, black, and turquoise accents inspired by the design on a jeweled belt from the 18th century at the Topkapi Palace Museum. Rec'd—4/21/2015. Est. Value—$840.00. Disposition—Pending transfer to General Services Administration | His Excellency Mevlüt Cavuşoğlu, Minister of Foreign Affairs of the Republic of Turkey | Non-acceptance would cause embarrassment to donor and U.S. Government.
The Honorable John Kerry, Secretary of State of the United States | Framed painting depicting Kenya's “big five” animals at a drinking hole. Rec'd—5/5/2015. Est. Value—$550.00. Disposition—Pending transfer to General Services Administration | Her Excellency Amina Mohamed, Cabinet Secretary for Foreign Affairs and International Trade of the Republic of Kenya | Non-acceptance would cause embarrassment to donor and U.S. Government.
The Honorable John Kerry, Secretary of State of the United States | Sterling silver bowl with applied roses. Silver 100-year commemorative coin. Rec'd—5/12/2015. Est. Value—$400.00. Disposition—Pending transfer to General Services Administration | His Excellency Mevlüt Cavuşoğlu, Minister of Foreign Affairs of the Republic of Turkey | Non-acceptance would cause embarrassment to donor and U.S. Government.
The Honorable John Kerry, Secretary of State of the United States | Gold and silver-plated horse on top of a green malachite base housing a brass clock. Rec'd—5/14/2015. Est. Value—$45,000.00. Disposition—Pending transfer to General Services Administration | His Royal Highness Prince Mohammed bin Naif bin Abdulaziz Al Saud, Crown Prince, Deputy Prime Minister, and Minister of Interior of the Kingdom of Saudi Arabia | Non-acceptance would cause embarrassment to donor and U.S. Government.
The Honorable John Kerry, Secretary of State of the United States | William and Son London red leather clock with roman numerals and metallic trim detail. Rec'd—5/14/2015. Est. Value—$810.00. Disposition—Pending transfer to General Services Administration | His Royal Highness Prince Salman bin Hamad Al-Khalifa, Crown Prince of the Kingdom of Bahrain | Non-acceptance would cause embarrassment to donor and U.S. Government.
The Honorable John Kerry, Secretary of State of the United States | Set of ten reproduction silk screen wall hanging paintings. Rec'd—5/17/2015. Est. Value—$420.00. Disposition—Pending transfer to General Services Administration | His Excellency Wang Yi, Minister of Foreign Affairs of the People's Republic of China | Non-acceptance would cause embarrassment to donor and U.S. Government.
The Honorable John Kerry, Secretary of State of the United States | Tall silver vase containing white calla lilies, white stargazer lilies, pink peonies, green hydrangeas, white gladiolus, orange baby orchids, and white gerber daisies. Rec'd—6/3/2015. Est. Value—$500.00. Disposition—Perishable items are handled persuant to guidelines set forth by General Services Administration | His Majesty Qaboos bin Said Al Said, Sultan of Oman | Non-acceptance would cause embarrassment to donor and U.S. Government.
The Honorable John Kerry, Secretary of State of the United States | Large floral arrangment containing multicolored peonies. Assortment of Godiva chocolates. Rec'd—6/5/2015. Est. Value—$2,176.00. Disposition—Perishable items are handled persuant to guidelines set forth by General Services Administration | His Majesty Mohammed VI, King of Morocco | Non-acceptance would cause embarrassment to donor and U.S. Government.
The Honorable John Kerry, Secretary of State of the United States | Ceramic hourglass vase with gold metallic detail and inlaid stones depicting birds and flowers. Rec'd—6/24/2015. Est. Value—$740.00. Disposition—Pending transfer to General Services Administration | Her Excellency Liu Yandong, Vice Premier of the People's Republic of China | Non-acceptance would cause embarrassment to donor and U.S. Government.
The Honorable John Kerry, Secretary of State of the United States | Traditional gold, pink, and green floral and geometric patterned sitting rug with three matching sitting cushions. Rec'd—7/20/2015. Est. Value—$1,000.00. Disposition—Pending transfer to General Services Administration | His Excellency Muhammadu Buhari, President of the Federal Republic of Nigeria | Non-acceptance would cause embarrassment to donor and U.S. Government.
The Honorable John Kerry, Secretary of State of the United States | Large beaded portrait of Secretary Kerry. Rec'd—8/6/2015. Est. Value—$2,650.00. Disposition—Pending transfer to General Services Administration | His Excellency Pham Binh Minh, Deputy Prime Minister and Minister of Foreign Affairs of the Socialist Republic of Vietnam | Non-acceptance would cause embarrassment to donor and U.S. Government.
The Honorable John Kerry, Secretary of State of the United States | Box of Montecristo Cuban cigars with matches, cutter, and humidor. Rec'd—8/14/2015. Est. Value—$450.00. Disposition—Retained by the U.S. Diplomacy Center for official display | His Excellency Bruno Rodríguez Parrilla, Minister of Foreign Affairs of the Republic of Cuba | Non-acceptance would cause embarrassment to donor and U.S. Government.
The Honorable John Kerry, Secretary of State of the United States | Large gold-plated citadel flanked by date palm trees. Rec'd—9/4/2015. Est. Value—$22,000.00. Disposition—Pending transfer to General Services Administration | The Custodian of the Two Holy Mosques Salman bin Abdulaziz Al Saud, King of the Kingdom of Saudi Arabia | Non-acceptance would cause embarrassment to donor and U.S. Government.
The Honorable John Kerry, Secretary of State of the United States | 16″ x 11″ replica of an astrolabe created by Diya'al Din Muhammad in 1647. Rec'd—9/9/2015. Est. Value—$400.00. Disposition—Pending transfer to General Services Administration | His Excellency Adel al-Jubeir, Minister of Foreign Affairs of the Kingdom of Saudi Arabia | Non-acceptance would cause embarrassment to donor and U.S. Government.
The Honorable John Kerry, Secretary of State of the United States | Small carved wooden elephant. Two cases of Champagne. Large bag of ten traditional tablecloths. Ten small traditional cloths. Rec'd—9/9/2015. Est. Value—$6,045.00. Disposition—Pending transfer to General Services Administration. Perishable items handled pursuant to General Services Administration policy | His Excellency Boni Yayi, President of the Republic of Benin | Non-acceptance would cause embarrassment to donor and U.S. Government.
The Honorable John Kerry, Secretary of State of the United States | Assorted beef including Wagyu burgers, sirlon steaks, and ribeye steaks. Two terrine de foie gras. Rec'd—9/15/2015. Est. Value—$420.00. Disposition—Perishable items handled pursuant to Department of Agriculture policy | His Majesty King Abdullah II ibn Al Hussein, King of the Hashemite Kingdom of Jordan | Non-acceptance would cause embarrassment to donor and U.S. Government.
The Honorable John Kerry, Secretary of State of the United States | Large framed embroidery depicting two adult swans and four cygnets. Rec'd—9/25/2015. Est. Value—$950.00. Disposition—Pending transfer to General Services Administration | His Excellency Xi Jinping, President of the People's Republic of China | Non-acceptance would cause embarrassment to donor and U.S. Government.
The Honorable John Kerry, Secretary of State of the United States | Blue lapis lazuli jewelry box with inscription. Rec'd—10/7/2015. Est. Value—$400.00. Disposition—Pending transfer to General Services Administration | The Honorable Heraldo Muñoz, Minister of Foreign Affairs of the Republic of Chile | Non-acceptance would cause embarrassment to donor and U.S. Government.
The Honorable John Kerry, Secretary of State of the United States | Book, title: Jose Manuel Garcia-Margallo—Todos Los Cielos Conducen a Espana, signed by the Minister. Spanish guitar. Rec'd—10/18/2015. Est. Value—$3,827.00. Disposition—Pending transfer to General Services Administration | His Excellency Jose Manuel Garcia-Margallo, Minister of Foreign Affairs and Cooperation of Spain | Non-acceptance would cause embarrassment to donor and U.S. Government.
The Honorable John Kerry, Secretary of State of the United States | 9′ x 6′ beige Pakistani rug with a centered medallion filled with floral design. Rec'd—10/22/2015. Est. Value—$13,500.00. Disposition—Pending transfer to General Services Administration | His Excellency Muhammad Nawaz Sharif, Prime Minister of the Islamic Republic of Pakistan | Non-acceptance would cause embarrassment to donor and U.S. Government.
The Honorable John Kerry, Secretary of State of the United States | Hand-painted black lacquer table. Gold-plated tea set. Rec'd—11/1/2015. Est. Value—$2,050.00. Disposition—Pending transfer to General Services Administration | His Excellency Islam Karimov, President of the Republic of Uzbekistan | Non-acceptance would cause embarrassment to donor and U.S. Government.
The Honorable John Kerry, Secretary of State of the United States | Hand-carved wooden table and chair set. Two hand-carved wooden bookstands. Silk scarf. Two framed photos. Rec'd—11/1/2015. Est. Value—$1,265.00. Disposition—Pending transfer to General Services Administration | His Excellency Abdulaziz Kamilov, Minister of Foreign Affairs of the Republic of Uzbekistan | Non-acceptance would cause embarrassment to donor and U.S. Government.
The Honorable John Kerry, Secretary of State of the United States | Limited-edition “Golden Man” pen by Visconti. Various bottles of local alcohol. Rec'd—11/2/2015. Est. Value—$3,252.00. Disposition—Pending transfer to General Services Administration. Perishable items handled pursuant to General Services Administration policy | His Excellency Erlan Idrissov, Minister of Foreign Affairs of the Republic of Kazakhstan | Non-acceptance would cause embarrassment to donor and U.S. Government.
The Honorable John Kerry, Secretary of State of the United States | 50″ x 77″ hand-made carpet. Statue of the head of a bull. Rec'd—11/3/2015. Est. Value—$780.00. Disposition—Pending transfer to General Services Administration | His Excellency Gurbanguly Berdimuhamedov, President of Turkmenistan | Non-acceptance would cause embarrassment to donor and U.S. Government.
The Honorable John Kerry, Secretary of State of the United States | 64″ x 100″ wool pile maroon and beige rug. Silver-tone repoussé tin clock with floral design. Rec'd—11/18/2015. Est. Value—$995.00. Disposition—Pending transfer to General Services Administration | General Raheel Sharif, Chief of Army Staff of the Islamic Republic of Pakistan | Non-acceptance would cause embarrassment to donor and U.S. Government.
The Honorable John Kerry, Secretary of State of the United States | Personalized honorary storage cubby at Cricova Winery. Rec'd—12/4/2015. Est. Value—$545.10. Disposition—Pending transfer to General Services Administration | Mr. Iurie Carp, Director of Cricova Winery of the Republic of Moldova | Non-acceptance would cause embarrassment to donor and U.S. Government.
The Honorable John Kerry, Secretary of State of the United States | Two volume book set, title: Portolanos—Hellenic Yachting Pilot. Rec'd—12/4/2015. Est. Value—$408. Disposition—Retained for official display | His Excellency Nikos Kotzias, Minister of Foreign Affairs of the Hellenic Republic | Non-acceptance would cause embarrassment to donor and U.S. Government.
The Honorable John Kerry, Secretary of State of the United States | Three bottles of wine. Various perishable items. D.L. & Co. Nightshade candle. GG Collection antique copper large serving tray. Rec'd—12/11/2015. Est. Value—$645.00. Disposition—Pending transfer to General Services Administration. Perishable items handled pursuant to the guidelines set forth by General Services Administration | His Majesty Sultan Haji Hassanal Bolkiah Mu'izzaddin, Sultan and Yang Di-Pertuan of Brunei Darussalam | Non-acceptance would cause embarrassment to donor and U.S. Government.
Mrs. Teresa Heinz Kerry, Spouse of the Secretary of State of the United States | Five strand emerald necklace. Rec'd—1/13/2015. Est. Value—$800.00. Disposition—Pending transfer to General Services Administration | Begum Fariha Raheel, Spouse of the Chief of Army Staff of the Islamic Republic of Pakistan | Non-acceptance would cause embarrassment to donor and U.S. Government.
Mr. Richard Boucher, Consul General | Small silver-plated dolphin statue on base. Rec'd—1997. Est. Value—$500.00. Disposition—Pending transfer to General Services Administration | Foreign Government Official | Non-acceptance would cause embarrassment to donor and U.S. Government.
The Honorable William Taylor, Director of the Iraq Reconstrution Management Office | Chrome Soviet pistol in wooden display case. Rec'd—8/1/2004. Est. Value—$900.00. Disposition—Pending transfer to General Services Administration | His Excellency Petro Poroshenko, Secretary of the National Security and Defense Council of Ukraine | Non-acceptance would cause embarrassment to donor and U.S. Government.
Mr. Clifford M. Sloan, Special Envoy | Two bottles of Amouage perfume in a wooden presentation box. Rec'd—6/25/2014. Est. Value—$585.00. Disposition—Pending transfer to General Services Administration | Dr. Salem Nasser Al-Ismaily, Chairman of the Oman Center for Investment Protection and Export Development | Non-acceptance would cause embarrassment to donor and U.S. Government.
The Honorable Dana Shell Smith, Ambassador of the United States to the State of Qatar | Golden Dhow, a traditional Qatari ship. Rec'd—12/14/2014. Est. Value—$500.00. Disposition—Retained at Embassy Doha for official display | His Excellency Dr. Ali bin Fetais al-Marri, Attorney General of the State of Qatar | Non-acceptance would cause embarrassment to donor and U.S. Government.
Ms. Stacie Hankins, Consular Chief | Metal bust sculpture of recipient. Rec'd—2/1/2015. Est. Value—$500.00. Disposition—Pending transfer to General Services Administration | Mr. Dickson Osa Omoregie, Consultant for the Office of the Special Adviser to the President on Ethics and Values of the Federal Republic of Nigeria | Non-acceptance would cause embarrassment to donor and U.S. Government.
Mr. Randy Bumgardner, Assistant Chief of Protocol and General Manager for Blair House | Meissen porcelain tray with blue and white floral pattern. Rec'd—2/9/2015. Est. Value—$385.00. Disposition—Retained for official display | Her Excellency Dr. Angela Merkel, Chancellor of the Federal Republic of Germany | Non-acceptance would cause embarrassment to donor and U.S. Government.
The Honorable Antony Blinken, Deputy Secretary of State of the United States | Framed hand-embroidered silk scene depicting a boat, huts, and a dock. Gold-tone presentation plaque. Rec'd—3/18/2015. Est. Value—$480.00. Disposition—Pending transfer to General Services Administration | General Quang Tran Dai, Minister of Public Security of the Socialist Republic of Vietnam | Non-acceptance would cause embarrassment to donor and U.S. Government.
Mr. Tony Franco, Protocol Officer | Tanelli perfume gift set. Rec'd—3/18/2015. Est. Value—$910.00. Disposition—Pending transfer to General Services Administration | Embassy of the State of Qatar | Non-acceptance would cause embarrassment to donor and U.S. Government.
The Honorable Antony Blinken, Deputy Secretary of State of the United States | Green Ettinger of London leather frame containing a signed photo of the Prince of Wales and the Duchess of Cornwall. Rec'd—3/19/2015. Est. Value—$1,500.00. Disposition—Retained for official display | Their Royal Highnesses The Prince of Wales and The Duchess of Cornwall of the United Kingdom of Great Britain and Northern Ireland | Non-acceptance would cause embarrassment to donor and U.S. Government.
Mr. Randy Bumgardner, Assistant Chief of Protocol and General Manager for Blair House | Lapis lazuli vase with floral stone inlay. Rec'd—3/30/2015. Est. Value—$385.00. Disposition—Retained for official display | His Excellency Dr. Mohammad Ashraf Ghani, President of the Islamic Republic of Afghanistan | Non-acceptance would cause embarrassment to donor and U.S. Government.
Mr. Robert Waller, Consul General | 1-ounce gold commemorative coin. Rec'd—5/6/2015. Est. Value—$1,100.00. Disposition—Pending transfer to General Services Administration | His Excellency Obaid Al-Tayer, Minister of State for Financial Affairs of the United Arab Emirates | Non-acceptance would cause embarrassment to donor and U.S. Government.
The Honorable Antony Blinken, Deputy Secretary of State of the United States | Laminated coconut wood and mother-of-pearl watch box. Rec'd—5/12/2015. Est. Value—$450.00. Disposition—Pending transfer to General Services Administration | His Excellency Albert F. del Rosario, Secretary of Foreign Affairs of the Republic of the Philippines | Non-acceptance would cause embarrassment to donor and U.S. Government.
Ms. Caitlin McGarry, Protocol Officer | Tag Heuer stainless steel ladies' watch with a black dial. Rec'd—5/27/2015. Est. Value—$2,050.00. Disposition—Purchased by recipient from General Services Administration | His Royal Highness Salman Bin Hamad Al Khalifa, Crown Prince of the Kingdom of Bahrain | Non-acceptance would cause embarrassment to donor and U.S. Government.
Ambassador Peter Selfridge, Chief of Protocol | Framed signed photo of the King and Queen. Large blue floral porcelain bowl. Rec'd—6/1/2015. Est. Value—$685.00. Disposition—Framed photo retained for official display. Bowl pending transfer to General Services Administration | Their Majesties King Willem-Alexander and Queen Maxima, King and Queen of the Netherlands | Non-acceptance would cause embarrassment to donor and U.S. Government.
The Honorable Stuart Jones, Ambassador of the United States to the Republic of Iraq | Montblanc Starwalker pen. Rec'd—6/1/2015. Est. Value—$465.00. Disposition—Pending transfer to General Services Administration | His Excellency Dr. Saleem Al-Jabouri, Speaker of the Council of Representatives of the Republic of Iraq | Non-acceptance would cause embarrassment to donor and U.S. Government.
The Honorable Antony Blinken, Deputy Secretary of State of the United States | Montblanc Meisterstück platinum line classique rollerball pen. Rec'd—6/10/2015. Est. Value—$490.00. Disposition—Pending transfer to General Services Administration | His Excellency Dr. Saleem Al-Jabouri, Speaker of the Council of Representatives of the Republic of Iraq | Non-acceptance would cause embarrassment to donor and U.S. Government.
The Honorable Greta C. Holtz, Ambassador of the United States to the Sultanate of Oman | Amouage Journey perfume gift set in wooden box. Amouage Epic perfume gift set in wooden box. Rec'd—6/10/2015. Est. Value—$1,020.00. Disposition—Pending transfer to General Services Administration | Mr. Mattar al-Obaidani, Air Vice Marshal of the Royal Air Force of the Sultanate of Oman | Non-acceptance would cause embarrassment to donor and U.S. Government.
Mr. Robert Helm, Regional Security Officer | Longines men's conquest black dial watch. Rec'd—6/16/2015. Est. Value—$628.00. Disposition—Pending transfer to General Services Administration | His Excellency Sheikh Rashid Al Khalifa, Minister of Interior of the Kingdom of Bahrain | Non-acceptance would cause embarrassment to donor and U.S. Government.
The Honorable Antony Blinken, Deputy Secretary of State of the United States | Two bottles of Amouage perfume. Amouage Journey perfume set in a wooden box. Rec'd—6/19/2015. Est. Value—$1,040.00. Disposition—Pending transfer to General Services Administration | Lieutenant General Sayyid Munthir Majid Said Al Said, Head of the Omani Royal Office Liaison and Coordination Service | Non-acceptance would cause embarrassment to donor and U.S. Government.
Mr. Joseph Pennington, Consul General | Tissot Swiss Wristwatch. Rec'd—7/21/2015. Est. Value—$1,250.00. Disposition—Pending transfer to General Services Administration | The Honorable Hady Mawlud, Governor of the Erbil Province | Non-acceptance would cause embarrassment to donor and U.S. Government.
Ambassador Daniel Feldman, Special Representative for Afghanistan and Pakistan | 59″ x 88″ Afghan rug. Rec'd—7/28/2015. Est. Value—$600.00. Disposition—Pending purchase from General Services Administration | His Excellency Dr. Abdullah Abdullah, Chief Executive of the Islamic Republic of Afghanistan | Non-acceptance would cause embarrassment to donor and U.S. Government.
Ambassador Daniel Feldman, Special Representative for Afghanistan and Pakistan | 59″ x 88″ Afghan rug. Rec'd—7/29/2015. Est. Value—$400.00. Disposition—Pending purchase from General Services Administration | His Excellency Mohammad Hanif Atmar, National Security Advisor of the Islamic Republic of Afghanistan | Non-acceptance would cause embarrassment to donor and U.S. Government.
The Honorable Debra K. Jones, Ambassador of the United States to the State of Libya | Rado ladies' gold watch. Rec'd—8/3/2015. Est. Value—$1,900.00. Disposition—Pending transfer to General Services Administration | Mr. Nouri Bousahmein, President of the Tripoli-Based General National Congress of Libya | Non-acceptance would cause embarrassment to donor and U.S. Government.
The Honorable Richard Olson, Ambassador of the United States to the Islamic State of Pakistan | Emerald necklace. Rec'd—8/4/2015. Est. Value—$3,600.00. Disposition—Pending transfer to General Services Administration | General Raheel Sharif, Chief of Army Staff of the Islamic Republic of Pakistan | Non-acceptance would cause embarrassment to donor and U.S. Government.
The Honorable Richard Olson, Ambassador of the United States to the Islamic State of Pakistan | Tiffany & Co. sterling silver pen and pencil set with engraving. Rec'd—8/4/2015. Est. Value—$400.00. Disposition—Pending transfer to General Services Administration | Government of the Islamic Republic of Pakistan | Non-acceptance would cause embarrassment to donor and U.S. Government.
The Honorable Richard Olson, Ambassador of the United States to the Islamic State of Pakistan | Diamond cufflinks. Rec'd—8/26/2015. Est. Value—$7,200.00. Disposition—Pending transfer to General Services Administration | His Excellency Muhammad Ishaq Dar, Federal Minister of Finance and Narcotics Control of the Islamic Republic of Pakistan | Non-acceptance would cause embarrassment to donor and U.S. Government.
Ambassador Peter Selfridge, Chief of Protocol | Two palm trees and two camels with a clock on an onyx base. Rec'd—9/4/2015. Est. Value—$20,000.00. Disposition—Pending transfer to General Services Administration | The Custodian of the Two Holy Mosques Salman bin Abdulaziz Al Saud, King of the Kingdom of Saudi Arabia | Non-acceptance would cause embarrassment to donor and U.S. Government.
Ms. Penny Price, Senior Protocol Officer | Rolex Oyster ladies' silver and gold watch. Rec'd—9/4/2015. Est. Value—$9,700.00. Disposition—Pending transfer to General Services Administration | The Custodian of the Two Holy Mosques Salman bin Abdulaziz Al Saud, King of the Kingdom of Saudi Arabia | Non-acceptance would cause embarrassment to donor and U.S. Government.
Ms. Rosemarie Rauer, Protocol Officer | Rolex Oyster ladies' gold and silver watch. Rec'd—9/4/2015. Est. Value—$9,700.00. Disposition—Pending transfer to General Services Administration | The Custodian of the Two Holy Mosques Salman bin Abdulaziz Al Saud, King of the Kingdom of Saudi Arabia | Non-acceptance would cause embarrassment to donor and U.S. Government.
Mr. Jared Smith, Special Event Support Staff | Rolex men's silver watch. Rec'd—9/4/2015. Est. Value—$7,150.00. Disposition—Pending transfer to General Services Administration | The Custodian of the Two Holy Mosques Salman bin Abdulaziz Al Saud, King of the Kingdom of Saudi Arabia | Non-acceptance would cause embarrassment to donor and U.S. Government.
Mr. Neil Brodger, Department of State Employee | Silver-plated falcon on stand. Rec'd—9/4/2015. Est. Value—$4,500.00. Disposition—Pending transfer to General Services Administration | The Custodian of the Two Holy Mosques Salman bin Abdulaziz Al Saud, King of the Kingdom of Saudi Arabia | Non-acceptance would cause embarrassment to donor and U.S. Government.
The Honorable Linda Thomas-Greenfield, Assistant Secretary of State of the United States | Hand-painted tea set. Case of Champagne. Large bag of ten traditional tablecloths. Ten small traditional cloths. Rec'd—9/9/2015. Est. Value—$4,715.00. Disposition—Pending transfer to General Services Administration. Perishable items handled pursuant to General Services Administration policy | His Excellency Boni Yayi, President of the Republic of Benin | Non-acceptance would cause embarrassment to donor and U.S. Government.
Mrs. Micheline Tusenius, Wife of the Honorable Craig Allen, Ambassdor of the United States to Brunei Darussalam | Diamond and ruby earring and ring set. Rec'd—9/18/2015. Est. Value—$4,600.00. Disposition—Pending transfer to General Services Administration | Her Majesty Raja Isteri Pengiran Anak Haijah Saleha of Brunei Darussalam | Non-acceptance would cause embarrassment to donor and U.S. Government.
The Honorable Ann Richard, Assistant Secretary of State of the United States | Three strand pink, grey, and white pearl necklace. Rec'd—9/22/2015. Est. Value—$1,200.00. Disposition—Pending transfer to General Services Administration | Her Excellency Shahidul Haque, Foreign Secretary of Bangladesh | Non-acceptance would cause embarrassment to donor and U.S. Government.
The Honorable Antony Blinken, Deputy Secretary of State of the United States | Gold platter with blue, black, red, and green floral design. Rec'd—9/27/2015. Est. Value—$680.00. Disposition—Pending transfer to General Services Administration | His Excellency Abdulaziz Kamilov, Minister of Foreign Affairs of the Republic of Uzbekistan | Non-acceptance would cause embarrassment to donor and U.S. Government.
The Honorable Wendy Sherman, Under Secretary of State of the United States | Framed rug depicting a gold vase with multicolored flowers. Rec'd—9/28/2015. Est. Value—$1,100.00. Disposition—Purchased by the recipient from General Services Administration | Mr. Hossein Fereydoun, Special Assistant to the President of the Islamic Republic of Iran | Non-acceptance would cause embarrassment to donor and U.S. Government.
The Honorable Wendy Sherman, Under Secretary of State of the United States | Large beige rug with pastel flowers. Rec'd—9/28/2015. Est. Value—$1,150.00. Disposition—Purchased by the recipient from General Services Administration | Dr. Seyeed Abbas Araghchi, Deputy Foreign Minister for Legal and International Affairs of the Islamic Republic of Iran | Non-acceptance would cause embarrassment to donor and U.S. Government.
The Honorable Wendy Sherman, Under Secretary of State of the United States | Three strand grey and pink pearl necklace and earring set. Rec'd—9/28/2015. Est. Value—$2,140.00. Disposition—Pending transfer to General Services Administration | Her Excellency Shahidul Haque, Foreign Secretary of Bangladesh | Non-acceptance would cause embarrassment to donor and U.S. Government.
The Honorable Bathsheba Crocker, Assistant Secretary of State of the United States | Fresh water pearl necklace and earring set. Rec'd—10/6/2015. Est. Value—$980.00. Disposition—Pending transfer to General Services Administration | Her Excellency Shahidul Haque, Foreign Secretary of Bangladesh | Non-acceptance would cause embarrassment to donor and U.S. Government.
Mrs. Micheline Tusenius, Wife of the Honorable Craig Allen, Ambassdor of the United States to Brunei Darussalam | Diamond bracelet with pink and yellow stones. Rec'd—10/9/2015. Est. Value—$2,300.00. Disposition—Pending transfer to General Services Administration | Her Majesty Raja Isteri Pengiran Anak Haijah Saleha of Brunei Darussalam | Non-acceptance would cause embarrassment to donor and U.S. Government.
The Honorable Antony Blinken, Deputy Secretary of State of the United States | 9.25″ lapis lazuli bowl. Rec'd—10/16/2015. Est. Value—$385.00. Disposition—Pending transfer to General Services Administration | His Excellency Hekmat Khalil Karzai, Deputy Minister of Foreign Affairs of the Islamic Republic of Afghanistan | Non-acceptance would cause embarrassment to donor and U.S. Government.
Mr. Greg Kausner, Deputy Assistant Secretary of State of the United States | Silver tray with inscription. Haddad serving set with chicken motif. Rec'd—10/30/2015. Est. Value—$680.00. Disposition—Pending transfer to General Services Administration | General Jean Kahwagi, Commander of the Lebanese Armed Forces | Non-acceptance would cause embarrassment to donor and U.S. Government.
The Honorable Deborah Malac, Ambassador of the United States to the Republic of Uganda | Gold-plated star-shaped medallion with a red and blue sash and a matching lapel pin. Large certificate for the Order of the Star of Africa. Rec'd—12/8/2015. Est. Value—$680.00. Disposition—Retained for official display | Her Excellency Ellen Johnson Sirleaf, President of the Republic of Liberia | Non-acceptance would cause embarrassment to donor and U.S. Government.
Ms. Tracey Jacobson, Principal Deputy Assistant Secretary of State of the United States | Commemorative bag. Collection of Turkmen Neutrality Day stamps. Book, titled Neutral Turkmenistan, Ahal Teke horse statue. Commemorative pen. Red Turkmen carpet. Commemorative watch. Commemorative coin. Rec'd—12/12/2015. Est. Value—$1,753.00. Disposition—Pending transfer to General Services Administration | Government of Turkmenistan | Non-acceptance would cause embarrassment to donor and U.S. Government.
The Honorable Antony Blinken, Deputy Secretary of State of the United States | Painting, title: Nail Sultan. Rec'd—12/15/2015. Est. Value—$385.00. Disposition—Pending transfer to General Services Administration | His Excellency Elin Suleymanov, Ambassador of the Republic of Azerbaijan to the United States | Non-acceptance would cause embarrassment to donor and U.S. Government.
Employee of the Department of State | 79″ x 55″ hand-woven blue-gray wool area rug with eight petal rossettes and five borders. Rec'd—Unknown. Est. Value—$600.00. Disposition—Retained for official display | Foreign Government Official | Non-acceptance would cause embarrassment to donor and U.S. Government.
Employee of the Department of State | 61″ x 96″ beige area rug with floral detailing and a light blue and red border. Rec'd—Unknown. Est. Value—$5,200.00. Disposition—Retained for official display | Foreign Government Official | Non-acceptance would cause embarrassment to donor and U.S. Government.
Employee of the Department of State | Set of three Macau Patacas gold coins depicting an ox. Set of three Macau Patacas gold coins depicting a dragon. Rec'd—Unknown. Est. Value—$2,695.00. Disposition—Pending transfer to General Services Administration | Foreign Government Official | Non-acceptance would cause embarrassment to donor and U.S. Government.
Employee of the Department of State | Framed painting of a horse in carriage in front of the ruins of a citadel. Rec'd—Unknown. Est. Value—$400.00. Disposition—Pending transfer to General Services Administration | Foreign Government Official | Non-acceptance would cause embarrassment to donor and U.S. Government.
Employee of the Department of State | Five book set, title: Viking Age Classics—The Complete Sagas of Icelanders. Rec'd—Unknown. Est. Value—$500.00. Disposition—Pending transfer to General Services Administration | Government of the Republic of Iceland | Non-acceptance would cause embarrassment to donor and U.S. Government.
Ms. Adrienne Harehit | TRAVEL: Two tickets to the Viennese Opera Ball. Rec'd—2/11/2015. Est. Value—$2,000.00 | Dr. Georg Heindl, Consul General of Austria to the United States | Non-acceptance would cause embarrassment to donor and U.S. Government.
The Honorable Deborah Jones, Ambassador of the United States to the State of Libya | TRAVEL: Transportation, food, and lodging. Rec'd—2/14/2014. Est. Value—$567.00 | Government of the Kingdom of Morocco | Non-acceptance would cause embarrassment to donor and U.S. Government.
Mr. John Kelley, Economics Counselor | TRAVEL: Rountrip flight from Kinshasa to Lubumbashi of the Democratic Republic of the Congo. Rec'd—12/30/2015. Est. Value—$400.00 | The Honorable Moise Katumbi, Governor of Katanga Province, Democratic Republic of the Congo | Non-acceptance would cause embarrassment to donor and U.S. Government.

Agency: Administrative Office of the United States Courts
[Report of Tangible Gift and Travel Furnished by the Administrative Office of the United States Courts]
Name and title of person accepting the gift on behalf of the U.S. Government | Gift, date of acceptance on behalf of the U.S. Government, estimated value, and current disposition or location | Identity of foreign donor and government | Circumstances justifying acceptance
The Honorable Chief Justice John Roberts, United States Supreme Court | Jewelry box. Rec'd—7/10/2015. Est. Value—$674.49. Disposition—Retained for official display | The Honorable Chief Justice Itsuro Terada, Supreme Court of Japan | Non-acceptance would cause embarrassment to donor and U.S. Government.
The Honorable J. Clifford Wallace, Senior Judge, Chief Judge Emeritus, U.S. Court of Appeals for the Ninth Circuit | TRAVEL: Expenses for visit to train judges on case management. Rec'd—1/17-23/2015. Est. Value—$10,103.03 | Supreme Court of Appeals of the Republic of South Africa | Non-acceptance would cause embarrassment to donor and U.S. Government.
The Honorable J. Clifford Wallace, Senior Judge, Chief Judge Emeritus, U.S. Court of Appeals for the Ninth Circuit | TRAVEL: Expenses for visit to lecture at Supreme Court of Mexico's Bicentennial Celebration of the Mexican Constitution. Rec'd—1/30-2/6/2015. Est. Value—$4,852.33 | Supreme Court of Justice of Mexico | Non-acceptance would cause embarrassment to donor and U.S. Government.
Ms. Valerie A. Sorensen, Law Clerk to the Honorable Timothy C. Stanceu, Chief Judge, U.S. Court of International Trade | TRAVEL: Round-trip airfare, hotel, and ground transportation to Geneva, Switzerland. Rec'd—1/28-31/2015. Est. Value—$2,491.36 | World Trade Organization | Non-acceptance would cause embarrassment to donor and U.S. Government.
The Honorable Bruce McGiverin, U.S. Magistrate Judge, District of Puerto Rico | TRAVEL: English-language teaching assistant stipend for 23-year-old son. Rec'd—January-May 2015. Est. Value—$5,491.02 | Ministry of Education of the French Republic | Non-acceptance would cause embarrassment to donor and U.S. Government.
The Honorable Chief Judge Sharon Prost, U.S. Court of Appeals for the Federal Circuit | TRAVEL: Travel, hotel, meal expenses to participate in the 10th Anniversary Commemorative Symposium of the Intellectual Property High Court of Japan. Rec'd—April 2015. Est. Value—$13,982.00 | Patent Office of Japan | Non-acceptance would cause embarrassment to donor and U.S. Government.
The Honorable J. Clifford Wallace, Senior Judge, Chief Judge Emeritus, U.S. Court of Appeals of the Ninth Circuit | TRAVEL: Lodging during visit to train judges on case management and mediation. Rec'd—6/21-29/2015. Est. Value—$1,000.00 | Court of Appeals of the Republic of Uganda | Non-acceptance would cause embarrassment to donor and U.S. Government.
The Honorable Ruth Bader Ginsburg, Associate Justice, U.S. Supreme Court | TRAVEL: Round trip airfare to participate in program hosted by Supreme Court of Korea and U.S. Embassy in Seoul. Rec'd—August 2015. Est. Value—$7,222.00 | Supreme Court of the Republic of Korea | Non-acceptance would cause embarrassment to donor and U.S. Government.
The Honorable Bruce McGiverin, U.S. Magistrate Judge, District of Puerto Rico | TRAVEL: English-language teaching assistant stipend for 23-year old son. Rec'd—October-December 2015. Est. Value—$2,622.80 | Ministry of Education of the French Republic | Non-acceptance would cause embarrassment to donor and U.S. Government.
The Honorable J. Clifford Wallace, Senior Judge, Chief Judge Emeritus, U.S. Court of Appeals for the Ninth Circuit | TRAVEL: Expenses for visit to train judges on case management and mediation. Rec'd—11/10-18/2015. Est. Value—$6,300.12 | Supreme Court of the Kingdom of Thailand | Non-acceptance would cause embarrassment to donor and U.S. Government.
Mr. Christopher Herrington, Husband of Ms. Megan Scanion, Staff Attorney, U.S. Court of Appeals of the Fourth Circuit | TRAVEL: Partial expenses for attendance and participation at economics conference in Montevideo, Uruguay. Rec'd—December 2015. Est. Value—$430.00 | The Research Institute for Development, Growth, and Economics, Oriental Republic of Uruguay | Non-acceptance would cause embarrassment to donor and U.S. Government.

Agency: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable John O. Brennan, Director of the Central Intelligence Agency | Cast-metal door knockers. Rec'd—9/30/2014. Est. Value—$700.00. Disposition—Pending transfer to General Services Administration | 5 U.S.C. 7342(f)(4) | Non-acceptance would cause embarrassment to donor and U.S. Government.
The Honorable John O. Brennan, Director of the Central Intelligence Agency | Gold palm tree statue with a camel. Rec'd—11/21/2014. Est. Value—$5,000.00. Disposition—Pending transfer to General Services Administration | 5 U.S.C. 7342(f)(4) | Non-acceptance would cause embarrassment to donor and U.S. Government.
The Honorable John O. Brennan, Director of the Central Intelligence Agency | Silk rug. Rec'd—1/30/2015. Est. Value—$7,500.00. Disposition—Pending transfer to General Services Administration | 5 U.S.C. 7342(f)(4) | Non-acceptance would cause embarrassment to donor and U.S. Government.
The Honorable John O. Brennan, Director of the Central Intelligence Agency | Diamond pendant. Rec'd—2/8/2015. Est. Value—$2,500.00. Disposition—Pending transfer to General Services Administration | 5 U.S.C. 7342(f)(4) | Non-acceptance would cause embarrassment to donor and U.S. Government.
The Honorable John O. Brennan, Director of the Central Intelligence Agency | Stainless steel watch. Rec'd—2/8/2015. Est. Value—$3,500.00. Disposition—Pending transfer to General Services Administration | 5 U.S.C. 7342(f)(4) | Non-acceptance would cause embarrassment to donor and U.S. Government.
The Honorable John O. Brennan, Director of the Central Intelligence Agency | Silver mounted wood scabbard. Rec'd—2/11/2015. Est. Value—$2,000.00. Disposition—Pending transfer to General Services Administration | 5 U.S.C. 7342(f)(4) | Non-acceptance would cause embarrassment to donor and U.S. Government.
The Honorable John O. Brennan, Director of the Central Intelligence Agency | Ceramic coffee set. Rec'd—2/19/2015. Est. Value—$500.00. Disposition—Pending transfer to General Services Administration | 5 U.S.C. 7342(f)(4) | Non-acceptance would cause embarrassment to donor and U.S. Government.
The Honorable John O. Brennan, Director of the Central Intelligence Agency | Boxed gift set including cufflinks, a watch, a pen, and beads. Rec'd—2/20/2015. Est. Value—$5,000.00. Disposition—Pending transfer to General Services Administration | 5 U.S.C. 7342(f)(4) | Non-acceptance would cause embarrassment to donor and U.S. Government.
The Honorable John O. Brennan, Director of the Central Intelligence Agency | Silver tray. Rec'd—2/23/2015. Est. Value—$700.00. Disposition—Pending transfer to General Services Administration | 5 U.S.C. 7342(f)(4) | Non-acceptance would cause embarrassment to donor and U.S. Government.
The Honorable John O. Brennan, Director of the Central Intelligence Agency | Portrait of Director John Brennan. Rec'd—3/31/2015. Est. Value—$1,500.00. Disposition—Pending transfer to General Services Administration | 5 U.S.C. 7342(f)(4) | Non-acceptance would cause embarrassment to donor and U.S. Government.
The Honorable John O. Brennan, Director of the Central Intelligence Agency | Portrait of Director John Brennan. Rec'd—4/19/2015. Est. Value—$1,500.00. Disposition—Pending transfer to General Services Administration | 5 U.S.C. 7342(f)(4) | Non-acceptance would cause embarrassment to donor and U.S. Government.
The Honorable John O. Brennan, Director of the Central Intelligence Agency | Metal model of mosque entrance. Rec'd—6/1/2015. Est. Value—$700.00. Disposition—Pending transfer to General Services Administration | 5 U.S.C. 7342(f)(4) | Non-acceptance would cause embarrassment to donor and U.S. Government.
The Honorable John O. Brennan, Director of the Central Intelligence Agency | Painting of religious icon. Rec'd—6/4/2015. Est. Value—$500.00. Disposition—Pending transfer to General Services Administration | 5 U.S.C. 7342(f)(4) | Non-acceptance would cause embarrassment to donor and U.S. Government.
The Honorable John O. Brennan, Director of the Central Intelligence Agency | Silver plate. Rec'd—6/30/2015. Est. Value—$500.00. Disposition—Pending transfer to General Services Administration | 5 U.S.C. 7342(f)(4) | Non-acceptance would cause embarrassment to donor and U.S. Government.
The Honorable John O. Brennan, Director of the Central Intelligence Agency | Black leather briefcase. Cotton rug. Rec'd—7/23/2015. Est. Value—$500.00. Disposition—Pending transfer to General Services Administration | 5 U.S.C. 7342(f)(4) | Non-acceptance would cause embarrassment to donor and U.S. Government.
The Honorable John O. Brennan, Director of the Central Intelligence Agency | Box of cigars. Rec'd—8/30/2015. Est. Value—$1,500.00. Disposition—Perishable items handled pursuant to the guidelines set forth by General Services Administration | 5 U.S.C. 7342(f)(4) | Non-acceptance would cause embarrassment to donor and U.S. Government.
The Honorable John O. Brennan, Director of the Central Intelligence Agency | Painting, titled: Our Future Faces. Rec'd—9/14/2015. Est. Value—$500.00. Disposition—Pending transfer to General Services Administration | 5 U.S.C. 7342(f)(4) | Non-acceptance would cause embarrassment to donor and U.S. Government.
The Honorable John O. Brennan, Director of the Central Intelligence Agency | Chopard desk clock. Rec'd—10/3/2015. Est. Value—$750.00. Disposition—Pending transfer to General Services Administration | 5 U.S.C. 7342(f)(4) | Non-acceptance would cause embarrassment to donor and U.S. Government.
The Honorable John O. Brennan, Director of the Central Intelligence Agency | Gold and silver palm tree. Rec'd—10/4/2015. Est. Value—$5,000.00. Disposition—Pending transfer to General Services Administration | 5 U.S.C. 7342(f)(4) | Non-acceptance would cause embarrassment to donor and U.S. Government.
The Honorable John O. Brennan, Director of the Central Intelligence Agency | Silver circular box. Silver covered box. Rec'd—10/23/2015. Est. Value—$1,300.00. Disposition—Pending transfer to General Services Administration | 5 U.S.C. 7342(f)(4) | Non-acceptance would cause embarrassment to donor and U.S. Government.
The Honorable John O. Brennan, Director of the Central Intelligence Agency | Brass figurines. Rec'd—11/3/2015. Est. Value—$500.00. Disposition—Pending transfer to General Services Administration | 5 U.S.C. 7342(f)(4) | Non-acceptance would cause embarrassment to donor and U.S. Government.
The Honorable John O. Brennan, Director of the Central Intelligence Agency | Large porcelain plate in case. Rec'd—12/15/2015. Est. Value—$5,000.00. Disposition—Pending transfer to General Services Administration | 5 U.S.C. 7342(f)(4) | Non-acceptance would cause embarrassment to donor and U.S. Government.
The Honorable John O. Brennan, Director of the Central Intelligence Agency | Large silver sculpture of a falcon in case. Rec'd—12/15/2015. Est. Value—$5,000.00. Disposition—Pending transfer to General Services Administration | 5 U.S.C. 7342(f)(4) | Non-acceptance would cause embarrassment to donor and U.S. Government.
The Honorable David S. Cohen, Deputy Director of the Central Intelligence Agency | Boxed gift set including cufflinks, a watch, a pen, and beads. Rec'd—2/20/2015. Est. Value—$5,000.00. Disposition—Pending transfer to General Services Administration | 5 U.S.C. 7342(f)(4) | Non-acceptance would cause embarrassment to donor and U.S. Government.
The Honorable David S. Cohen, Deputy Director of the Central Intelligence Agency | Boga silver cufflinks. Rec'd—2/23/2015. Est. Value—$475.00. Disposition—Pending transfer to General Services Administration | 5 U.S.C. 7342(f)(4) | Non-acceptance would cause embarrassment to donor and U.S. Government.
The Honorable David S. Cohen, Deputy Director of the Central Intelligence Agency | Gold and white cased glass decanter. Rec'd—5/2015. Est. Value—$1,500.00. Disposition—Pending transfer to General Services Administration | 5 U.S.C. 7342(f)(4) | Non-acceptance would cause embarrassment to donor and U.S. Government.
The Honorable David S. Cohen, Deputy Director of the Central Intelligence Agency | Metal fishing boat on glass stand. Rec'd—5/21/2015. Est. Value—$1,500.00. Disposition—Pending transfer to General Services Administration | 5 U.S.C. 7342(f)(4) | Non-acceptance would cause embarrassment to donor and U.S. Government.
The Honorable David S. Cohen, Deputy Director of the Central Intelligence Agency | Four bone china cups and saucers. Rec'd—5/27/2015. Est. Value—$500.00. Disposition—Pending transfer to General Services Administration | 5 U.S.C. 7342(f)(4) | Non-acceptance would cause embarrassment to donor and U.S. Government.
The Honorable David S. Cohen, Deputy Director of the Central Intelligence Agency | Painting of angel in leather case, One-fifth bottle of liquor. Rec'd—6/10/2015. Est. Value—$750.00. Disposition—Pending transfer to General Services Administration. Perishable item handled pursuant to the guidelines set forth by General Services Administration | 5 U.S.C. 7342(f)(4) | Non-acceptance would cause embarrassment to donor and U.S. Government.
The Honorable David S. Cohen, Deputy Director of the Central Intelligence Agency | Large silver bowl in green box. Rec'd—7/27/2015. Est. Value—$2,000.00. Disposition—Pending transfer to General Services Administration | 5 U.S.C. 7342(f)(4) | Non-acceptance would cause embarrassment to donor and U.S. Government.
The Honorable David S. Cohen, Deputy Director of the Central Intelligence Agency | Silver dagger with belt in case. Rec'd—7/29/2015. Est. Value—$2,000.00. Disposition—Retained for official display | 5 U.S.C. 7342(f)(4) | Non-acceptance would cause embarrassment to donor and U.S. Government.
The Honorable David S. Cohen, Deputy Director of the Central Intelligence Agency | Magnifying glass and letter opener. Gold-plated coin sculpture. Rec'd—10/9/2015. Est. Value—$650.00. Disposition—Pending transfer to General Services Administration | 5 U.S.C. 7342(f)(4) | Non-acceptance would cause embarrassment to donor and U.S. Government.
The Honorable David S. Cohen, Deputy Director of the Central Intelligence Agency | Two bronze medallions in leather case. Three silver coins in leather case. Rec'd—10/12/2015. Est. Value—$450.00. Disposition—Pending transfer to General Services Administration | 5 U.S.C. 7342(f)(4) | Non-acceptance would cause embarrassment to donor and U.S. Government.
The Honorable David S. Cohen, Deputy Director of the Central Intelligence Agency | Antique revolver in leather case. Rec'd—11/14/2015. Est. Value—$500.00. Disposition—Pending purchase from General Services Administration | 5 U.S.C. 7342(f)(4) | Non-acceptance would cause embarrassment to donor and U.S. Government.
The Honorable David S. Cohen, Deputy Director of the Central Intelligence Agency | Molded glass replica of ancient landmark. Rec'd—12/16/2015. Est. Value—$500.00. Disposition—Pending transfer to General Services Administration | 5 U.S.C. 7342(f)(4) | Non-acceptance would cause embarrassment to donor and U.S. Government.
An Agency Employee | Bulgari stainless steel watch. Rec'd—7/2010. Est. Value—$1,500.00. Disposition—Pending purchase by recipient from General Services Administration | 5 U.S.C. 7342(f)(4) | Non-acceptance would cause embarrassment to donor and U.S. Government.
An Agency Employee | 9.75 carat tanzanite stone. Rec'd—6/2012. Est. Value—$5,800.00. Disposition—Pending purchase by recipient from General Services Administration | 5 U.S.C. 7342(f)(4) | Non-acceptance would cause embarrassment to donor and U.S. Government.
An Agency Employee | Franco Fontana gold necklace with pendant. Rec'd—10/12/2014. Est. Value—$700.00. Disposition—Pending purchase by recipient from General Services Administration | 5 U.S.C. 7342(f)(4) | Non-acceptance would cause embarrassment to donor and U.S. Government.
An Agency Employee | Longines men's Conquest watch. Rec'd—12/14/2014. Est. Value—$3,000.00. Disposition—Pending transfer to General Services Administration | 5 U.S.C. 7342(f)(4) | Non-acceptance would cause embarrassment to donor and U.S. Government.
An Agency Employee | Golf clubs. Wool carpet. Rec'd—5/19/2015. Est. Value—$1,358.00. Disposition—Pending transfer to General Services Administration | 5 U.S.C. 7342(f)(4) | Non-acceptance would cause embarrassment to donor and U.S. Government.
An Agency Employee | Rolex gold and stainless steel watch. Rec'd—5/26/2015. Est. Value—$7,500.00. Disposition—Pending transfer to General Services Administration | 5 U.S.C. 7342(f)(4) | Non-acceptance would cause embarrassment to donor and U.S. Government.
An Agency Employee | Black leather handbag. Rec'd—5/27/2015. Est. Value—$500.00. Disposition—Pending transfer to General Services Administration | 5 U.S.C. 7342(f)(4) | Non-acceptance would cause embarrassment to donor and U.S. Government.
An Agency Employee | Saint Honore ladies' wrist watch. Rec'd—6/8/2015. Est. Value—$760.00. Disposition—Pending transfer to General Services Administration | 5 U.S.C. 7342(f)(4) | Non-acceptance would cause embarrassment to donor and U.S. Government.
An Agency Employee | Rado stainless steel watch. Rec'd—6/11/2015. Est. Value—$1,200.00. Disposition—Pending transfer to General Services Administration | 5 U.S.C. 7342(f)(4) | Non-acceptance would cause embarrassment to donor and U.S. Government.
An Agency Employee | Men's stainless steel watch and ladies' stainless steel watch. Rec'd—6/20/2015. Est. Value—$2,300.00. Disposition—Pending transfer to General Services Administration | 5 U.S.C. 7342(f)(4) | Non-acceptance would cause embarrassment to donor and U.S. Government.
An Agency Employee | Stainless steel watch. Rec'd—6/24/2015. Est. Value—$3,500.00. Disposition—Retained for official display | 5 U.S.C. 7342(f)(4) | Non-acceptance would cause embarrassment to donor and U.S. Government.
An Agency Employee | Tissot men's stainless steel watch. Rec'd—7/13/2015. Est. Value—$695.00. Disposition—Pending transfer to General Services Administration | 5 U.S.C. 7342(f)(4) | Non-acceptance would cause embarrassment to donor and U.S. Government.
An Agency Employee | Small silver bowl in green box. Rec'd—7/27/2015. Est. Value—$700.00. Disposition—Pending transfer to General Services Administration | 5 U.S.C. 7342(f)(4) | Non-acceptance would cause embarrassment to donor and U.S. Government.
An Agency Employee | Small silver bowl in green box. Rec'd—7/27/2015. Est. Value—$700.00. Disposition—Pending transfer to General Services Administration | 5 U.S.C. 7342(f)(4) | Non-acceptance would cause embarrassment to donor and U.S. Government.
An Agency Employee | Sterling silver plate with seal. Rec'd—7/27/2015. Est. Value—$700.00. Disposition—Pending transfer to General Services Administration | 5 U.S.C. 7342(f)(4) | Non-acceptance would cause embarrassment to donor and U.S. Government.
An Agency Employee | Metal and glass chariot statue. Rec'd—7/28/2015. Est. Value—$500.00. Disposition—Pending transfer to General Services Administration | 5 U.S.C. 7342(f)(4) | Non-acceptance would cause embarrassment to donor and U.S. Government.
An Agency Employee | Tissot men's quartz watch. Rec'd—8/25/2015. Est. Value—$575.00. Disposition—Pending purchase by recipient from General Services Administration | 5 U.S.C. 7342(f)(4) | Non-acceptance would cause embarrassment to donor and U.S. Government.
An Agency Employee | Swiss Certina stainless steel watch. Rec'd—8/25/2015. Est. Value—$800.00. Disposition—Pending transfer to General Services Administration | 5 U.S.C. 7342(f)(4) | Non-acceptance would cause embarrassment to donor and U.S. Government.

Agency: Defense Intelligence Agency
[Report of Tangible Gifts Furnished by the Defense Intelligence Agency]
Name and title of person accepting the gift on behalf of the U.S. Government | Gift, date of acceptance on behalf of the U.S. Government, estimated value, and current disposition or location | Identity of foreign donor and government | Circumstances justifying acceptance
Lieutenant General Vincent R. Stewart, USMC, Director of the Defense Intelligence Agency | Wood box containing Ginseng tea and spoon set. Rec'd—7/29/2015. Est. Value—$385.00. Disposition—Perishable items handled pursuant to the guidelines set forth by the General Services Administration. Box retained for official display in Command Element Spaces | Lieutenant General Cho Bo Gun, Director of the Defense Intelligence Agency of the Republic of Korea | Non-acceptance would cause embarrassment to donor and U.S. Government.
Mr. Alex Sweidel, Intelligence Analyst | Murex gift set containing a men's watch, ladies' watch, two pens, cufflinks, and a keychain inside a decorative wooden box. Rec'd—8/23/2015. Est. Value—$1,500.00. Disposition—Pending transfer to General Services Administration | Major General Hamad bin Ali al-Attiyah, Minister of State for Defense Affairs of the State of Qatar | Non-acceptance would cause embarrassment to donor and U.S. Government.
Mr. Bruce M. MacKay, Faculty, National Intelligence University | TRAVEL: Lodging in Manila Rec'd—7/17/2015. Est. Value—$686.00 | Major General Arnold M. Quiapo, Head of the Intelligence Service of the Armed Forces of the Republic of the Philippines | Non-acceptance would cause embarrassment to donor and U.S. Government.
Mr. Bruce M. MacKay, Faculty, National Intelligence University | TRAVEL: Overnight lodging in Seoul. Rec'd—10/17/2015. Est. Value—$3,318.84 | Head of the Defense Intelligence Agency of the Republic of Korea | Non-acceptance would cause embarrassment to donor and U.S. Government.
Mr. Bruce M. MacKay, Faculty, National Intelligence University | TRAVEL: Airfare to and from Seoul, overnight lodging, and meal allowance. Rec'd—10/24/2015. Est. Value—$3,318.84 | Head of the Defense Intelligence Agency of the Republic of Korea | Non-acceptance would cause embarrassment to donor and U.S. Government.
Mr. Bruce M. MacKay, Faculty, National Intelligence University | TRAVEL: Airfare to and from Seoul, overnight lodging, and meal allowance. Rec'd—10/24/2015 Est. Value—$3,318.84 | Head of the Defense Intelligence Agency of the Republic of Korea | Non-acceptance would cause embarrassment to donor and U.S. Government.
Mr. Bruce M. MacKay, Faculty, National Intelligence University | TRAVEL: Airfare to and from Stockholm. Rec'd—10/28/2015. Est. Value—$1,979.95 | Major General Gunnar Karlson, Director of the Swedish Military Intelligence and Security Service | Non-acceptance would cause embarrassment to donor and U.S. Government.
Mr. Bruce M. MacKay, Faculty, National Intelligence University | TRAVEL: Lodging in Stockholm. Rec'd—11/14/2015. Est. Value—$2,210.00 | Major General Gunnar Karlson, Director of the Swedish Military Intelligence and Security Service | Non-acceptance would cause embarrassment to donor and U.S. Government.

Agency: Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable Chuck Hagel, Secretary of Defense of the United States | Set of four fragrances from the Abdul Samadal Qurashi collection with six sprayers in a white glossy travel case. Rec'd—11/21/2014. Est. Value—$1,450.00. Disposition—Pending transfer to General Services Administration | His Royal Highness Prince Mutaib bin Abdullah bin Abdulaziz Al Saud, Minister of the National Guard of the Kingdom of Saudi Arabia | Non-acceptance would cause embarrassment to donor and U.S. Government.
The Honorable Chuck Hagel, Secretary of Defense of the United States | Agarwood perfume and cologne in two cut-crystal with silver overlay bottles by Oudh Oil. Three silver-plated oryxes on a marble base. Incense burner with chips of kalakas in faux black reptile skin case. Orange and purple silk robe. Gold and purple wool robe with red silk lining. Rec'd—12/1/2014. Est. Value—$5,420.00. Disposition—Pending transfer to General Services Administration | His Royal Highness Prince Mutaib bin Abdullah bin Abdulaziz Al Saud, Minister of the National Guard of the Kingdom of Saudi Arabia | Non-acceptance would cause embarrassment to donor and U.S. Government.
The Honorable Chuck Hagel, Secretary of Defense of the United States | 77″ x 117″ hand-woven wool pile rug. Rec'd—12/6/2014. Est. Value—$3,880.00. Disposition—Pending transfer to General Services Administration | His Excellency Mohammad Ashraf Ghani, President of the Islamic Republic of Afghanistan | Non-acceptance would cause embarrassment to donor and U.S. Government.
The Honorable Chuck Hagel, Secretary of Defense of the United States | Pair of oval cufflinks of reconstituted Baltic amber. Four 5″ x 7″ acrylic on canvas paintings by R. Gbiorczyk. Rec'd—2/5/2015. Est. Value—$565.00. Disposition—Purchased by the recipient from General Services Administration | His Excellency Tomasz Siemoniak, Minister of National Defense of the Republic of Poland | Non-acceptance would cause embarrassment to donor and U.S. Government.
The Honorable Ashton Carter, Secretary of Defense of the United States | 80″ x 113″ Afghan woven wool pile rug displaying burgundy octagons alternating with green octagons on a tan field. Rec'd—2/21/2015. Est. Value—$3,200.00. Disposition—Pending transfer to General Services Administration | His Excellency Mohammad Ashraf Ghani, President of the Islamic Republic of Afghanistan | Non-acceptance would cause embarrassment to donor and U.S. Government.
The Honorable Ashton Carter, Secretary of Defense of the United States | Gold-plated “Dhow” boat model with two lateen sails, pendant anchor, on a rectangular base with brass cutout map of Kuwait. Rec'd—2/22/2015. Est. Value—$585.00. Disposition—Pending transfer to General Services Administration | His Excellency Sheikh Khaled Al-Jarrah Al-Sabah, Deputy Prime Minister and Minister of Defense of the State of Kuwait | Non-acceptance would cause embarrassment to donor and U.S. Government.
The Honorable Ashton Carter, Secretary of Defense of the United States | Hand-painted hand fan. Exhibition Catalog, titled: Ha Chul-kyung Solo Exhibition 2014. Rice paper painting with black branches and brown and green foliate by Chul-kyung. Rec'd—4/10/2015. Est. Value—$380.00. Disposition—Pending transfer to General Services Administration | His Excellency Han Min-koo, Minister of Defense of the Republic of Korea | Non-acceptance would cause embarrassment to donor and U.S. Government.
The Honorable Ashton Carter, Secretary of Defense of the United States | Two silver-tone Demilune members spaced apart on left. Silver-tone sailing ship with three masts and unfurled sails affixed to amber. Rec'd—5/19/2015. Est. Value—$420.00. Disposition—Pending transfer to General Services Administration | His Excellency Tomasz Siemoniak, Minister of Natinal Defense of the Republic of Poland | Non-acceptance would cause embarrassment to donor and U.S. Government.
The Honorable Ashton Carter, Secretary of Defense of the United States | William & Son arched quadrate desk clock clad in red leather with silver-tone trefoil band around bottom. Rec'd—6/30/2015. Est. Value—$810.00. Disposition—Pending transfer to General Services Administration | His Excellency Salman bin Hamad Al Khalifa, Crown Prince of the Kingdom of Bahrain | Non-acceptance would cause embarrassment to donor and U.S. Government.
The Honorable Ashton Carter, Secretary of Defense of the United States | Polished steel saber by WKC of Germany with gilt brass handguard and burgundy leather handgrip. Rec'd—8/4/2015. Est. Value—$680.00. Disposition—Pending transfer to General Services Administration | His Excellency General Mashal al-Zaben, Advisor to His Majesty the King for Military Affairs and Chairman of the Joint Chiefs of Staff of the Hashemite Kingdom of Jordan | Non-acceptance would cause embarrassment to donor and U.S. Government.
The Honorable Ashton Carter, Secretary of Defense of the United States | Model rifle with flintlock in brown stone inlaid with brass, mother-of-pearl and applied brass scrollwork. Silver-tone bowl with four gold-plated date palms mounted on plinth blocks with three gold-tone falcons. Rec'd—9/29/2015. Est. Value—$12,900.00. Disposition—Pending transfer to General Services Administration | The Custodian of the Two Holy Mosques Salman bin Abdulaziz Al Saud, King of the Kingdom of Saudi Arabia | Non-acceptance would cause embarrassment to donor and U.S. Government.
General Martin E. Dempsey, Chairman of the Joint Chiefs of Staff of the United States | Purple robe with yellow, pink, blue, and copper accents. Gown made of red fabric. Presentation box with decorative outer layer pierce cut to simulate traditional “Abu Tair” fabric. Rec'd—11/20/2014. Est. Value—$620.00. Disposition—Pending transfer to General Services Administration | His Royal Highness Prince Mutaib bin Abdullah bin Abdulaziz Al Saud, Minister of the National Guard of the Kingdom of Saudi Arabia | Non-acceptance would cause embarrassment to donor and U.S. Government.
General Martin E. Dempsey, Chairman of the Joint Chiefs of Staff of the United States | Shield shaped plaque with row of five pointed stars over anchor and a flying bird. Shadowbox with a triple mast sailing ship in sterling silver filigree. Rec'd—12/16/2014. Est. Value—$415.00. Disposition—Retained for official display at the National Defense University | His Excellency General Moeldoko, Commander in Chief of the National Defense Forces of the Republic of Indonesia | Non-acceptance would cause embarrassment to donor and U.S. Government.
General Martin E. Dempsey, Chairman of the Joint Chiefs of Staff of the United States | Statue depicting a falcon perched on a gloved hand, cast resin clad in sterling silver with 24-carat yellow gold on beak, talons, and glove edge. Rec'd—1/7/2015. Est. Value—$1,700.00. Disposition—Retained for official display at the National Defense University | His Excellency Adel al-Jubeir, Ambassador of the Kingdom of Saudi Arabia to the United States | Non-acceptance would cause embarrassment to donor and U.S. Government.
General Martin E. Dempsey, Chairman of the Joint Chiefs of Staff of the United States | Delta pen with engraved box. Rec'd—1/19/2015. Est. Value—$416.00. Disposition—Retained for official display at the National Defense University | His Excellency Luigi Binelli Mantelli, Chief of Defense of the Italian Republic | Non-acceptance would cause embarrassment to donor and U.S. Government.
General Martin E. Dempsey, Chairman of the Joint Chiefs of Staff of the United States | Purple and blue mottled, molded, and carved glass ram with spiral curved horns by Tittot. Shield shaped plaque with five petal prunus blossoms over anchor and wings. Rec'd—3/2/2015. Est. Value—$445.00. Disposition—Retained for official display at the National Defense University | General Yen The-fa, Chief of the General Staff of Taiwan Armed Forces | Non-acceptance would cause embarrassment to donor and U.S. Government.
General Martin E. Dempsey, Chairman of the Joint Chiefs of Staff of the United States | Curved steel saber with intaglio Bahraini shield emblem, curved bracket handle, silver stars, and silver-tone end cap. Rec'd—3/9/2015. Est. Value—$457.00. Disposition—Retained for official display at the National Defense University | His Excellency Field Marshal Khalifa bin Ahmed Al Khalifa, Commander in Chief of the Defense Force of the Kingdom of Bahrain | Non-acceptance would cause embarrassment to donor and U.S. Government.
General Martin E. Dempsey, Chairman of the Joint Chiefs of Staff of the United States | Chess set with veneered wood two section board and wood playing pieces. Shield plaque with a green, white, and turquoise roundel emblem. Brass medallion with map outline of Brazil. Rec'd—4/2/2015. Est. Value—$525.00. Disposition—Retained for official display at the National Defense University | His Excellency José Carlos De Nardi, Chief of the Joint Staff of the Armed Forces of the Federative Republic of Brazil | Non-acceptance would cause embarrassment to donor and U.S. Government.
General Martin E. Dempsey, Chairman of the Joint Chiefs of Staff of the United States | Rectangular brass box overlaid with lapis lazuli panels and standing figure carved in alcove of bedrock. Rec'd—7/20/2015. Est. Value—$440.00. Disposition—Retained for official display at the National Defense University | His Excellency Mohammad Ashraf Ghani, President of the Islamic Republic of Afghanistan | Non-acceptance would cause embarrassment to donor and U.S. Government.
General Martin E. Dempsey, Chairman of the Joint Chiefs of Staff of the United States | Knife made by Kaaret Kaspar Sare of Estonia whose blade was forged from a bolt formerly securing track of a Soviet tank. Handwritten document in black calligraphy with silver-tone decoration on gray paper explaining composition of knife. Rec'd—9/15/2015. Est. Value—$1,180.00. Disposition—Retained for official display at the National Defense University | Lieutenant General Riho Terras, Commander of the Defense Forces of the Republic of Estonia | Non-acceptance would cause embarrassment to donor and U.S. Government.
Mrs. Deanie Dempsey, Spouse of the Chairman of the Joint Chiefs of Staff | Hudson Bay Company white wool blanket with wide green, red, yellow, and dark blue stripes and six narrow black lines along one side. Rec'd—6/14/2015. Est. Value—$450.00. Disposition—Retained for official display at the National Defense University | General Lawson, Chief of Defense Staff of Canada | Non-acceptance would cause embarrassment to donor and U.S. Government.
General Joseph Dunford, Chairman of the Joint Chiefs of Staff of the United States | 74″ x 46″ hand-woven wool rug with twenty-eight squares repeating same design in different colors of birds. Rec'd—11/10/2015. Est. Value—$580.00. Disposition—Pending transfer to General Services Administration | His Excellency Masoud Barzani, President of the Iraqi Kurdistan Region | Non-acceptance would cause embarrassment to donor and U.S. Government.
General Joseph Dunford, Chairman of the Joint Chiefs of Staff of the United States | Model A-319 weapon marked 9 x 19mm PARA (PK-9) with black plastic handle panels. Long five strand necklace of graduated hand-faceted rubies. Rec'd—11/12/2015. Est. Value—$1,020.00. Disposition—Pending transfer to General Services Administration | General Raheel Sharif, Chief of Army Staff of the Islamic Republic of Pakistan | Non-acceptance would cause embarrassment to donor and U.S. Government.
The Honorable Michael Vickers, Under Secretary of Defense for Intelligence of the United States | Gild censer with round cup set inside topped with four knobs at the corner, four ovoid medallions over four posts. Rec'd—9/27/2014. Est. Value—$440.00. Disposition—Retained for official display in the Under Secretary's office | General Youssef bin Ali Al-Idrisi, General Intelligence President of the Kingdom of Saudi Arabia | Non-acceptance would cause embarrassment to donor and U.S. Government.
The Honorable Michael Vickers, Under Secretary of Defense for Intelligence of the United States | Cast brass vessel with flaring top over four rams' heads with curved horns. Rec'd—9/27/2014. Est. Value—$500.00. Disposition—Retained for official display in the Under Secretary's office | His Excellency Sun Jianguo, Admiral of the People's Liberation Army Navy of the People's Republic of China | Non-acceptance would cause embarrassment to donor and U.S. Government.
The Honorable David Shear, Assistant Secretary of Defense for Asian & Pacific Affairs of the United States | Hand-painted round wood plate with carved foliate scrollwork surrounding centered ivory-color rounded with four blue carnations. Rec'd—10/31/2014. Est. Value—$715.00. Disposition—Pending transfer to General Services Administration | His Excellency Bakhtiyar Gulyamov, Ambassador of the Republic of Uzbekistan | Non-acceptance would cause embarrassment to donor and U.S. Government.
The Honorable Michael Vickers, Under Secretary of Defense for Intelligence of the United States | Statue depicting falcon perched on gloved hand, cast resin clad in sterling silver with 24-carat yellow gold on beak, talons, and glove. Rec'd—12/4/2014. Est. Value—$1,700.00. Disposition—Retained for official display in the Under Secretary's office | His Excellency Adel al-Jubeir, Ambassador of the Kingdom of Saudi Arabia to the United States | Non-acceptance would cause embarrassment to donor and U.S. Government.
The Honorable Michael Vickers, Under Secretary of Defense for Intelligence of the United States | Korean rectangular document box with removable bombe lid and wall and sides covered in intricate mother-of-pearl marquetry. Rec'd—12/5/2014. Est. Value—$680.00. Disposition—Retained for official display in the Under Secretary's office | General Jung Seung Jo, Chairman of the Joint Chiefs of Staff of the Republic of Korea | Non-acceptance would cause embarrassment to donor and U.S. Government.
The Honorable Robert Work, Deputy Secretary of Defense of the United States | Blue and purple standing ram with curved horns by Tittot. Rec'd—12/16/2014. Est. Value—$385.00. Disposition—Retained for official display in the Deputy Secretary's office | General Moeldoko, Commander in Chief of the National Defense Forces of the Republic of Indonesia | Non-acceptance would cause embarrassment to donor and U.S. Government.
The Honorable Matthew Spence, Deputy Assistant Secretary of Defense for Middle East of the United States | Gucci gray wool scarf with a light blue medial stripe flanked by dark gray stripes. Rec'd—1/8/2015. Est. Value—$445.00. Disposition—Pending transfer to General Services Administration | His Excellency Jaham Al Kuwari, Ambassador of the State of Qatar to the United States | Non-acceptance would cause embarrassment to donor and U.S. Government.
The Honorable Stephen Preston, General Counsel of the Department of Defense of the United States | 76″ x 47″ hand-made silk rug depicting a Persian Qum-style hunt scene. Rec'd—1/13/2015. Est. Value—$2,200.00. Disposition—Pending transfer to General Services Administration | His Excellency Dr. Ali bin Fetais al-Marri, Attorney General of the State of Qatar | Non-acceptance would cause embarrassment to donor and U.S. Government.
The Honorable David Shear, Assistant Secretary of Defense for Asian & Pacific Affairs of the United States | Clock mounted in left-hand panel of two black lacquered panels with gold-tone image of rocks, raked sand, bird, prunus blossoms, and woven fence. Rec'd—1/13/2015. Est. Value—$380.00. Disposition—Pending transfer to General Services Administration | His Excellency Uto Takashi, Parliamentary Vice-Minister of Japan | Non-acceptance would cause embarrassment to donor and U.S. Government.
The Honorable Michael Vickers, Under Secretary of Defense for Intelligence of the United States | Rectangular brass box overlaid with lapis lazuli panels. Rec'd—2/19/2015. Est. Value—$450.00. Disposition—Purchased by recipient from General Services Administration | His Excellency Mohammad Ashraf Ghani, President of the Islamic Republic of Afghanistan | Non-acceptance would cause embarrassment to donor and U.S. Government.
The Honorable Michael Vickers, Under Secretary of Defense for Intelligence of the United States | Shadowbox picture frame with gilt phoenix and four-toed dragon flanking pearls of happiness. Gold-tone emblem with four stars. Rec'd—3/18/2015. Est. Value—$475.00. Disposition—Pending transfer to General Services Administration | His Excellency Tran Dai Quang, Minister of Public Security of the Socialist Republic of Vietnam | Non-acceptance would cause embarrassment to donor and U.S. Government.
The Honorable Paul Lewis, Special Envoy for Guantanamo Detention Closure of the United States | Two Amouage “Fate” fragrances. Rec'd—3/20/2015. Est. Value—$575.00. Disposition—Pending transfer to General Services Administration | Dr. Salem Nasser Al-Ismaily, Chairman of the Oman Center for Investment Protection and Export Development | Non-acceptance would cause embarrassment to donor and U.S. Government.
The Honorable David Shear, Assistant Secretary of Defense for Asian & Pacific Affairs of the United States | Minh Long Pottery porcelain vase with gilt rim over short-waisted neck displaying hand-painted water lilies in blue. Rec'd—3/23/2015. Est. Value—$390.00. Disposition—Pending transfer to General Services Administration | Senior Lieutenant General Nguyen Chi Vinh, Vietnam | Non-acceptance would cause embarrassment to donor and U.S. Government.
The Honorable Oliver Palmer, Deputy Assistant Secretary of Defense for East Asia of the United States | Amber molded glass dome paperweight topped by curved fish rising above sea waves by Tittot. Rec'd—4/3/2015. Est. Value—$415.00. Disposition—Pending transfer to General Services Administration | General Kao Huachu, Secretary General of Taiwan National Security Council | Non-acceptance would cause embarrassment to donor and U.S. Government.
The Honorable Michael Vickers, Under Secretary of Defense for Intelligence of the United States | SA-KA pointer weapon, SA-KA Silah Sanayi Magnum 12-76 TS 870 3″ x 37″ long. Rec'd—4/13/2015. Est. Value—$480.00. Disposition—Pending transfer to Fort Lee for official display | His Excellency Major General Mahmoud al-Subaihi, Defense Minister of the Republic of Yemen | Non-acceptance would cause embarrassment to donor and U.S. Government.
The Honorable Frank Kendall, Under Secretary of Defense, Acquistion, Technology, and Logistics of the United States | Hemispherical bowl with round disk foot, clad in lapis lazuli panels. Rec'd—5/4/2015. Est. Value—$385.00. Disposition—Purchased by recipient from General Services Administration | His Excellency Enayatullah Nazari, Acting Minister of Defense of the Islamic Republic of Afghanistan | Non-acceptance would cause embarrassment to donor and U.S. Government.
The Honorable Rebecca Chavez, Deputy Assistant Secretary of Defense for Western Hemisphere of the United States | Arch-shaped handbag by Maria's with brown leatherette curved handles and paneled in multicolored woven wool sections of geometric form. Rec'd—5/13/2015. Est. Value—$580.00. Disposition—Pending transfer to General Services Administration | His Excellency Manuel Ambrosio, Minister of Defense of the Republic of Guatemala | Non-acceptance would cause embarrassment to donor and U.S. Government.
The Honoable Roberty Work, Deputy Secretary of Defense of the United States | One men's and one ladies' wool sweater by Dale of Norway with partially zippered collar. Rec'd—9/8/2015. Est. Value—$735.00. Disposition—Pending transfer to General Services Administration | Mr. Øystein Bø, State Secretary, Royal Norwegian Ministry of Defense | Non-acceptance would cause embarrassment to donor and U.S. Government.
The Honorable David Shear, Assistant Secretary of Defense for Asian & Pacific Affairs of the United States | Set of five silver-tone round medallions, obverse marked “Australian War Memorial ANZACS, Their Spirit Our Pride 2014”. Rec'd—9/18/2015. Est. Value—$450.00. Disposition—Pending transfer to General Services Administration | Mr. Scott Dewar, First Assistant Secretary, International Policy Division of the Australian Department of Defense | Non-acceptance would cause embarrassment to donor and U.S. Government.
The Honorable Jeffrey Price, Department of Defense Executive Liaison Agent, Defense Intelligence Agency of the United States | Shinola watch 41mm Runwell Chronograph with dark brown alligator strap. Rec'd—10/23/2015. Est. Value—$1,000.00. Disposition—Pending transfer to General Services Administration | Major General Hamad bin Ali al-Attiyah, Minister of State for Defense Affairs of the State of Qatar | Non-acceptance would cause embarrassment to donor and U.S. Government.

Agency: Department of the Air Force
[Report of Tangible Gifts Furnished by the Department of the Air Force]
Name and title of person accepting the gift on behalf of the U.S. Government | Gift, date of acceptance on behalf of the U.S. Government, estimated value, and current disposition or location | Identity of foreign donor and government | Circumstances justifying acceptance
The Honorable Deborah James, Secretary of the Air Force of the United States | Gold-colored cartouche necklace and a cartouche keychain. Rec'd—11/15/2015. Est. Value—$395.00. Disposition—Pending transfer to General Services Administration | Air Marshal Yoness El Masry, Commander of the Egyptian Air Force | Non-acceptance would cause embarrassment to donor and U.S. Government.
General Mark Welsh, Chief of Staff of the United States Air Force | Black Salvadore Ferragamo purse. Men's Memphis Belle watch. Rec'd—12/18/2014. Est. Value—$1,000.00. Disposition—Transferred to General Services Administration | Lieutenant General Pasquale Presziosa, Chief of the Air Force of the Italian Republic | Non-acceptance would cause embarrassment to donor and U.S. Government.
Ms. Heidi Grant, SAF/IA | Ladies' gold-colored bracelet. Rec'd—1/19/2015. Est. Value—$600.00. Disposition—Transferred to General Services Administration | Mr. Faisal Alkamash of the Kingdom of Saudi Arabia | Non-acceptance would cause embarrassment to donor and U.S. Government.
Mr. Darren Hartford, United States Air Force | Men's JBR watch. Rec'd—6/14/2015. Est. Value—$1,200.00. Disposition—Transferred to General Services Administration | Major General Mohammed Nasser Mubarak Al-Mohannadi, Commander of the Qatar Emiri Naval Force | Non-acceptance would cause embarrassment to donor and U.S. Government.
General John Hesterman III, USAFCENT Commander | S.T. suitcase. S.T. men's watch. S.T. fountain pen. S.T. Dupont cufflinks. Rec'd—6/24/2015. Est. Value—$2,872.00. Disposition—Pending transfer to General Services Administration | Major General Mubarak Mohammed Al-Khayarin, Commander of the Qatar Emiri Air Force | Non-acceptance would cause embarrassment to donor and U.S. Government.
Mr. John Polhemus, Joint Base Andrews Protocol | Rolex Oyster men's datejust watch. Rec'd—7/22/2015. Est. Value—$9,000.00. Disposition—Transferred to General Services Administration | Embassy of the Kingdom of Saudi Arabia in the United States | Non-acceptance would cause embarrassment to donor and U.S. Government.
Ms. Heidi Grant, SAF/IA | 16GB iPad mini 2. Two memory sticks. Blue presentation box. Rec'd—8/12/2015. Est. Value—$400.00. Disposition—Transferred to General Services Administration | Mr. Al Sahalan of the Kingdom of Saudi Arabia | Non-acceptance would cause embarrassment to donor and U.S. Government.
General Charles Q. Brown, USAFCENT Commander | Gold-colored cartouche necklace and cartouche key chain and silver pendant with EAF symbol. Rec'd—8/31/2015. Est. Value—$570.00. Disposition—Pending transfer to General Services Administration | Air Marshal Youness Alsayed Hamad Almasry of the State of Qatar | Non-acceptance would cause embarrassment to donor and U.S. Government.
Mr. John Polhemus, Joint Base Andrews Protocol | Men's Bvgari Bb42ss watch. Rec'd—9/4/2015. Est. Value—$4,500.00. Disposition—Transferred to General Services Administration | The Custodian of the Two Holy Mosques Salman bin Abdulaziz Al Saud, King of the Kingdom of Saudi Arabia | Non-acceptance would cause embarrassment to donor and U.S. Government.
Mr. Zachary Sobeck, Joint Base Andrews Protocol | Rolex Oyster men's datejust watch. Rec'd—9/4/2015. Est. Value—$9,000.00. Disposition—Transferred to General Services Administration | The Custodian of the Two Holy Mosques Salman bin Abdulaziz Al Saud, King of the Kingdom of Saudi Arabia | Non-acceptance would cause embarrassment to donor and U.S. Government.
Captain Jessica L. Lemke, USAFCENT Officer | Men's KHS Tactical watch, Men's Cruiser C7147 watch. Rec'd—9/9/2015. Est. Value—$510.00. Disposition—Pending transfer to General Services Administration | Colonel Abdul Rhami of the United Arab Emirates | Non-acceptance would cause embarrassment to donor and U.S. Government.
Mr. Zachary Sobeck, Joint Base Andrews Protocol | Shinola Detroit Argonite 5021 men's watch. Rec'd—10/23/2015. Est. Value—$950.00. Disposition—Transferred to General Services Administration | Mr. Ziad Soubra of the State of Qatar | Non-acceptance would cause embarrassment to donor and U.S. Government.
Mr. John Polhemus, Joint Base Andrews Protocol | Shinola Detroit Argonite 5021 men's watch. Rec'd—10/23/2015. Est. Value—$950.00. Disposition—Transferred to General Services Administration | Mr. Ziad Soubra of the State of Qatar | Non-acceptance would cause embarrassment to donor and U.S. Government.
General Mark Welsh, Chief of Staff of the United States Air Force | Leather bomber jacket. Rec'd—12/1/2015. Est. Value—$420.00. Disposition—Pending transfer to General Services Administration | Major General Mansour al Jabour, Commander of the Royal Jordanian Air Force | Non-acceptance would cause embarrassment to donor and U.S. Government.
Ms. Heidi Grant, SAF/IA | Salman perfume. Miss Aura perfume. Black leather Equss wallet. Versace cologne. Burberry body lotion. 16GB iPad Mini. Cultural display on gold-colored metal in black velvet box. Rec'd—Unknown. Est. Value—$1,064.00. Disposition—Transferred to General Services Administration | Major General Mohammed Al-Ghanim, Commander of the Qatar Emiri Land Force | Non-acceptance would cause embarrassment to donor and U.S. Government.
Mr. Joseph Messer, Liaison Officer | 16GB iPhone 5S cell phone. Rec'd—Unknown. Est. Value—$500.00. Disposition—Transferred to General Services Administration | Mr. Khamis Alamazrouei of the United Arab Emirates | Non-acceptance would cause embarrassment to donor and U.S. Government.
General Gary North, USAFCENT Commander | Aqua Master men's watch. Rec'd—Unknown. Est. Value—$4,300.00. Disposition—Transferred to General Services Administration | Major General Hamad bin Ali al-Attiyah, Minister of State for Defense Affairs of the State of Qatar | Non-acceptance would cause embarrassment to donor and U.S. Government.
General John Hesterman III, USAFCENT Commander | Black Dior Miss Collection purse. Rec'd—Unknown. Est. Value—$3,100.00. Disposition—Transferred to General Services Administration | Major General Hamad bin Ali al-Attiyah, Minister of State for Defense Affairs of the State of Qatar | Non-acceptance would cause embarrassment to donor and U.S. Government.
General John Hesterman III, USAFCENT Commander | Multicolored Dior Miss Collection purse. Rec'd—Unknown. Est. Value—$3,500.00. Disposition—Transferred to General Services Administration | Major General Hamad bin Ali al-Attiyah, Minister of State for Defense Affairs of the State of Qatar | Non-acceptance would cause embarrassment to donor and U.S. Government.
General Mark Welsh, Chief of Staff of the United States Air Force | His & Hers Longines watch set. Rec'd—Unknown. Est. Value—$1,800.00. Disposition—Pending transfer to General Services Administration | Major General Hamad bin Ali al-Attiyah, Minister of State for Defense Affairs of the State of Qatar | Non-acceptance would cause embarrassment to donor and U.S. Government.

Agency: Department of the Army
[Report of Tangible Gifts Furnished by the Department of the Army]
Name and title of person accepting the gift on behalf of the U.S. Government | Gift, date of acceptance on behalf of the U.S. Government, estimated value, and current disposition or location | Identity of foreign donor and government | Circumstances justifying acceptance
United States Army Soldier | 22-carat gold commemorative coin for the 40th anniversary of the National Day of the State of Kuwait. Rec'd—2001. Est. Value—$1,700.00. Disposition—Pending transfer to General Services Administration | Foreign Government Official | Non-acceptance would cause embarrassment to donor and U.S. Government.
Major General Paul LaCamera, Commander of the 4th Infantry Division and Fort Carson | 22-carat yellow gold tiara with gemstone weighing 43.6 grams. Rec'd—1/22/2015. Est. Value—$9,658.00. Disposition—Retained for official display at Fort Carson Headquarters Museum | Mr. Ahmed Malgari, Islamic Republic of Afghanistan | Non-acceptance would cause embarrassment to donor and U.S. Government.
Major General Kurt Fuller, Deputy Commanding General of U.S. Forces Operations in Afghanistan | 56′ x 79′ hand-made wool rug with “cat's foot” pattern on a red background. Rec'd—4/6/2015. Est. Value—$500.00. Disposition—Purchased by the recipient from General Services Administration | Major General Abdul Raziq Sherzai, Air Wing Commander of the Kandahar Air Wing of the Afghan Air Force of the Islamic Republic of Afghanistan | Non-acceptance would cause embarrassment to donor and U.S. Government.
Colonel David S. Doyle, Deputy Commander, Train Advise Assist Command—South, Combined Joint Task Force—72nd Brigade, 10th Mountain Division (Light Infantry) | 72′ x 108′ hand-woven rug. Rec'd—10/29/2015. Est. Value—$1,404.00. Disposition—Pending purchase by the recipient from General Services Administration | Brigadier General Haji Gulalai, Garrison Commander of Camp Hero of the Islamic Republic of Afghanistan | Non-acceptance would cause embarrassment to donor and U.S. Government.

Agency: Department of the Navy
[Report of Tangible Gifts Furnished by the Department of the Navy]
Name and title of person accepting the gift on behalf of the U.S. Government | Gift, date of acceptance on behalf of the U.S. Government, estimated value, and current disposition or location | Identity of foreign donor and government | Circumstances justifying acceptance
Admiral Jonathan Grennert, Chief of Naval Operations | Multicolored print scarf. Rec'd—10/21/2011. Est. Value—$340.00. Disposition—Pending transfer to General Services Administration | Admiral Bruno Branciforte, Chief of the Navy of the Italian Republic | Non-acceptance would cause embarrassment to donor and U.S. Government.
Lieutenant Commander Michael Melocowsky, Fleet Judge Advocate, Commander of the U.S. Naval Forces Central Command | JBR watch. JBR wallet. JBR pen. Set of JBR cufflinks. Rec'd—11/29/2011. Est. Value—$1,200.00. Disposition—Pending transfer to General Services Administration | Major General Hamad bin Ali al-Attiyah, Minister of State for Defense Affairs of the State of Qatar | Non-acceptance would cause embarrassment to donor and U.S. Government.
Admiral Jonathan Grennert, Chief of Naval Operations | Vostok Europe watch. Rec'd—1/22/2013. Est. Value—$679.00. Disposition—Pending transfer to General Services Administration | Admiral Kosmas Christidis, Chief of Navy General Staff of the Hellenic Republic | Non-acceptance would cause embarrassment to donor and U.S. Government.
General James N. Mattis, Commander of the United States Central Command | Wall décor rug. Men's cashmere scarf. Men's cashmere hat. Fur trim shawl. Montegrappa Espressione fountain pen and ballpoint pen. Rec'd—2/2/2013. Est. Value—$1,245.00. Disposition—Pending transfer to General Services Administration | Sheikh Sami Abdul-Amir al-Jamaili, Chairman of the City Council of the Republic of Iraq | Non-acceptance would cause embarrassment to donor and U.S. Government.
Admiral Jonathan Grennert, Chief of Naval Operations | LIOR sterling silver gold field necklace. Rec'd—11/24/2013. Est. Value—$400.00. Disposition—Pending transfer to General Services Administration | Vice Admiral Ram Rothberg, Cammander in Chief of the Israeli Navy, Israel Defense Force, and Mrs. Michal Rothberg | Non-acceptance would cause embarrassment to donor and U.S. Government.
Admiral Jonathan Grennert, Chief of Navy Operations | Beaded snakeskin purse. Engraved wooden watch box. Rec'd—2/13/2014. Est. Value—$450.28. Disposition—Pending transfer to General Services Administration | Vice Admiral Jose Luis M. Alano, Flag Officer in Commander, Philippine Navy, and Spouse | Non-acceptance would cause embarrassment to donor and U.S. Government.
Admiral Jonathan Grennert, Chief of Navy Operations | Command medallion. Le Sac handbag. Bayanihan painting. Welcome banner. Rec'd—2/14/2014. Est. Value—$540.00. Disposition—Pending transfer to General Services Administration | Rear Admiral Jamie Bernadino, Vice Commander of the Philippine Navy | Non-acceptance would cause embarrassment to donor and U.S. Government.
Admiral Jonathan Grennert, Chief of Navy Operations | 37″ x 60″ rug. Rec'd—5/13/2014. Est. Value—$2,000.00. Disposition—Pending transfer to General Services Administration | Admiral Asif Sandila, Chief of Naval Staff of the Islamic Republic of Pakistan | Non-acceptance would cause embarrassment to donor and U.S. Government.
Admiral Jonathan Grennert, Chief of Navy Operations | Honma golf putter. Rec'd—5/26/2014. Est. Value—$506.32. Disposition—Pending transfer to General Services Administration | Admiral Katsutoshi Kawano, Chief of Staff of the Maritime Self Defense Force, Japan | Non-acceptance would cause embarrassment to donor and U.S. Government.
Admiral Jonathan Grennert, Chief of Navy Operations | TANE necklace. Book, title: Olmec—Colossal Masterworks of Ancient Mexico. Rec'd—6/25/2014. Est. Value—$756.17. Disposition—Pending transfer to General Services Administration | Admiral Vidal Francisco Soberón Sanz, Admiral of the Navy of Mexico | Non-acceptance would cause embarrassment to donor and U.S. Government.
Admiral Jonathan Grennert, Chief of Naval Operations | Fountain pen. Book. Plaque. Framed picture. Rec'd—7/21/2014. Est. Value—$400.31. Disposition—Pending transfer to General Services Administration | Admiral Giuseppe De Giorgi, Chief of the Navy of the Italian Republic | Non-acceptance would cause embarrassment to donor and U.S. Government.
Rear Admiral Fernandez L. Ponds, Former Commander of the Expeditionary Strike Group Three | Waterford crystal decanter. Rec'd—7/25/2014. Est. Value—$625.00. Disposition—Pending transfer to General Services Administration | Major General Kenrick Majaraj, Chief of Defense of Trinidad and Tobago | Non-acceptance would cause embarrassment to donor and U.S. Government.
Admiral Jonathan Grennert, Chief of Navy Operations | Ship model with stand. Rec'd—9/16/2014. Est. Value—$440.00. Disposition—Pending transfer to General Services Administration | Vice Admiral Usman O. Jibrin, Chief of Naval Staff of the Federal Republic of Nigeria | Non-acceptance would cause embarrassment to donor and U.S. Government.
Admiral Jonathan Grennert, Chief of Navy Operations | Sextant. Rec'd—11/24/2014. Est. Value—$417.00. Disposition—Pending transfer to General Services Administration | Rear Admiral Alexandru Mirşu, Commander of Naval Operations of Romania | Non-acceptance would cause embarrassment to donor and U.S. Government.
Admiral Jonathan Grennert, Chief of Navy Operations | Light brown alpaca wool shawl. Pair of silver-plated brass spurs. Rec'd—1/12/2015. Est. Value—$393.99. Disposition—Pending transfer to General Services Administration | Admiral Enrique Larrañaga, Commander in Chief of the Navy of the Republic of Chile | Non-acceptance would cause embarrassment to donor and U.S. Government.
Admiral Jonathan Grennert, Chief of Navy Operations | Sterling silver rectangular photo frame with curved sides. Rec'd—1/15/2015. Est. Value—$550.00. Disposition—Pending transfer to General Services Administration | Admiral Edmundo Deville, Commander of the Navy of the Republic of Peru and Mrs. Deville | Non-acceptance would cause embarrassment to donor and U.S. Government.
Captain Shoshana Catfield, Senior Military Assistant of the Supreme Allied Command Europe | Tissot ladies' watch, serial number T055.217.11.033.00. Rec'd—3/9/2015. Est. Value—$550.00. Disposition—Pending transfer to General Services Administration | His Majesty King Abdullah II ibn Al Hussein, King of the Hashemite Kingdom of Jordan | Non-acceptance would cause embarrassment to donor and U.S. Government.
Lieutenant Commander Benjamin Martin, Deputy Executive Assistant of the Supreme Allied Command Europe | Tissot T-touch (men's quartz black dial watch with black rubber strap. Rec'd—3/9/2015. Est. Value—$850.00. Disposition—Pending transfer to General Services Administration | His Majesty King Abdullah II ibn Al Hussein, King of the Hashemite Kingdom of Jordan | Non-acceptance would cause embarrassment to donor and U.S. Government.
Commander Michael Rak, Commanding Officer of the USS MILIUS DDG 60 | Plaque overlaid with .01″ gold inscribed with picture of the AH-64 helicopter above major landmarks in the United Arab Emirates. Rec'd—5/11/2015. Est. Value—$4,000.00. Disposition—Pending transfer to General Services Administration | Major Rashad Al Zahmi, Joint Aviation Command of the United Arab Emirates | Non-acceptance would cause embarrassment to donor and U.S. Government.
Admiral Scott H. Swift, Commander of the U.S. Pacific Fleet | Maruto Hasegawa Kosakujo professional hair dressing scissors. Rec'd—6/19/2015. Est. Value—$630.00. Disposition—Pending transfer to General Services Administration | His Excellency Toyoei Shigeeda, Consul General of Japan in Honolulu | Non-acceptance would cause embarrassment to donor and U.S. Government.

Agency: United States Central Command
[Report of Tangible Gifts Furnished by the United States Central Command]
Name and title of person accepting the gift on behalf of the U.S. Government | Gift, date of acceptance on behalf of the U.S. Government, estimated value, and current disposition or location | Identity of foreign donor and government | Circumstances justifying acceptance
Brigadier General Gregory Touhill, Chief, OMC-Kuwait | Nain rug. Rec'd—4/5/2011. Est. Value—$1,083.00. Disposition—OMC-Kuwait | Lieutenant General Khaled Al-Jarrah, Deputy Chief of Staff of the Kuwait Armed Forces | Non-acceptance would cause embarrassment to donor and U.S. Government.
Captain Matthew Stevens, Joint Special Operations Task Force—GCC Commander | William & Son travelling alarm clock. Rec'd—12/18/2012. Est. Value—$554.00. Disposition—Special Operations Central Command | His Royal Highness Salman Bin Hamad Al Khalifa, Crown Prince of the Kingdom of Bahrain | Non-acceptance would cause embarrassment to donor and U.S. Government.
Major General Kenneth Tovo, Commander of Special Operations Central Command | William & Son palladium desk clock. Rec'd—12/18/2012. Est. Value—$2,328.58. Disposition—Special Operations Central Command HQ | His Royal Highness Salman Bin Hamad Al Khalifa, Crown Prince of the Kingdom of Bahrain | Non-acceptance would cause embarrassment to donor and U.S. Government.
General James Mattis, Commander of U.S. Central Command | Clothing. Pens. Rec'd—2/2/2013. Est. Value—$1,645.00. Disposition—Transferred to General Services Administration | Sheikh Sami Abdul-Amir al-Jamaili, Chairman of the City Council of the Republic of Iraq | Non-acceptance would cause embarrassment to donor and U.S. Government.
General Lloyd Austin III, Commander of U.S. Central Command | Silk tie. Parfum spray. Cologne for men. Watch. Two leather wallets. Rec'd—4/30/2013. Est. Value—$12,489.21. Disposition—Transferred to General Services Administration | Major General Hamad bin Ali Al-Attiyah, Chief of Staff of the Air Force of the State of Qatar | Non-acceptance would cause embarrassment to donor and U.S. Government.
General Lloyd Austin III, Commander of U.S. Central Command | Wooden humidor. Cohiba cigars. Rec'd—5/1/2013. Est. Value—$1,582.50. Disposition—Transferred to General Services Administration | His Majesty King Abdullah II ibn Al Hussein, King of the Hashemite Kingdom of Jordan | Non-acceptance would cause embarrassment to donor and U.S. Government.
General Lloyd Austin III, Commander of U.S. Central Command | Gold-plated Browning 3030-cal-2 no-4 rifle. Rec'd—6/5/2013. Est. Value—$1,200.00. Disposition—Retained for official display at CENTCOM HQ | Lieutenant General Shaikh Ahmad Al-Khalid Al-Hamad Al-Sabah, Minister of Defense of the State of Kuwait | Non-acceptance would cause embarrassment to donor and U.S. Government.
General Lloyd Austin III, Commander of U.S. Central Command | Suitcase. Colognes. Perfumes. Watches. Pens. Pair of cufflinks. Rec'd—8/26/2013. Est. Value—$1,285.54. Disposition—Transferred to General Services Administration | Major General Ghanim bin Shaheen Al-Ghanim, Chief of Staff of the Qatar Armed Forces | Non-acceptance would cause embarrassment to donor and U.S. Government.
Vice Admiral Mark I. Fox, Deputy Commander | Aigner Gentleman's Verona watch. Rec'd—1/7/2014. Est. Value—$723.00. Disposition—Transferred to General Services Administration | Major General Ghanim bin Shaheen Al-Ghanim, Chief of Staff of the Qatar Armed Forces | Non-acceptance would cause embarrassment to donor and U.S. Government.
Lieutenant Commander Richard Moebius | Burberry men's Swiss Chrono watch. Rec'd—1/26/2014. Est. Value—$695.00. Disposition—Transferred to General Services Administration | Major General Ghanim bin Shaheen Al-Ghanim, Chief of Staff of the Qatar Armed Forces | Non-acceptance would cause embarrassment to donor and U.S. Government.
General Lloyd Austin III, Commander of U.S. Central Command | Concord men's watch. Al-Jazeera perfume. Montale Paris perfume. Brecourt Paris Farah perfume. Rec'd—3/27/2014. Est. Value—$2,265.27. Disposition—Transferred to General Services Administration | Major General Hamad bin Ali Al-Attiyah, Chief of Staff of the Air Force of the State of Qatar | Non-acceptance would cause embarrassment to donor and U.S. Government.
General Lloyd Austin III, Commander of U.S. Central Command | Model ship. Briefcase. Four books. Rec'd—5/16/2014. Est. Value—$652.17. Disposition—Transferred to General Services Administration | Lieutenant General Sultan bin Mohammed Al-Nu'amani, Minister of the Royal Office of the Sultanate of Oman | Non-acceptance would cause embarrassment to donor and U.S. Government.
Vice Admiral Mark I. Fox, Deputy Commander | Various gifts. Rec'd—3/31/2015. Est. Value—$4,655.90. Disposition—Transferred to General Services Administration | Lieutenant General Mohammed Al-Khodhr, Chief of the General Staff of the Kuwait Armed Forces | Non-acceptance would cause embarrassment to donor and U.S. Government.
General Lloyd Austin III, Commander of U.S. Central Command | Fountain pen. Rec'd—5/16/2015. Est. Value—$720.00. Disposition—Transferred to General Services Administration | General Jean Kahwagi, Commander of the Lebanese Armed Forces | Non-acceptance would cause embarrassment to donor and U.S. Government.
Major Kenneth C. Evans | Longines watch. Rec'd—5/20/2015. Est. Value—$1,000.00. Disposition—Transferred to General Services Administration | Brigadier General Hamad Al Neyadi, Deputy Commandant of the National Defense College of the United Arab Emirates | Non-acceptance would cause embarrassment to donor and U.S. Government.

Agency: United States Marine Corps
[Report of Tangible Gifts Furnished by the United States Marine Corps]
Name and title of person accepting the gift on behalf of the U.S. Government | Gift, date of acceptance on behalf of the U.S. Government, estimated value, and current disposition or location | Identity of foreign donor and government | Circumstances justifying acceptance
Brigadier General N.L. Cooling, Deputy Commander of the United States Marine Corps Forces Europe and Africa | 7th to 8th century B.C. bronze axe from Georgian National Museum. Rec'd—4/17/2015. Est. Value—$3,196.00. Disposition—Retained by MARFOREUR/AF for official display | Major General Vakhtang Kapanadze, Chief of General Staff of the Armed Forces of Georgia | Non-acceptance would cause embarrassment to donor and U.S. Government.
Lieutenant General Kenneth F. McKenzi, Commander of the United States Marine Corps Forces Central Command | Longines stainless steel automatic watch. Rec'd—4/21/2015. Est. Value—$1,248.00. Disposition—Accepted on behalf of the Deparment of Defense and DRMO'd | Staff Major General Saleh Al-Ameri, Commander of Land Forces of the United Arab Emirates | Non-acceptance would cause embarrassment to donor and U.S. Government.

Agency: Department of Homeland Security
[Report of Tangible Gifts and Travel Furnished by the Department of Homeland Security]
Name and title of person accepting the gift on behalf of the U.S. Government | Gift, date of acceptance on behalf of the U.S. Government, estimated value, and current disposition or location | Identity of foreign donor and government | Circumstances justifying acceptance
The Honorable Jeh Charles Johnson, Secretary of Homeland Security of the United States | 4′ x 6′ silk hand-knotted Persian rug with blue, gold, and brown details. Rec'd—6/19/2015. Est. Value—$800.00. Disposition—Retained for official display in the Secretary's office | His Excellency Dr. Ali bin Fetais al-Marri, Attorney General of the State of Qatar | Non-acceptance would cause embarrassment to donor and U.S. Government.
The Honorable Jeh Charles Johnson, Secretary of Homeland Security of the United States | Louis Vuitton dark brown leather wallet. Rec'd—9/11/2015. Est. Value—$600.00. Disposition—Retained for official display in the Secretary's office | His Excellency Abdullah Bin Nasser Khalifa Al Thani, Minister of Interior of the State of Qatar | Non-acceptance would cause embarrassment to donor and U.S. Government.
Special Agent, United States Secret Service | Hamilton men's watch. Rec'd—2014. Est. Value—$580.00. Disposition—Pending transfer to General Services Administration | The Custodian of the Two Holy Mosques Abdullah bin Abdulaziz Al Saud, King of the Kingdom of Saudi Arabia | Non-acceptance would cause embarrassment to donor and U.S. Government.
Deputy Assistant Director, United States Secret Service | Hamilton men's watch. Rec'd—2014. Est. Value—$550.00. Disposition—Pending transfer to General Services Administration | The Custodian of the Two Holy Mosques Abdullah bin Abdulaziz Al Saud, King of the Kingdom of Saudi Arabia | Non-acceptance would cause embarrassment to donor and U.S. Government.
Dr. Susan DiMarco, Spouse of the Secretary of Homeland Security of the United States | Bulgari silk scarf. Rec'd—6/30/2015. Est. Value—$455.00. Disposition—Pending transfer to General Services Administration | Mr. Angelino Alfano, Minister of Interior of the Italian Republic, and Mrs. Tiziana Miceli | Non-acceptance would cause embarrassment to donor and U.S. Government.
Assistant Special Agent in Charge, United States Secret Service | Gucci men's watch. Rec'd—8/14/2015. Est. Value—$1,000.00. Disposition—Pending transfer to General Services Administration | Her Majesty Raja Isteri Pengiran Anak Hajah Saleha of Brunei Darussalam | Non-acceptance would cause embarrassment to donor and U.S. Government.
Assistant to the Special Agent in Charge, United States Secret Service | Chanel sunglasses. Rec'd—10/29/2015. Est. Value—$460.00. Disposition—Pending transfer to General Services Administration | His Excellency Irakli Garibashvili, Prime Minister of Georgia | Non-acceptance would cause embarrassment to donor and U.S. Government.
Special Agent, United States Secret Service | Omega men's watch. Rec'd—10/29/2015. Est. Value—$1,975.00. Disposition—Purchased by recipient from General Services Administration | His Majesty King Abdullah II ibn Al Hussein, King of the Hashemite Kingdom of Jordan | Non-acceptance would cause embarrassment to donor and U.S. Government.
Special Agent, United States Secret Service | Tissot men's watch. Rec'd—10/29/2015. Est. Value—$775.00. Disposition—Purchased by recipient from General Services Administration | His Majesty King Abdullah II ibn Al Hussein, King of the Hashemite Kingdom of Jordan | Non-acceptance would cause embarrassment to donor and U.S. Government.
Special Agent, United States Secret Service | Tissot ladies' watch. Rec'd—10/29/2015. Est. Value—$470.00. Disposition—Purchased by recipient from General Services Administration | His Majesty King Abdullah II ibn Al Hussein, King of the Hashemite Kingdom of Jordan | Non-acceptance would cause embarrassment to donor and U.S. Government.
Special Agent, United States Secret Service | Longines men's watch. Rec'd—10/29/2015. Est. Value—$979.00. Disposition—Pending transfer to General Services Administration | His Majesty King Abdullah II ibn Al Hussein, King of the Hashemite Kingdom of Jordan | Non-acceptance would cause embarrassment to donor and U.S. Government.
Major Christopher Rivers | TRAVEL: Expenses for a presentation as a guest speaker at CEPOL seminar in Budapest, Hungary. Rec'd—2/9/2015. Est. Value—$2,966.00 | European Union Agency for Law Enforcement Training | Non-acceptance would cause embarrassment to donor and U.S. Government.
Mr. Joseph P. Durand, Special Agent | TRAVEL: Airline ticket and hotel in Singapore for four-day conference on International Money Laundering and Intellectual Property Rights. Rec'd—7/6/2015. Est. Value—$1,600.00 | The Association of Banks in Singapore | Non-acceptance would cause embarrassment to donor and U.S. Government.
Mr. Nathan Weichelt Rodgers, Civil Emergency Planning Officer, U.S. Mission to NATO | TRAVEL: Airfare, ground transportation, lodging, and meals for participation in a Romanian Search and Rescue and Emergency Services Conference. Rec'd—9/30/2015. Est. Value—$600.00 | Department of Emergency Situations, Ministry of International Affairs of Romania | Non-acceptance would cause embarrassment to donor and U.S. Government.
Mr. Sherman Wooden, Special Agent | TRAVEL: Guest speaker at 2015 Ontario Provincial Strategy workshop in Niagara Falls, Canada. Rec'd—1/26/2014. Est. Value—$6872.11 | Ontario Provincial Police of Canada | Non-acceptance would cause embarrassment to donor and U.S. Government.

Agency: Department of Justice
[Report of Tangible Gifts and Gifts of Travel Furnished by the Department of Justice]
Name and title of person accepting the gift on behalf of the U.S. Government | Gift, date of acceptance on behalf of the U.S. Government, estimated value, and current disposition or location | Identity of foreign donor and government | Circumstances justifying acceptance
The Honorable Eric Holder, Attorney General of the United States | Set of Christofle silver bookends. Rec'd—1/19/2015. Est. Value—$650.00. Disposition—Pending transfer to General Services Administration | The Honorable Bernard Cazeneuve, Minister of Interior of the French Republic | Non-acceptance would cause embarrassment to donor and U.S. Government.
The Honorable Eric Holder, Attorney General of the United States | Case with rug. Rec'd—1/22/2015. Est. Value—$700.00. Disposition—Pending transfer to General Services Administration | His Excellency Dr. Ali bin Fetais al-Marri, Attorney General of the State of Qatar | Non-acceptance would cause embarrassment to donor and U.S. Government.
RADM Chris A. Bina, PharmD, Senior Deputy Assistant of the Health Services Division of the Federal Bureau of Prisons | Jalaba, a Moroccan ceremonial dress, with shoes. Walther Glass ornamental bowl. Rec'd—10/28/2015. Est. Value—$448.00. Disposition—Retained for official display in the Division Office Suite | Mr. Abdelaziz Shiaa, Director of Fez Penitentiary of the Kingdom of Morocco | Non-acceptance would cause embarrassment to donor and U.S. Government.
Mr. Bernardo Arellano | TRAVEL: Expenses for travel to attend specialized course on Evidence Management of Illicit Small Arms and Ammunition. Rec'd—3/25-27/2015. Est. Value—$1,100.00 | United Nations Regional Center for Peace, Disarmament and Development in Latin America and the Caribbean | Non-acceptance would cause embarrassment to donor and U.S. Government.
Mr. Jeremy Scheetz, Intelligence Operations Specialist | TRAVEL: Expenses for travel to attend a symposium in Bangkok, Thailand on World Strategy to Combat Outlaw Motorcycle Gangs. Rec'd—5/16-23/2015. Est. Value—$2,794.95 | Australian Federal Police | Non-acceptance would cause embarrassment to donor and U.S. Government.
Mr. Jeremy Scheetz, Intelligence Operations Specialist | TRAVEL: Expenses for travel to attend a symposium in The Hague, The Netherlands on World Strategy to Combat Outlaw Motorcycle Gangs. Rec'd—11/16-21/2015. Est. Value—$2,049.00 | European Union Agency for Law Enforcement Training | Non-acceptance would cause embarrassment to donor and U.S. Government.
Mr. Michael Keller, ATF Senior Electrical Engineer | TRAVEL: Expenses for travel to speak at the Ontario Provincial Police Conference. Rec'd—12/1-3/2015. Est. Value—$1,361.18 | Ontario Provincial Police of Canada | Non-acceptance would cause embarrassment to donor and U.S. Government.
Mr. James Lord, ATF Senior Fire Research Engineer | TRAVEL: Expenses for travel to speak at the Ontario Provincial Police Conference. Rec'd—12/1-3/2015. Est. Value—$1,385.50 | Ontario Provincial Police of Canada | Non-acceptance would cause embarrassment to donor and U.S. Government.

Agency: Department of Treasury
[Report of Tangible Gifts and Travel Furnished by the Department of Treasury]
Name and title of person accepting the gift on behalf of the U.S. Government | Gift, date of acceptance on behalf of the U.S. Government, estimated value, and current disposition or location | Identity of foreign donor and government | Circumstances justifying acceptance
The Honorable Jacob Lew, Secretary of the Treasury of the United States | Limited-edition international silver coin collection—rugby world champions 2011. Rec'd—10/30/2014. Est. Value—$406.00. Disposition—Pending transfer to General Services Administration | Ms. Gill Marcus, Governor of the South African Reserve Bank | Non-acceptance would cause embarrassment to donor and U.S. Government.
The Honorable Daniel Glaser, Assistant Secretary of Treasury of the United States | Men's Rolex Oyster Perpetual Datejust watch with silver band and black face. Rec'd—9/17/2015. Est. Value—$7,300.00. Disposition—Pending transfer to General Services Administration | Ambassador Nasser al-Sabeeh, Assistant Minister of Foreign Affairs for Follow-up and Coodination Affairs of the Ministry of Foreign Affairs of the State of Kuwait | Non-acceptance would cause embarrassment to donor and U.S. Government.

Agency: Environmental Protection Agency
[Report of Travel Furnished by the Environmental Protection Agency]
Name and title of person accepting the gift on behalf of the U.S. Government | Gift, date of acceptance on behalf of the U.S. Government, estimated value, and current disposition or location | Identity of foreign donor and government | Circumstances justifying acceptance
Mr. William A. Sonntag, Office of International and Tribal Affairs, Office of Global Affairs and Policy, International Organizations and Policy | TRAVEL: Lodging, daily meals, and incidental expenses at the UN rate for Bonn, Germany. Rec'd—2/2-6/2015. Est. Value—$1,100.00 | Professor Jacqueline McGlade, Chief Scientist, Division of Early Warning and Assessment, United Nations Environment Program | Non-acceptance would cause embarrassment to donor and U.S. Government.
Ms. Lesley V. D'Anglada, Microbiologist, Health and Ecological Criteria Division, Office of Science and Technology, Office of Water | TRAVEL: Meals, transportation, incidental expenses. Rec'd—2/19-27/2015. Est. Value—$1,367.00 | World Health Organization | Non-acceptance would cause embarrassment to donor and U.S. Government.
Dr. Santhini Ramasamy, Senior Scientist, Office of Science and Technology, Office of Water | TRAVEL: Meals, transportation, incidental expenses. Rec'd—2/19-27/2015 Est. Value—$1,106.00 | World Health Organization | Non-acceptance would cause embarrassment to donor and U.S. Government.
Dr. Matt Martin, Research Biologist, National Center for Computational Toxicology, Office of Research and Development | TRAVEL: Meals, transportation, incidental expenses, and lodging in Lyon, France. Rec'd—3/1-11/2015 Est. Value—$1,689.00 | International Agency for the Research on Cancer | Non-acceptance would cause embarrassment to donor and U.S. Government.
Dr. Andrew J.R. Gillespie, Ph.D., Associate Director, National Exposure Research Laboratory | TRAVEL: Transportation via university vehicle to and from various field research and demonstration sites around Zvolen; lodging for approximately eighteen days and University housing in Zvolen and Tatras, Slovakia. Rec'd—3/8-26/2015. Est. Value—$1,000.00 | Faculty of the Forestry of the Technical University in Zvolen, Slovak Republic | Non-acceptance would cause embarrassment to donor and U.S. Government.
Mr. William A. Sonntag, Office of International and Tribal Affairs, Office of Global Affairs and Policy, International Organizations and Policy | TRAVEL: Lodging, meals, and incidental expenses while in Geneva, Switzerland. Rec'd—3/28-4/1/2015. Est. Value—$1,575.00 | Professor Jacqueline McGlade, Chief Scientist, Division of Early Warning and Assessment, United Nations Environment Program | Non-acceptance would cause embarrassment to donor and U.S. Government.
Dr. Andrew J.R. Gillespie, Ph.D., Associate Director, National Exposure Research Laboratory | TRAVEL: Transportation via government vehicle to and from various field research and demonstration sites throughout Macedonia including Skopje, Jasen, Gevgelia, Mavrovo, Pellister, and Stip. Rec'd—3/31-4/29/2015. Est. Value—$1,000.00 | Ministry of Agriculture, Forestry, and Water Economy of the Republic of Macedonia | Non-acceptance would cause embarrassment to donor and U.S. Government.
Mr. Eugene Jablonowski, Health Physicist, Region 5 Superfund Emergency Response | TRAVEL: Meals, lodging, local transportation, baggage, laundry, incidentals, and foreign transaction fees while in Vienna, Austria. Rec'd—5/2-9/2015. Est. Value—$1,380.00 | Nuclear Fuel Cycle and Waste Technology Divisions, Waste Technology Section, and the Nuclear Science and Instrumentation Laboratory Division's Physics Section of the International Atomic Energy Agency | Non-acceptance would cause embarrassment to donor and U.S. Government.
Ms. Stephanie Adrian, Office of International and Tribal Affairs | TRAVEL: Lodging, meals, and incidentals while in Panama City, Panama. Rec'd—5/3-9/2015. Est. Value—$1,648.00 | United Nations Environment Program | Non-acceptance would cause embarrassment to donor and U.S. Government.
Dr. Terry Keating, Senior Scientist, Office of Air and Radiation | TRAVEL: Lodging, meals, transportation, and incidental expenses while in Ottawa, Canada. Rec'd—5/26-29/2015. Est. Value—$1,288.00 | Division of Early Warning and Assessment, United Nations Environment Program | Non-acceptance would cause embarrassment to donor and U.S. Government.
Dr. John L. Kough, Ph.D., Senior Scientist, Biopesticides and Pollution Prevention Division, Office of Pesticide Programs | TRAVEL: Meals, transportation, incidental expenses, and lodging while in Geneva, Switzerland. Rec'd—5/26-31/2015. Est. Value—$1,332.00 | Dr. Anna Drexler, Program Officer, Department of Control of Neglected Tropical Diseases, World Health Organization | Non-acceptance would cause embarrassment to donor and U.S. Government.
Mr. William A. Sonntag, Office of International and Tribal Affairs, Office of Global Affairs and Policy, International Organizations and Policy | TRAVEL: Lodging, meals, transportation, and incidental expenses while in Ottawa, Canada. Rec'd—5/26-29/2015. Est. Value—$1,248.00 | Division of Early Warning and Assessment, United Nations Environment Program | Non-acceptance would cause embarrassment to donor and U.S. Government.
Mr. Kent Thomas, Research Physical Scientist, Office of Research and Development | TRAVEL: Meals, transportation, incidental expenses, and lodging while in Lyon, France. Rec'd—5/31-6/10/2015. Est. Value—$1,984.38 | International Agency for Research on Cancer | Non-acceptance would cause embarrassment to donor and U.S. Government.
Mr. Paul Alexander Almodovar, Lead Environmental Engineer, Office of Air and Radiation, Office of Air Quality Planning and Standard | TRAVEL: Meals, lodging, and public transportation. Rec'd—6/9-13/2015. Est. Value—$1,662.05 | United Nations Environmental Program | Non-acceptance would cause embarrassment to donor and U.S. Government.
Dr. Terry Keating, Senior Scientist, Office of Air and Radiation | TRAVEL: Lodging, meals, incidentals, and local transportation while in Zurich, Switzerland. Rec'd—8/8-12/2015. Est. Value—$1,092.50 | World Meteorological Organization | Non-acceptance would cause embarrassment to donor and U.S. Government.
Dr. Ruth A. Etzel, Director, Office of Children's Health Protection | TRAVEL: Meals, transportation, incidental expenses, and lodging while in Lyon, France. Rec'd—8/10-15/2015. Est. Value—$904.00 | Dr. Joachim Schuz, Head, Section of Environment and Radiation, International Agency for Research on Cancer | Non-acceptance would cause embarrassment to donor and U.S. Government.
Ms. Sasha Koo-Oshima, senior International Water Policy Advisor, Office of Water | TRAVEL: Lodging, meals, airport transportation, and World Water Week registration fee while in Stockholm, Sweden. Rec'd—8/22-25/2015. Est. Value—$1,716.00 | International Hydrological Program, United Nations Educational, Scientific, and Cultural Organization | Non-acceptance would cause embarrassment to donor and U.S. Government.
Mr. Michael Doherty, Chemist, Office of Pesticide Programs | TRAVEL: Meals and incidental expenses while in Geneva, Switzerland. Rec'd—9/10-24/2015. Est. Value—$2,802.24 | Food and Agriculture Organization of the United Nations | Non-acceptance would cause embarrassment to donor and U.S. Government.
Mr. Phillip G. Dickerson, Jr., Group Leader, Office of Air Quality Planning and Standards | TRAVEL: Daily Subsistence Allowance for six days for duty station in Nairobi, Kenya. Rec'd—9/13-18/2015. Est. Value—$1,872.00 | United Nations Environment Program | Non-acceptance would cause embarrassment to donor and U.S. Government.
Dr. Prakashchandra V. Shah, Chief, IIAB, Registration Division, OPP, OSCPP | TRAVEL: Meals, hotel, local transportations, transportation to and from airports, and other incidental expenses while in Rome, Italy. Rec'd—9/13-25/2015. Est. Value—$4,847.00 | World Health Organization | Non-acceptance would cause embarrassment to donor and U.S. Government.
Dr. Lynn Flowers, Ph.D., DABT, Associate Director for Health, National Center for Environmental Assessment | TRAVEL: Meals, local transportation to and from hotel to meeting, incidental expenses, and lodging while in Bonn, Germany. Rec'd—9/21/2015. Est. Value—$986.00 | World Health Organization | Non-acceptance would cause embarrassment to donor and U.S. Government.
Dr. Thomas Luben, Senior Epidemiologist, Office of Research and Development, National Center for Environmental Assessment | TRAVEL: Lodging, meals, and incidental expenses while in Bonn, Germany. Rec'd—9/28-10/2/2015. Est. Value—$1,100.00 | European Center for Environment and Health, World Health Organization | Non-acceptance would cause embarrassment to donor and U.S. Government.
Ms. Kimberly Nesci, Chief, Microbial Pesticides Branch, Biopesticides and Pollution Prevention Division, Office of Pesticide Programs, Office of Chemical Safety and Pollution Prevention | TRAVEL: Transportation to and from airport, lodging, meals, and other incidental expenses. Rec'd—10/1/2015. Est. Value—$1,472.00 | Food and Agriculture Organization of the United Nations | Non-acceptance would cause embarrassment to donor and U.S. Government.
Mr. Doug Linden, Environmental Engineer, Region 9 | TRAVEL: Meals and incidental expenses while in San Jose, Costa Rica. Rec'd—11/14-12/2/2015. Est. Value—$4,150.00 | Ms. Eugenia Rodriguez, National Commission of Emergencies of the Republic of Costa Rica | Non-acceptance would cause embarrassment to donor and U.S. Government.
Mr. Eugene Jblonowski, Health Physicist, Region 5 Superfund Emergency Response | TRAVEL: Meals, lodging, and local transportation while in Vienna, Austria. Rec'd—11/28-12/5/2015. Est. Value—$926.27 | Department of Nuclear Science and Applications, Physical and Chemical Sciences Section, International Atomic Energy Agency | Non-acceptance would cause embarrassment to donor and U.S. Government.

Agency: Federal Communications Commission
[Report of Travel Furnished by the Federal Communications Commission]
Name and title of person accepting the gift on behalf of the U.S. Government | Gift, date of acceptance on behalf of the U.S. Government, estimated value, and current disposition or location | Identity of foreign donor and government | Circumstances justifying acceptance
Ms. Nese Guendelsberger, Deputy Bureau Chief, International Bureau | TRAVEL: Conference travel tickets to Paris, France to Barcelona, Spain, and back to Paris, France, and hotel expenses. Rec'd—6/16-18/2015. Est. Value—$438.00 | Barcelona Institute of International Studies | Non-acceptance would cause embarrassment to donor and U.S. Government.
Mr. Jonathan Levy, Deputy Chief Economist, Office of Strategic Planning and Policy Analysis | TRAVEL: Local transportation, meals, and hotel accomodation in connection with the participation and speaking at the International Seminar on Comparative Regulations of Audiovisual Services. Rec'd—7/5-7/2015. Est. Value—$742.00 | United Nations Educational Scientific and Cultural Organization | Non-acceptance would cause embarrassment to donor and U.S. Government.
Mr. Matthew DelNero, Bureau Chief, Wireline Competition Bureau | TRAVEL: Local transportation, meals, and hotel accomodation in connection with attendance and speaking on a panel at the 2nd Ministerial Forum for Broadband. Rec'd—9/9-11/2015. Est. Value—$946.00 | Inter-American Development Bank | Non-acceptance would cause embarrassment to donor and U.S. Government.
Mr. Jonathan Levy, Deputy Chief Economist, Office of Strategic Planning and Policy Analysis | TRAVEL: Hotel, meals, and flight expenses to and from Bangkok, Thailand to speak at the National Broadcasting and Telecommunications Commission Seminar and Conference. Rec'd—10/27-30/2015. Est. Value—$9,278.00 | National Broadcasting and Telecommunications Commission | Non-acceptance would cause embarrassment to donor and U.S. Government.
Ms. Tracey Weisler, Senior Advisor for Organization for Economic Cooperation and Development and International ICT Access Issues, International Bureau | TRAVEL: Hotel, meals, and flight expenses to and from Joao Pessoa, Brazil to speak at the Internet Governance Forum. Rec'd—11/9-13/2015. Est. Value—$625.24 | Organization for Economic Cooperation and Development | Non-acceptance would cause embarrassment to donor and U.S. Government.

Agency: National Science Foundation
[Report of Travel Furnished by the National Science Foundation]
Name and title of person accepting the gift on behalf of the U.S. Government | Gift, date of acceptance on behalf of the U.S. Government, estimated value, and current disposition or location | Identity of foreign donor and government | Circumstances justifying acceptance
Dr. Linda Hyman, Division Director MCB | TRAVEL: Lodging and meals at a workshop. Rec'd—11/8-12/2015. Est. Value—$600.00 | The UK Biotechnology and Biological Sciences Research Council (BBSRC) | Non-acceptance would cause embarrassment to donor and U.S. Government.

Agency: Office of the Director of National Intelligence
[Report of Tangible Gifts Furnished by the Office of the Director of National Intelligence]
Name and title of person accepting the gift on behalf of the U.S. Government | Gift, date of acceptance on behalf of the U.S. Government, estimated value, and current disposition or location | Identity of foreign donor and government | Circumstances justifying acceptance
5 U.S.C. 7342(f)(4) | Chopard LUC white gold men's watch with inscription engraved on back. Allegro ballpoint pen. Chopard white gold cufflinks. Single strand of yellow plastic prayer beads. Rec'd—2/20/2015. Est. Value—$13,000.00. Disposition—Retained for official display | 5 U.S.C. 7342(f)(4) | Non-acceptance would cause embarrassment to donor and U.S. Government.
5 U.S.C. 7342(f)(4) | Turquoise, red, and black enameled wood single pedestal round low side table. Orange and red embroidered gauze shawl. Rec'd—2/26/2015. Est. Value—$450.00 Disposition—Retained for official use | 5 U.S.C. 7342(f)(4) | Non-acceptance would cause embarrassment to donor and U.S. Government.
5 U.S.C. 7342(f)(4) | Minh Long floral majolica and gilt lotus vase. Gilt metal presentation plaque. Pale yellow amber nugget necklace and bracelet in a polychrome red and gold black lacquer case. Prime Art 99.9 pure (24-carat) Florentine yellow textured gold bamboo plaque in a shadow box frame. Rec'd—3/16/2015. Est. Value—$1,200.00 Disposition—Retained for official use | 5 U.S.C. 7342(f)(4) | Non-acceptance would cause embarrassment to donor and U.S. Government.
5 U.S.C. 7342(f)(4) | Framed photograph of two ravens in flight. Rec'd—4/14/2015. Est. Value—$500.00 Disposition—Retained for official use | 5 U.S.C. 7342(f)(4) | Non-acceptance would cause embarrassment to donor and U.S. Government.
5 U.S.C. 7342(f)(4) | Silver bookmark and keychain in a fitted black felt case. Rec'd—6/29/2015. Est. Value—$500.00 Disposition—Retained for official use | 5 U.S.C. 7342(f)(4) | Non-acceptance would cause embarrassment to donor and U.S. Government.
5 U.S.C. 7342(f)(4) | Italian dark rain pebble leather money clip wallet by Salvatore Ferragamo. 2010 Opus One 750ml bottle of red wine. Rec'd—7/21/2015. Est. Value—$650.00 Disposition—Retained for official use. Perishable items handled pursuant to the guidelines set forth by General Services Administration | 5 U.S.C. 7342(f)(4) | Non-acceptance would cause embarrassment to donor and U.S. Government.
5 U.S.C. 7342(f)(4) | Crystal replica of Ministry of the Interior with a presentation paper plaque in a fitted blue velvet case. Rec'd—8/25/2015. Est. Value—$750.00 Disposition—Retained for official use | 5 U.S.C. 7342(f)(4) | Non-acceptance would cause embarrassment to donor and U.S. Government.
5 U.S.C. 7342(f)(4) | 925-silver filigree model of “The Borobudur Temple” in a fitted shadow box frame. Rec'd—9/22/2015. Est. Value—$700.00 Disposition—Retained for official use | 5 U.S.C. 7342(f)(4) | Non-acceptance would cause embarrassment to donor and U.S. Government.
5 U.S.C. 7342(f)(4) | Montblanc Meisterstuck white metal banded black resin fountain pen with 14-carat gold nib in a fitted black vinyl case. Two presentation medals in a fitted blue and mahogany finish case. Rec'd—10/26/2015. Est. Value—$900.00 Disposition—Retained for official use | 5 U.S.C. 7342(f)(4) | Non-acceptance would cause embarrassment to donor and U.S. Government.
5 U.S.C. 7342(f)(4) | Group of eight miniature silver objects in a fitted display frame and red vinyl fitted case. Rec'd—11/2/2015. Est. Value—$500.00 Disposition—Retained for official use | 5 U.S.C. 7342(f)(4) | Non-acceptance would cause embarrassment to donor and U.S. Government.
5 U.S.C. 7342(f)(4) | Omega Seamaster Professional 300m—Swiss stainless steel automatic chronometer watch. Rec'd—11/3/2015. Est. Value—$4,000.00 Disposition—Retained for official use | 5 U.S.C. 7342(f)(4) | Non-acceptance would cause embarrassment to donor and U.S. Government.

Agency: Office of the Mayor of the District of Columbia
[Report of Tangible Gift Furnished by the Office of the Mayor of the District of Columbia]
Name and title of person accepting the gift on behalf of the U.S. Government | Gift, date of acceptance on behalf of the U.S. Government, estimated value, and current disposition or location | Identity of foreign donor and government | Circumstances justifying acceptance
The Honorable Muriel Bowser, Mayor of the District of Columbia | Silver-plated replica of Saudi Palace with gold-plated accents in the building in a chest-like structure with gold-plated filigree palm tree on roof, green resin base, and gold-plated palm trees on either side of the building. Rec'd—9/16/2015. Est. Value—$1,500.00. Disposition—Retained for official display on the 6th floor of the John A. Wilson Building | The Custodian of the Two Holy Mosques Salman bin Abdulaziz Al Saud, King of the Kingdom of Saudi Arabia | Non-acceptance would cause embarrassment to donor and U.S. Government.

Agency: Office of the U.S. Trade Representative
[Report of Tangible Gift Furnished by the Office of the U.S. Trade Representative]
Name and title of person accepting the gift on behalf of the U.S. Government | Gift, date of acceptance on behalf of the U.S. Government, estimated value, and current disposition or location | Identity of foreign donor and government | Circumstances justifying acceptance
Ambassador Michael Froman, United States Trade Representative | Braun Buffel Hector document briefcase. Rec'd—8/2015. Est. Value—$690.00. Disposition—Retained for official display in the Ambassador's office | YB Dato' Sri Mustapa bin Mohamed, Minister of International Trade and Industry of Malaysia | Non-acceptance would cause embarrassment to donor and U.S. Government.

Agency: U.S. Agency for International Development
[Report of Travel Furnished by the U.S. Agency for International Development]
Name and title of person accepting the gift on behalf of the U.S. Government | Gift, date of acceptance on behalf of the U.S. Government, estimated value, and current disposition or location | Identity of foreign donor and government | Circumstances justifying acceptance
USAID Employee | TRAVEL: Travel on helicopter from Caqueta to various towns in Department of Florencia. Rec'd—2/19-20/2015. Est. Value—$1,500.00 | Government of the Republic of Colombia | Non-acceptance would cause embarrassment to donor and U.S. Government.
USAID Employee | TRAVEL: Travel on helicopter from Medellin to Ituango and Antioquia. Rec'd—3/4/2015. Est. Value—$400.00 | Government of the Republic of Colombia | Non-acceptance would cause embarrassment to donor and U.S. Government.
USAID Employee | TRAVEL: Travel on helicopter from Medellin to Taraza and Cáceres. Rec'd—6/30/2015. Est. Value—$1,500.00 | Government of the Republic of Colombia | Non-acceptance would cause embarrassment to donor and U.S. Government.
Ms. Susan Cheung | TRAVEL: Hotel and local transportation. Rec'd—7/20-22/2015. Est. Value—$610.00 | Korea International Cooperation Agency | Non-acceptance would cause embarrassment to donor and U.S. Government.
USAID Employee | TRAVEL: Travel on helicopter from Caqueta to various towns in Department of Florencia. Rec'd—11/19/2015. Est. Value—$1,200.00 | Government of the Republic of Colombia | Non-acceptance would cause embarrassment to donor and U.S. Government.
Ms. Jenifer Sanderson | TRAVEL: Hotel accomodations. Rec'd—Unknown. Est. Value—$378.00 | Foreign Government Official | Non-acceptance would cause embarrassment to donor and U.S. Government.

Agency: U.S. House of Representatives
[Report of Tangible Gifts and Travel Furnished by the U.S. House of Representatives]
Name and title of person accepting the gift on behalf of the U.S. Government | Gift, date of acceptance on behalf of the U.S. Government, estimated value, and current disposition or location | Identity of foreign donor and government | Circumstances justifying acceptance
The Honorable John Boehner, Speaker of the House | Barbeque grill. Rec'd—1/11/2015. Est. Value—$399.00. Disposition—Pending transfer to General Services Administration | His Majesty King Abdullah II ibn Al Hussein, King of the Hashemite Kingdom of Jordan | Non-acceptance would cause embarrassment to donor and U.S. Government.
The Honorable John Boehner, Speaker of the House | Seiko Astron watch. Rec'd—4/29/2015. Est. Value—$1,800.00 Disposition—Deposited with the Clerk of the House and is pending transfer to General Services Administration | His Excellency Shinzo Abe, Prime Minister of Japan | Non-acceptance would cause embarrassment to donor and U.S. Government.
The Honorable Dana Rohrabacher, Member of Congress of the United States | Large oriental rug. Rec'd—1/29/2015. Est. Value—$2,000.00. Disposition—Retained for official display at 2300 Rayburn House Office Building | His Excellency General Abdul Rashid Dostum, First Vice President of the Islamic Republic of Afghanistan | Non-acceptance would cause embarrassment to donor and U.S. Government.
The Honorable Jim McDermott, Member of Congress of the United States | TRAVEL: Food and travel to Australia Near Flinders' Campus. Rec'd—8/9-11/2015. Est. Value—$1,044.76 | Professor Phyllis Tharenou,Executive Dean of the Faculty of Social and Behavoiral Sciences at Flinders University of Australia | Non-acceptance would cause embarrassment to donor and U.S. Government.
The Honorable David N. Cicilline, Member of Congress of the United States | TRAVEL: Transportation by military helicopter to a Government of Gabon site visit. Rec'd—8/27/2015. Est. Value—Unknown | His Excellency Michael Moussa, Ambassador of the Gabonese Republic to the United States | Non-acceptance would cause embarrassment to donor and U.S. Government.
The Honorable Joe Kennedy III, Member of Congress of the United States | TRAVEL: Transportation by military helicopter to a Government of Gabon site visit. Rec'd—8/27/2015. Est. Value—Unknown | His Excellency Michael Moussa, Ambassador of the Gabonese Republic to the United States | Non-acceptance would cause embarrassment to donor and U.S. Government.
The Honorable Erik Paulsen, Member of Congress of the United States | TRAVEL: Transportation via government-owned helicopter to Wonga Wongue National Park for conservation briefing and tour. Rec'd—8/27/2015. Est. Value—Unknown | His Excellency Michael Moussa, Ambassador of the Gabonese Republic to the United States | Non-acceptance would cause embarrassment to donor and U.S. Government.
Mr. Geoffrey Antell, Trade Counsel, Ways & Means Committee | TRAVEL: Transportation via government-owned helicopter to Wonga Wongue National Park for Conservation briefing and tour. Rec'd—8/27/2015. Est. Value—Unknown | His Excellency Michael Moussa, Ambassador of the Gabonese Republic to the United States | Non-acceptance would cause embarrassment to donor and U.S. Government.
Ms. Angela Ellar, Chief Trade Counsel, Ways & Means Committee | TRAVEL: Transportation via government-owned helicopter to Wonga Wongue National Park for Conservation briefing and tour. Rec'd—8/27/2015. Est. Value—Unknown | His Excellency Michael Moussa, Ambassador of the Gabonese Republic to the United States | Non-acceptance would cause embarrassment to donor and U.S. Government.
Mr. Mark Hadley, General Counsel | TRAVEL: Hotel lodging for two nights with continental breakfast, lunch, and snack (cookies) for two days, cost of dinner for two nights, and taxi fares for travel between the airport and the hotel. Rec'd—9/23-25/2015. Est. Value—Unknown | Mr. Tolga R. Yalkin, Professor of Law at the University of Ottawa and General Counsel and Director of Policy at the Parliamentary Budget Office of Canada | Non-acceptance would cause embarrassment to donor and U.S. Government.

Agency: United States Senate
[Report of Tangible Gifts Furnished by the United States Senate]
Name and title of person accepting the gift on behalf of the U.S. Government | Gift, date of acceptance on behalf of the U.S. Government, estimated value, and current disposition or location | Identity of foreign donor and government | Circumstances justifying acceptance
The Honorable Hillary Rodham Clinton, Senator of the United States | Ancient Roman glass Judaica salt dish with sterling silver stand. Metal and wood sculpture by Israel Hadany. Rec'd—2/2002. Est. Value—$195.00. Disposition—Deposited with the Secretary of the Senate | His Excellency Benyamin Elon, Minister of Tourism of the State of Israel | Non-acceptance would cause embarrassment to donor and U.S. Government.
The Honorable Hillary Rodham Clinton, Senator of the United States | 75″ x 48″ Afghan rug. Rec'd—12/8/2006. Est. Value—$500.00. Disposition—Deposited with the Secretary of the Senate | His Excellency Abdul Rahim Wardak, Minister of Defense of the Islamic Republic of Afghanistan | Non-acceptance would cause embarrassment to donor and U.S. Government.
The Honorable John Thune, Senator of the United States | 3′ x 5′ rug. Rec'd—12/13/2006. Est. Value—$300.00. Disposition—Deposited with the Secretary of the Senate | His Excellency Jalal Talabani, President of the Republic of Iraq | Non-acceptance would cause embarrassment to donor and U.S. Government.
The Honorable John Thune, Senator of the United States | 3′ x 5′ rug. Rec'd—12/15/2006. Est. Value—$300.00. Disposition—Deposited with the Secretary of the Senate | His Excellency Hamid Karzai, President of the Islamic Republic of Afghanistan | Non-acceptance would cause embarrassment to donor and U.S. Government.
The Honorable Bill Nelson, Senator of the United States | Model ship in a clear case with small engraved plate. Rec'd—12/15/2006. Est. Value—$150.00. Disposition—Deposited with the Secretary of the Senate | His Excellency Ahmed Abdulla Al-Mehmood, Minister of State for Foreign Affairs of the State of Qatar | Non-acceptance would cause embarrassment to donor and U.S. Government.
The Honorable Bill Nelson, Senator of the United States | Miniature golden camels surrounding water hole in green box. Rec'd—12/2006. Est. Value—$500.00. Disposition—Retained for official display in SH-716 | The Custodian of the Two Holy Mosques Abdullah bin Abdulaziz Al Saud, King of the Kingdom of Saudi Arabia | Non-acceptance would cause embarrassment to donor and U.S. Government.
The Honorable Bill Nelson, Senator of the United States | Five leather briefcases with Arabic inscription. Silver frankincense burner with engraving. Two Calvin Klein men's watches. Five gold medallions with the seal of the Kingdom of Saudi Arabia. Large engraved crystal in box. Rec'd—12/2006. Est. Value—$1,900.00. Disposition—Burner retained for official display in SH-716. All other gifts deposited with the Secretary of the Senate | His Royal Highness Prince Muqrin bin Abdulaziz Al Saud, Intelligence Director of the Kingdom of Saudi Arabia | Non-acceptance would cause embarrassment to donor and U.S. Government.
The Honorable Harry Reid, Senator of the United States | Fresh flowers in glass vase. Rec'd—1/4/2007. Est. Value—$150.00. Disposition—Flowers were displayed in S-221. Vase deposited with the Secretary of the Senate | His Excellency Nguyen Tam Chien, Ambassador of the Socialist Republic of Vietnam to the United States | Non-acceptance would cause embarrassment to donor and U.S. Government.
The Honorable Evan Bayh, Senator of the United States | Silver bowl with President of the Islamic Republic of Pakistan seal. Rec'd—1/14/2007. Est. Value—$200.00. Disposition—Deposited with the Secretary of the Senate | His Excellency General Pervez Musharraf, President of the Islamic Republic of Pakistan | Non-acceptance would cause embarrassment to donor and U.S. Government.
The Honorable Evan Bayh, Senator of the United States | Blue lapis lazuli vase. Rec'd—1/15/2007. Est. Value—$200.00. Disposition—Deposited with the Secretary of the Senate | His Excellency Hamid Karzai, President of the Islamic Republic of Afghanistan | Non-acceptance would cause embarrassment to donor and U.S. Government.
The Honorable Hillary Rodham Clinton, Senator of the United States | Set of silver Demitasse cups and wooden bowls. Rec'd—1/2007. Est. Value—$600.00. Disposition—Deposited with the Secretary of the Senate | Their Majesties King Abdullah II ibn Al Hussein and Queen Rania Al Abdullah, King and Queen of the Hashemite Kingdom of Jordan | Non-acceptance would cause embarrassment to donor and U.S. Government.
The Honorable John Warner, Senator of the United States | Three scarves and one silk tie by Designer Lie Sang Bong. Rec'd—2/6/2007. Est. Value—$100.00. Disposition—Deposited with the Secretary of the Senate | Mr. Shin Sungsoon, Minister Counselor at the Embassy of the Republic of Korea in the United States | Non-acceptance would cause embarrassment to donor and U.S. Government.
The Honorable Ted Kennedy, Senator of the United States | Framed picture of Panamanian village. Rec'd—2/14/2007. Est. Value—$200.00. Disposition—Retained for official display in SR-323 | His Excellency Martín Torrijos Espino, President of the Republic of Panama | Non-acceptance would cause embarrassment to donor and U.S. Government.
The Honorable John Warner, Senator of the United States | Decorative Koryo Celadon pottery teapot. Rec'd—2/22/2007. Est. Value—$200.00. Disposition—Deposited with the Secretary of the Senate | His Excellency Kim Jang-Soo, Minister of Defense of the Republic of Korea | Non-acceptance would cause embarrassment to donor and U.S. Government.
The Honorable John Warner, Senator of the United States | Decorative clock. Rec'd—3/5/2007. Est. Value—$120.00. Disposition—Deposited with the Secretary of the Senate | His Excellency Sheikh Khalid Bin Ahmed bin Mohammed Al Khalifa, Minister of Foreign Affairs of the Kingdom of Bahrain | Non-acceptance would cause embarrassment to donor and U.S. Government.
The Honorable Mitch McConnell, Minority Leader of the United States Senate | Pair of cufflinks depicting a replica of a coin of King Sitric of Dublin. Rec'd—3/15/2007. Est. Value—$130.00. Disposition—Deposited with the Secretary of the Senate | His Excellency Bertie Ahern, Prime Minister of Ireland | Non-acceptance would cause embarrassment to donor and U.S. Government.
Mr. Marcel Letttre, Senior Defense and Intelligence Advisor, Office of Senator Harry Reid | 1.7 fluid ounce of men's Amouage Ciel Pour Homme eau de toilette. Rec'd—3/19/2007. Est. Value—$190.00. Disposition—Deposited with the Secretary of the Senate | Lieutenant General Sayyid Munthir Majid Said Al Said, Head of the Omani Royal Office Liaison and Coodination Service | Non-acceptance would cause embarrassment to donor and U.S. Government.
The Honorable John McCain, Senator of the United States | Persian rug. Rec'd—4/3/2007. Est. Value—$300.00. Disposition—Retained for official display in SR-237 | His Excellency General Pervez Musharraf, President of the Islamic Republic of Pakistan | Non-acceptance would cause embarrassment to donor and U.S. Government.
The Honorable John McCain, Senator of the United States | 18th century Galton muzzle. Rec'd—4/4/2007. Est. Value—Unknown. Disposition—Retained for official display in SR-237 | Major General Muhammad Alam Khattak, Inspector-General of the Frontier Corps, NWFP, Islamic Republic of Pakistan | Non-acceptance would cause embarrassment to donor and U.S. Government.
The Honorable Richard Lugar, Senator of the United States | Three woodblock prints in cloth-wrapped maroon presentation book. Rec'd—4/30/2007. Est. Value—$300.00. Disposition—Deposited with the Secretary of the Senate | His Excellency Taro Aso, Minister of Foreign Affairs of Japan | Non-acceptance would cause embarrassment to donor and U.S. Government.
The Honorable Tim Kaine, Senator of the United States | Three Ukiyo-e woodblock prints. Rec'd—5/1/2007. Est. Value—$300.00. Disposition—Deposited with the Secretary of the Senate | His Excellency Taro Aso, Minister of Foreign Affairs of Japan | Non-acceptance would cause embarrassment to donor and U.S. Government.
The Honorable Patrick Leahy, Senator of the United States | Book of photographs with text of China. Rec'd—5/9/2007. Est. Value—$100.00. Disposition—Deposited with the Secretary of the Senate | Mr. Chen Yibai, Vice Director of the Nanjing Education Bureau's Education Technology Center of the People's Republic of China | Non-acceptance would cause embarrassment to donor and U.S. Government.
The Honorable Patrick Leahy, Senator of the United States | Framed Nanjing Brocade wall hanging. Rec'd—5/9/2007. Est. Value—$100.00. Disposition—Deposited with the Secretary of the Senate | Mr. Wu Xijun, Former Vice Governor of the Jiangsu Province of the People's Republic of China | Non-acceptance would cause embarrassment to donor and U.S. Government.
The Honorable Amy Klobuchar, Senator of the United States | Hand-blown glass bowl made by Canadian artist Gregor Herman. Rec'd—5/20/2007. Est. Value—$150.00. Disposition—Retained for official display in 302 Hart Senate Building | Mr. Robert Merrifield, Co-chair of the U.S.-Canada Interparliamentary Group and Mr. Jerry S. Grafstein, Senator, Co-Chair of the U.S.—Canada Interparliamentary Group, and Vice President of the Organization for Security and Cooperation in Europe Parliamentary Assembly | Non-acceptance would cause embarrassment to donor and U.S. Government.
The Honorable E. Benjamin Nelson, Senator of the United States | Hand-crafted Russian dagger. Hand-painted traditional Russian doll. Hand-painted blue Russian pitcher. Rec'd—5/30/2007. Est. Value—$414.00. Disposition—Retained for official display in SH-270 | His Excellency Mikhail Margelov, Senator of the Federation Council of the Russian Federation | Non-acceptance would cause embarrassment to donor and U.S. Government.
The Honorable Trent Lott, Senator of the United States | Hand-painted traditional doll. Silver dagger in brown wooden display box. Rec'd—5/30/2007. Est. Value—$280.00. Disposition—Deposited with the Secretary of the Senate | His Excellency Mikhail Margelov, Senator of the Federation Council of the Russian Federation | Non-acceptance would cause embarrassment to donor and U.S. Government.
The Honorable Bill Nelson, Senator of the United States | Silver warrior and horse. Rec'd—6/1/2007. Est. Value—$100.00. Disposition—Deposited with the Secretary of the Senate | Department of State Services, Federal Republic of Nigeria | Non-acceptance would cause embarrassment to donor and U.S. Government.
The Honorable Hillary Rodham Clinton, Senator of the United States | Free-standing mirrored artwork by M. Pistoletto. Rec'd—6/6/2007. Est. Value—$500.00. Disposition—Retained for official display in SR-468 | His Excellency Francesco Rutelli, Deputy Prime Minister and Minister of Cultural Heritage of the Italian Republic | Non-acceptance would cause embarrassment to donor and U.S. Government.
The Honorable John Warner, Senator of the United States | Decorative silk picture scroll. Rec'd—6/25/2007. Est. Value—$100.00. Disposition—Deposited with the Secretary of the Senate | Director Wang Yang, Member of the National Chinese Central Committee | Non-acceptance would cause embarrassment to donor and U.S. Government.
The Honorable Robert P. Casey Jr., Senator of the United States | Hand-carved wooden chess set with dice and nylon carring bag. Rec'd—8/10/2007. Est. Value—$500.00. Disposition—Deposited with the Secretary of the Senate | His Excellency Jalal Talabani, President of the Republic of Iraq | Non-acceptance would cause embarrassment to donor and U.S. Government.
The Honorable Bill Nelson, Senator of the United States | Commemorative gold coins celebrating the Malaysian Police Force. Rec'd—8/28/2007. Est. Value—$100.00. Disposition—Deposited with the Secretary of the Senate | YBhg. Dato Ramli Bin Sha'ari, Director of the Royal Malaysian Police | Non-acceptance would cause embarrassment to donor and U.S. Government.
The Honorable Max Baucus, Senator of the United States | Two wooden chess sets. Statue. Rec'd—9/13/2007. Est. Value—$300.00. Disposition—Deposited with the Secretary of the Senate | Embassy of the Republic of Iraq in the United States | Non-acceptance would cause embarrassment to donor and U.S. Government.
The Honorable Ken Salazar, Senator of the United States | Chess set. Rec'd—9/17/2007. Est. Value—$150.00. Disposition—Deposited with the Secretary of the Senate | Embassy of the Republic of Iraq in the United States | Non-acceptance would cause embarrassment to donor and U.S. Government.
The Honorable Harry Reid, Senator of the United States | Armenian Dudak wooden fife from Djivan Gasparian. Rec'd—10/19/2007. Est. Value—Unknown. Disposition—Deposited with the Secretary of the Senate | His Excellency Serzh Sargsyan, Prime Minister of the Republic of Armenia | Non-acceptance would cause embarrassment to donor and U.S. Government.
The Honorable Hillary Rodham Clinton, Senator of the United States | Leather box with leather and glass flower vases and medallions. Rec'd—10/2007. Est. Value—$200.00. Disposition—Deposited with the Secretary of the Senate | His Majesty King Abdullah II ibn Al Hussein, King of the Hashemite Kingdom of Jordan | Non-acceptance would cause embarrassment to donor and U.S. Government.
The Honorable Ted Stevens, Senator of the United States | Collection of Hashemite coins in wooden presentation box. Rec'd—11/25/2007. Est. Value—$150.00. Disposition—Deposited with the Secretary of the Senate | His Majesty King Abdullah II ibn Al Hussein, King of the Hashemite Kingdom of Jordan | Non-acceptance would cause embarrassment to donor and U.S. Government.
The Honorable Johnny Isakson, Senator of the United States | Framed artwork of Equatorial Guinea. Rec'd—1/7/2008. Est. Value—$150.00. Disposition—Deposited with the Secretary of the Senate | His Excellency Teodoro Obiang Nguema Mbasogo, President of Equatorial Guinea | Non-acceptance would cause embarrassment to donor and U.S. Government.
The Honorable Carl Levin, Senator of the United States | Piece of lapis lazuli. Rec'd—4/22/2008. Est. Value—$100.00. Disposition—Deposited with the Secretary of the Senate | His Excellency Abdul Rahim Wardak, Minister of Defense of the Islamic Republic of Afghanistan | Non-acceptance would cause embarrassment to donor and U.S. Government.
The Honorable Russell Feingold, Senator of the United States | Rug. Rec'd—5/26/2008. Est. Value—$200.00. Disposition—Retained for official display in Senator Office, 506 Hart Senate Building | Mr. Ameer Haider Khan Hoti, Chief Minsiter of Khyber Pakhtunkhwa of the Islamic Republic of Pakistan | Non-acceptance would cause embarrassment to donor and U.S. Government.
The Honorable Russell Feingold, Senator of the United States | Silver serving bowl. Rec'd—5/27/2008. Est. Value—$100.00. Disposition—Deposited with the Secretary of the Senate | His Excellency General Pervez Musharraf, President of the Islamic Republic of Pakistan | Non-acceptance would cause embarrassment to donor and U.S. Government.
Mr. Evan Gottesman, Professional Staff Member, Intelligence Committee | Silver serving bowl. Rec'd—5/27/2008. Est. Value—$100.00. Disposition—Deposited with the Secretary of the Senate | His Excellency General Pervez Musharraf, President of the Islamic Republic of Pakistan | Non-acceptance would cause embarrassment to donor and U.S. Government.
Mrs. Sarah Margon, Legislative Assistant to Senator Russell Feingold | Silver serving bowl. Rec'd—5/27/2008. Est. Value—$100.00. Disposition—Deposited with the Secretary of the Senate | His Excellency General Pervez Musharraf, President of the Islamic Republic of Pakistan | Non-acceptance would cause embarrassment to donor and U.S. Government.
The Honorable Ken Salazar, Senator of the United States | Ceremonial robe, sash, and hat. Gold coins. Rec'd—7/1/2008. Est. Value—$150.00. Disposition—Deposited with the Secretary of the Senate | His Excellency Rustam Minnikhanov, Prime Minister of the Republic of Tatarstan of the Russian Federation | Non-acceptance would cause embarrassment to donor and U.S. Government.
The Honorable Benjamin Nelson, Senator of the United States | Wristwatch with Russian coat of arms logo. Rec'd—7/23/2008. Est. Value—$150.00. Disposition—Deposited with the Secretary of the Senate | Russian Inter-Parliamentary Group | Non-acceptance would cause embarrassment to donor and U.S. Government.
Mr. Anthony Blinken, Staff Director of the Committee on Foreign Relations | Lapis lazuli vase. Rec'd—7/25/2008. Est. Value—$200.00. Disposition—Deposited with the Secretary of the Senate | His Excellency Hamid Karzai, President of the Islamic Republic of Afghanistan | Non-acceptance would cause embarrassment to donor and U.S. Government.
The Honorable Harry Reid, Senator of the United States | Swarovski crystal clam with pearl. Rec'd—8/8/2008. Est. Value—$165.00. Disposition—Deposited with the Secretary of the Senate | Government of the United Arab Emirates | Non-acceptance would cause embarrassment to donor and U.S. Government.
The Honorable Harry Reid, Senator of the United States | Model Kuwaiti sailing ship. Rec'd—9/18/2008. Est. Value—$300.00. Disposition—Deposited with the Secretary of the Senate | His Excellency Nasser Mohammed Al-Jaber Al-Sabah, Prime Minister of the State of Kuwait | Non-acceptance would cause embarrassment to donor and U.S. Government.
The Honorable Mitch McConnell, Minority Leader of the United States Senate | Small wooden model of an ancient sailing ship. Rec'd—9/18/2008. Est. Value—$300.00. Disposition—Deposited with the Secretary of the Senate | His Excellency Nasser Mohammed Al-Jaber Al-Sabah, Prime Minister of the State of Kuwait | Non-acceptance would cause embarrassment to donor and U.S. Government.
The Honorable Daniel Inouye, Senator of the United States | Gold-plated replica of the 2008 Beijing Olympics Bird's Nest Stadium. Rec'd—9/19/2008. Est. Value—$140.00. Disposition—Retained for official display in Senate Office 722 Hart Senate Building | Her Excellency Chen Zhili, Vice Chairwoman of the Chinese National People's Congress | Non-acceptance would cause embarrassment to donor and U.S. Government.
The Honorable Olympis Snowe, Senator of the United States | Handmade traditional Afghan rug with brown, black, and tan design. Rec'd—11/9/2008. Est. Value—$120.00. Disposition—Retained for official display in Senate Office 154 Hart Senate Building | His Excellency Abdul Rahim Wardak, Minister of Defense of the Islamic Republic of Afghanistan | Non-acceptance would cause embarrassment to donor and U.S. Government.
The Honorable Sheldon Whitehouse, Senator of the United States | Rug. Rec'd—11/11/2008. Est. Value—$120.00. Disposition—Retained for official display in Senate Office 502 Hart Senate Building | His Excellency Hamid Karzai, President of the Islamic Republic of Afghanistan | Non-acceptance would cause embarrassment to donor and U.S. Government.
The Honorable Joseph Biden, Senator of the United States | Rug. Rec'd—11/2008. Est. Value—$100.00. Disposition—Deposited with the Secretary of the Senate | The Honorable Farooq H. Naek, Minister of Justice of the Islamic Republic of Pakistan | Non-acceptance would cause embarrassment to donor and U.S. Government.
The Honorable Lindsey Graham, Senator of the United States | Bhutanese wool rug. Rec'd—12/4/2008. Est. Value—$250.00. Disposition—Retained for official display in Senate Office 293 Russell Senate Building | His Majesty Jigme Khesar Namgyel Wangcuck, King of Bhutan | Non-acceptance would cause embarrassment to donor and U.S. Government.
The Honorable Joseph Lieberman, Senator of the United States | Bhutanese wool rug. Rec'd—12/4/2008. Est. Value—$250.00. Disposition—Retained for official display in Senate Office 706 Hart Senate Building | His Majesty Jigme Khesar Namgyel Wangcuck, King of Bhutan | Non-acceptance would cause embarrassment to donor and U.S. Government.
The Honorable John McCain, Senator of the United States | Bhutanese wool rug. Rec'd—12/4/2008. Est. Value—$250.00. Disposition—Retained for official display in Senate Office 235 Russell Senate Building | His Majesty Jigme Khesar Namgyel Wangcuck, King of Bhutan | Non-acceptance would cause embarrassment to donor and U.S. Government.
The Honorable Joseph Liberman, Senator of the United States | 3′ x 5′ Oriental-style rug. Rec'd—12/6/2008. Est. Value—$100. Disposition—Retained for official display in Senate Office 706 Hart Senate Building | Members of the Pakistani Peoples' Party | Non-acceptance would cause embarrassment to donor and U.S. Government.
The Honorable Byron Dorgan, Senator of the United States | Collection of eight replica coins minted in the early 20th century. Rec'd—12/14/2008. Est. Value—$225.00. Disposition—Deposited with the Secretary of the Senate | His Majesty King Abdullah II ibn Al Hussein, King of the Hashemite Kingdom of Jordan | Non-acceptance would cause embarrassment to donor and U.S. Government.
The Honorable John McCain, Senator of the United States | The Hashemite coins of His Majesty King Hussein bin Ali minted between 1916-1924. Rec'd—12/18/2008. Est. Value—$100.00. Disposition—Deposited with the Secretary of the Senate | His Majesty King Abdullah II ibn Al Hussein, King of the Hashemite Kingdom of Jordan | Non-acceptance would cause embarrassment to donor and U.S. Government.
The Honorable Joseph Biden, Senator of the United States | Engraved metal object, title: Stele of Hammurabi. Rec'd—1/2009. Est. Value—$100.00. Disposition—Deposited with the Secretary of the Senate | Foreign Government Official | Non-acceptance would cause embarrassment to donor and U.S. Government.
The Honorable Joseph Biden, Senator of the United States | Green, white, and brass decoration. Rec'd—1/2009. Est. Value—$100.00. Disposition—Deposited with the Secretary of the Senate | Foreign Government Official | Non-acceptance would cause embarrassment to donor and U.S. Government.
The Honorable Joseph Biden, Senator of the United States | Silver palm tree in glass case. Rec'd—1/2009. Est. Value—$100.00. Disposition—Deposited with the Secretary of the Senate | His Excellency Jalal Talabani, President of the Republic of Iraq | Non-acceptance would cause embarrassment to donor and U.S. Government.
The Honorable Joseph Biden, Senator of the United States | Set of glasses. Glass vase. Rec'd—1/2009. Est. Value—$100.00. Disposition—Deposited with the Secretary of the Senate | His Excellency Hamid Karzai, President of the Islamic Republic of Afghanistan | Non-acceptance would cause embarrassment to donor and U.S. Government.
The Honorable Joseph Biden, Senator of the United States | Large wooden box with intricate designs. Rec'd—1/2009. Est. Value—$100.00. Disposition—Deposited with the Secretary of the Senate | Foreign Government Official | Non-acceptance would cause embarrassment to donor and U.S. Government.
The Honorable Joseph Biden, Senator of the United States | Silver bowl. Rec'd—1/2009. Est. Value—$100.00. Disposition—Deposited with the Secretary of the Senate | His Excellency Syed Yousaf Raza Gillani, Prime Minister of the Islamic Republic of Pakistan | Non-acceptance would cause embarrassment to donor and U.S. Government.
The Honorable Joseph Biden, Senator of the United States | Marble vase. Rec'd—1/2009. Est. Value—$100.00. Disposition—Deposited with the Secretary of the Senate | Mr. Lutfullah Mashal Governor of the Laghman Province of the Islamic Republic of Afghanistan | Non-acceptance would cause embarrassment to donor and U.S. Government.
The Honorable Joseph Biden, Senator of the United States | Metal and wood plaque. Rec'd—1/2009. Est. Value—$100.00. Disposition—Deposited with the Secretary of the Senate | General in the Pakistani Army | Non-acceptance would cause embarrassment to donor and U.S. Government.
The Honorable Patrick Leahy, Senator of the United States | Marble candleholder with molded brass lid in leather-lined box casing. Rec'd—1/15/2009. Est. Value—$100.00. Disposition—Deposited with the Secretary of the Senate | His Majesty King Abdullah II ibn Al Hussein, King of the Hashemite Kingdom of Jordan | Non-acceptance would cause embarrassment to donor and U.S. Government.
Mr. Antony Blinken, Staff Director of the Foreign Relations Committee | Handcrafted wooden chess set. Rec'd—1/15/2009. Est. Value—$300.00. Disposition—Deposited with the Secretary of the Senate | His Excellency Jalal Talabani, President of the Republic of Iraq | Non-acceptance would cause embarrassment to donor and U.S. Government.
Mr. Puneet Talwar, Professional Staff Member of the Foreign Relations Committee | Handcrafted wooden chess set. Rec'd—1/15/2009. Est. Value—$300.00. Disposition—Deposited with the Secretary of the Senate | His Excellency Jalal Talabani, President of the Republic of Iraq | Non-acceptance would cause embarrassment to donor and U.S. Government.
Mr. Jonah Blank, Professional Staff Member of the Foreign Relations Committee | Handcrafted wooden chess set. Rec'd—1/15/2009. Est. Value—$300.00. Disposition—Deposited with the Secretary of the Senate | His Excellency Jalal Talabani, President of the Republic of Iraq | Non-acceptance would cause embarrassment to donor and U.S. Government.
The Honorable John F. Kerry, Senator of the United States | 3′9″ x 5′5″ carpet. Rec'd—1/23/2009. Est. Value—$100.00. Disposition—Deposited with the Secretary of the Senate | His Excellency Hamid Karzai, President of the Islamic Republic of Afghanistan | Non-acceptance would cause embarrassment to donor and U.S. Government.
The Honorable Max Baucus, Senator of the United States | Silver bar bearing image of Michaelangelo Merisi da Carvaggio. Rec'd—2/1/2009. Est. Value—$100.00. Disposition—Deposited with the Secretary of the Senate | His Excellency Mark Miceli, Ambassador of Malta to the United States | Non-acceptance would cause embarrassment to donor and U.S. Government.
The Honorable Carl Levin, Senator of the United States | Candle set with gel candles. Rec'd—2/1/2009. Est. Value—$100.00. Disposition—Deposited with the Secretary of the Senate | His Majesty King Abdullah II ibn Al Hussein, King of the Hashemite Kingdom of Jordan | Non-acceptance would cause embarrassment to donor and U.S. Government.
The Honorable James E. Risch, Senator of the United States | Book, title: Welcome Malta to Europe. Rec'd—3/17/2009. Est. Value—$100.00. Disposition—Deposited with the Secretary of the Senate | His Excellency Mark Miceli, Ambassador of Malta to the United States and Ms. Christine Pace, Deputy Chief of Mission | Non-acceptance would cause embarrassment to donor and U.S. Government.
The Honorable James E. Risch, Senator of the United States | Silver medallion bearing the image of Michaelangelo Merisi da Caravaggio. Rec'd—3/17/2009. Est. Value—$100.00. Disposition—Deposited with the Secretary of the Senate | Mr. Alan Caruana, Head of the Secretariat of the Ministry of Finance, Economy, and Investment of Malta | Non-acceptance would cause embarrassment to donor and U.S. Government.
Mr. Michael Manning, Legislative Fellow, Office of Senator James E. Risch | Book, title: Welcome Malta to Europe. Rec'd—3/17/2009. Est. Value—$100.00. Disposition—Deposited with the Secretary of the Senate | His Excellency Mark Miceli, Ambassador of Malta to the United States and Ms. Christine Pace, Deputy Chief of Mission | Non-acceptance would cause embarrassment to donor and U.S. Government.
Mr. Andrew Keller, Deputy Counsel, Committee on Foreign Relations | Small bar of silver. Rec'd—4/6/2009. Est. Value—$100.00. Disposition—Deposited with the Secretary of the Senate | Mr. Alan Caruana, Head of the Secretariat of the Ministry of Finance, Economy, and Investment of Malta | Non-acceptance would cause embarrassment to donor and U.S. Government.
The Honorable Barbara Boxer, Senator of the United States | Replica copper plate engraved with map of the Middle East. Rec'd—4/16/2009. Est. Value—$100.00. Disposition—Deposited with the Secretary of the Senate | His Highness Sheikh Khalid Bin Saqr Al Qasmi, Former Crown Prince and Deputy Ruler of Ras Al Khaimah, United Arab Emirates | Non-acceptance would cause embarrassment to donor and U.S. Government.
The Honorable Edward Kaufman, Senator of the United States | Silver bowl. Rec'd—4/17/2009. Est. Value—$100.00. Disposition—Deposited with the Secretary of the Senate | His Excellency Yousaf Raza Gillani, Prime Minister of the Islamic Republic of Pakistan | Non-acceptance would cause embarrassment to donor and U.S. Government.
The Honorable Edward Kaufman, Senator of the United States | Lapis lazuli vase. Rec'd—4/18/2009. Est. Value—$225.00. Disposition—Deposited with the Secretary of the Senate | His Excellency Hamid Karzai, President of the Islamic Republic of Afghanistan | Non-acceptance would cause embarrassment to donor and U.S. Government.
The Honorable Mitch McConnell, Majority Leader of the United States Senate | Glass lamp with decorative polished stone holder. Rec'd—4/27/2009. Est. Value—$100.00. Disposition—Deposited with the Secretary of the Senate | Their Majesties King Abdullah II ibn Al Hussein and Queen Rania Al Abdullah, King and Queen of the Hashemite Kingdom of Jordan | Non-acceptance would cause embarrassment to donor and U.S. Government.
The Honorable John F. Kerry, Senator of the United States | 5′2″ x 4′2″ red, green, and beige rug. Rec'd—5/15/2009. Est. Value—$100.00. Disposition—Deposited with the Secretary of the Senate | His Excellency Hamid Karzai, President of the Islamic Republic of Afghanistan | Non-acceptance would cause embarrassment to donor and U.S. Government.
The Honorable John F. Kerry, Senator of the United States | 6′3″ x 4′1″ red and beige Tabiz rug. 5′10″ x 4′ Pakistani Bokhara rug. Rec'd—5/15/2009. Est. Value—$275.00. Disposition—Deposited with the Secretary of the Senate | His Excellency Asif Ali Zardari, President of the Islamic Republic of Pakistan | Non-acceptance would cause embarrassment to donor and U.S. Government.
The Honorable Mark Begich, Senator of the United States | Miniature replica bronze cast statue by Croatian artist Ivan Mestrovic. Rec'd—5/20/2009. Est. Value—$100.00. Disposition—Deposited with the Secretary of the Senate | Her Excellency Kolinda Grabar-Kitarović, Ambassador of the Republic of Croatia to the United States | Non-acceptance would cause embarrassment to donor and U.S. Government.
The Honorable John F. Kerry, Senator of the United States | Mounted 18th century replica pistol. Rec'd—5/21/2009. Est. Value—$300.00. Disposition—Deposited with the Secretary of the Senate | Major General Tariq Khan, Army General Officer of the Islamic Republic of Pakistan | Non-acceptance would cause embarrassment to donor and U.S. Government.
The Honorable Sheldon Whitehouse, Senator of the United States | 4′ x 6′ rug. Rec'd—5/25/2009. Est. Value—$120.00. Disposition—Deposited with the Secretary of the Senate | His Excellency Asif Ali Zardari, President of the Islamic Republic of Pakistan | Non-acceptance would cause embarrassment to donor and U.S. Government.
The Honorable Sheldon Whitehouse, Senator of the United States | Hermes silk tie. Rec'd—5/28/2009. Est. Value—$170.00. Disposition—Deposited with the Secretary of the Senate | His Excellency Bernard Kouchner, Minister of Foreign Affairs of the French Republic | Non-acceptance would cause embarrassment to donor and U.S. Government.
The Honorable John F. Kerry, Senator of the United States | Encased Byzantine icon. Rec'd—5/29/2009. Est. Value—$100.00. Disposition—Deposited with the Secretary of the Senate | His Excellency Bashar al-Asad, President of the Syrian Arab Republic | Non-acceptance would cause embarrassment to donor and U.S. Government.
The Honorable John F. Kerry, Senator of the United States | Commemorative helmet. Rec'd—6/5/2009. Est. Value—$100.00. Disposition—Deposited with the Secretary of the Senate | His Majesty King Abdullah II ibn Al Hussein, King of the Hashemite Kingdom of Jordan | Non-acceptance would cause embarrassment to donor and U.S. Government.
The Honorable Lisa Murkowski, Senator of the United States | Gold statue of a wishing well. Rec'd—6/17/2009. Est. Value—$100.00. Disposition—Deposited with the Secretary of the Senate | His Excellency Abdulla Bin Hamad Al-Attiyah, Deputy Prime Minister of the State of Qatar | Non-acceptance would cause embarrassment to donor and U.S. Government.
The Honorable John F. Kerry, Senator of the United States | 6′4″ x 4′1″ blue and beige Tabriz rug. Rec'd—6/21/2009. Est. Value—$250.00. Disposition—Deposited with the Secretary of the Senate | His Excellency Asif Ali Zardari, President of the Islamic Republic of Pakistan | Non-acceptance would cause embarrassment to donor and U.S. Government.
The Honorable James E. Risch, Senator of the United States | Red ceramic vase with gold detailing. Rec'd—7/22/2009. Est. Value—$100.00. Disposition—Deposited with the Secretary of the Senate | Mr. Jason Yuan, Taiwan Representative to the United States and Head of the Taipei Economic and Cultural Representative Office | Non-acceptance would cause embarrassment to donor and U.S. Government.
The Honorable John McCain, Senator of the United States | 3′ x 5′ multicolored rug. Rec'd—8/17/2009. Est. Value—$250.00. Disposition—Deposited with the Secretary of the Senate | His Excellency Hamid Karzai, President of the Islamic Republic of Afghanistan | Non-acceptance would cause embarrassment to donor and U.S. Government.
The Honorable Edward Kaufman, Senator of the United States | Lapis lazuil bowl. Rec'd—9/3/2009. Est. Value—$200.00. Disposition—Deposited with the Secretary of the Senate | His Excellency Hamid Karzai, President of the Islamic Republic of Afghanistan | Non-acceptance would cause embarrassment to donor and U.S. Government.
The Honorable Mitch McConnell, Minority Leader of the United States Senate | Framed gold-embossed metal artwork of Chinese ship. Rec'd—9/9/2009. Est. Value—$202.00. Disposition—Deposited with the Secretary of the Senate | His Excellency Wu Bangguo, Chairman of the Standing Committee of the National People's Congress of the People's Republic of China | Non-acceptance would cause embarrassment to donor and U.S. Government.
The Honorable Harry Reid, Senator of the United States | Fine china teacup set. Rec'd—11/10/2009. Est. Value—$202.00. Disposition—Deposited with the Secretary of the Senate | His Excellency Ban Ki-moon, Secretary-General of the United Nations | Non-acceptance would cause embarrassment to donor and U.S. Government.
The Honorable Evan Bayh, Senator of the United States | Miniature framed Mughal print. Rec'd—1/4/2010. Est. Value—$140.00. Disposition—Deposited with the Secretary of the Senate | His Excellency Dr. Manmohan Singh, Prime Minister of the Republic of India | Non-acceptance would cause embarrassment to donor and U.S. Government.
The Honorable John Barrasso, Senator of the United States | Republic of glass vessel from the Roman Empire. Rec'd—1/9/2010. Est. Value—$100.00. Disposition—Deposited with the Secretary of the Senate | Mr. Walid Jumblatt, Leader of the Progressive Socialist Party of the Republic of Lebanon | Non-acceptance would cause embarrassment to donor and U.S. Government.
Mr. William Castle, Counsel for Senator Orrin Hatch, Committee on the Judiciary | Book, title: Spanish Painting from El Greco to Picasso—Time, Truth, and History. Rec'd—1/20/2010. Est. Value—$100.00. Disposition—Deposited with the Secretary of the Senate | Mr. Guillermo Corral Van Damme, General Manager of Government Policy and Industry for Culture Affairs of the Ministry of Culture Affairs of Spain | Non-acceptance would cause embarrassment to donor and U.S. Government.
The Honorable Edward Kaufman, Senator of the United States | Turquoise Taiwanese Vase. Rec'd—1/21/2010. Est. Value—$225.00. Disposition—Deposited with the Secretary of the Senate | Taipei Economic and Cultural Representative Office | Non-acceptance would cause embarrassment to donor and U.S. Government.
The Honorable Carl Levin, Senator of the United States | Metal candle holder with floral design. Rec'd—1/29/2010. Est. Value—$100.00. Disposition—Deposited with the Secretary of the Senate | His Majesty King Abdullah II ibn Al Hussein, King of the Hashemite Kingdom of Jordan | Non-acceptance would cause embarrassment to donor and U.S. Government.
The Honorable Edward Kaufman, Senator of the United States | Two silver bowls. Rec'd—3/30/2010. Est. Value—$200.00. Disposition—Deposited with the Secretary of the Senate | His Excellency Asif Ali Zardari, President of the Islamic Republic of Pakistan | Non-acceptance would cause embarrassment to donor and U.S. Government.
The Honorable Edward Kaufman, Senator of the United States | Silver bowl. Rec'd—3/30/2010. Est. Value—$100.00. Disposition—Deposited with the Secretary of the Senate | His Excellency Yousaf Raza Gillani, Prime Minister of the Islamic Republic of Pakistan | Non-acceptance would cause embarrassment to donor and U.S. Government.
The Honorable Edward Kaufman, Senator of the United States | Lapis lazuli plate. Rec'd—3/31/2010. Est. Value—$200.00. Disposition—Deposited with the Secretary of the Senate | His Excellency Abdul Rahim Wardak, Minister of Defense of the Islamic Republic of Afghanistan | Non-acceptance would cause embarrassment to donor and U.S. Government.
Ms. Margaret Murphy, Protocol and Foreign Travel Coordinator, U.S. Senate Committee on Foreign Relations | Wenger watch. Rec'd—4/16/2010. Est. Value—$275.00. Disposition—Deposited with the Secretary of the Senate | His Majesty King Abdullah II ibn Al Hussein, King of the Hashemite Kingdom of Jordan | Non-acceptance would cause embarrassment to donor and U.S. Government.
The Honorable John F. Kerry, Senator of the United States | Silk neck ties. Rec'd—4/2010. Est. Value—$100.00. Disposition—Deposited with the Secretary of the Senate | His Excellency Silvio Berlusconi, President of the Council of Ministers of the Italian Republic | Non-acceptance would cause embarrassment to donor and U.S. Government.
The Honorable Harry Reid, Majority Leader of the United States Senate | Large blue lacquer box. Rec'd—5/12/2010. Est. Value—$100.00. Disposition—Deposited with the Secretary of the Senate | His Excellency Hamid Karzai, President of the Islamic Republic of Afghanistan | Non-acceptance would cause embarrassment to donor and U.S. Government.
The Honorable Mitch McConnell, Minority Leader of the United States Senate | Oriental rug. Rec'd—5/12/2010. Est. Value—$300.00. Disposition—Deposited with the Secretary of the Senate | His Excellency Hamid Karzai, President of the Islamic Republic of Afghanistan | Non-acceptance would cause embarrassment to donor and U.S. Government.
Mr. Keith Luse, Senior Professional Staff Member, United States Senator Committee on Foreign Relations | Neck tie. Rec'd—5/19/2010. Est. Value—$165.00. Disposition—Deposited with the Secretary of the Senate | Mr. Jung Yoon Ho, Counselor at the Embassy of the Republic of Korea in the United States | Non-acceptance would cause embarrassment to donor and U.S. Government.
The Honorable John Kerry, Senator of the United States | Large wool rug. Rec'd—6/2010. Est. Value—$100.00. Disposition—Deposited with the Secretary of the Senate | His Excellency Hamid Karzai, President of the Islamic Republic of Afghanistan | Non-acceptance would cause embarrassment to donor and U.S. Government.
The Honorable Arlen Specter, Senator of the United States | Prince squash racquet. Rec'd—8/15/2010. Est. Value—$120.00. Disposition—Deposited with the Secretary of the Senate | Dr. Shen Lyu-shun, Deputy Foreign Minister of Taiwan | Non-acceptance would cause embarrassment to donor and U.S. Government.
The Honorable Carl Levin, Senator of the United States | Waziri dagger. Rec'd—9/1/2010. Est. Value—$100.00. Disposition—Deposited with the Secretary of the Senate | Lieutenant General Asif Yasin Malik, Army of the Islamic Republic of Pakistan | Non-acceptance would cause embarrassment to donor and U.S. Government.
The Honorable Jack Reed, Senator of the United States | Tan, red, black and brown Afghan rug. Rec'd—9/2/2010. Est. Value—$400.00. Disposition—Deposited with the Secretary of the Senate | His Excellency Abdul Rahim Wardak, Minister of Defense of the Islamic Republic of Afghanistan | Non-acceptance would cause embarrassment to donor and U.S. Government.
The Honorable John F. Kerry, Senator of the United States | 4′ x 6′ rug with leather carrying case. Rec'd—9/14/2010. Est. Value—$100.00. Disposition—Deposited with the Secretary of the Senate | His Excellency Dr. Ali bin Fetais al-Marri, Attorney General of the State of Qatar | Non-acceptance would cause embarrassment to donor and U.S. Government.
The Honorable John F. Kerry, Senator of the United States | 4′ x 6.5′ multicolored wool rug. Rec'd—9/14/2010. Est. Value—$100.00. Disposition—Deposited with the Secretary of the Senate | Major General Javed Aslam Tahi, General Officer Commanding the Pakistan Army Aviation | Non-acceptance would cause embarrassment to donor and U.S. Government.
The Honorable Lindsey Graham, Senator of the United States | Silk and wool rug. Rec'd—9/15/2010. Est. Value—$300.00. Disposition—Deposited with the Secretary of the Senate | His Excellency Dr. Ali bin Fetais al-Marri, Attorney General of the State of Qatar | Non-acceptance would cause embarrassment to donor and U.S. Government.
The Honorable Jack Reed, Senator of the United States | Blue Nouveautes silk neck tie. Rec'd—9/15/2010. Est. Value—$106.70. Disposition—Deposited with the Secretary of the Senate | His Excellency Han Duk-soo, Ambassador of the Republic of Korea to the United States | Non-acceptance would cause embarrassment to donor and U.S. Government.
The Honorable Mark Pryor, Senator of the United States | Blue Nouveautes silk neck tie. Rec'd—9/15/2010. Est. Value—$104.46. Disposition—Deposited with the Secretary of the Senate | His Excellency Han Duk-soo, Ambassador of the Republic of Korea to the United States | Non-acceptance would cause embarrassment to donor and U.S. Government.
The Honorable Lindsey Graham, Senator of the United States | Decorative sword. Rec'd—10/28/2010. Est. Value—$200.00. Disposition—Deposited with the Secretary of the Senate | His Excellency Dr. Ali bin Fetais al-Marri, Attorney General of the State of Qatar | Non-acceptance would cause embarrassment to donor and U.S. Government.
The Honorable Lindsey Graham, Senator of the United States | 3′ x 5′ Afghan rug. Rec'd—12/7/2010. Est. Value—$300.00. Disposition—Deposited with the Secretary of the Senate | His Excellency Hamid Karzai, President of the Islamic Republic of Afghanistan | Non-acceptance would cause embarrassment to donor and U.S. Government.
The Honorable Lindsey Graham, Senator of the United States | Stuffed grouse on bark. Rec'd—3/2/2011. Est. Value—$100.00. Disposition—Deposited with the Secretary of the Senate | Mr. Gary G. Mar, Minister-Counsellor of the Province of Alberta, Canada to the United States | Non-acceptance would cause embarrassment to donor and U.S. Government.
The Honorable John F. Kerry, Senator of the United States | 54″ x 30″ rug. Rec'd—3/29/2011. Est. Value—$100.00. Disposition—Deposited with the Secretary of the Senate | Dr. Abdul Hafeez Shaikh, Minister of Finance of the Islamic Republic of Pakistan | Non-acceptance would cause embarrassment to donor and U.S. Government.
The Honorable Christopher A. Coons, Senator of the United States | Zebra painting. Rec'd—4/12/2011. Est. Value—$200.00. Disposition—Deposited with the Secretary of the Senate | His Excellency Raila Odinga, Prime Minister of the Republic of Kenya | Non-acceptance would cause embarrassment to donor and U.S. Government.
The Honorable John F. Kerry, Senator of the United States | Clock and desk display. Rec'd—4/20/2011. Est. Value—$100.00. Disposition—Deposited with the Secretary of the Senate | His Highness Sheikh Hamad bin Khalifa Al Thani, Emir of the State of Qatar | Non-acceptance would cause embarrassment to donor and U.S. Government.
The Honorable Harry Reid, Majority Leader, United States Senate | Embroidered velvet scarf. Rec'd—4/23/2011. Est. Value—$108.00. Disposition—Deposited with the Secretary of the Senate | Mr. Zeng Wei, Shenyang Party Secretary of the People's Republic of China | Non-acceptance would cause embarrassment to donor and U.S. Government.
The Honorable John F. Kerry, Senator of the United States | Framed and matted bird print. Rec'd—5/12/2011. Est. Value—$100.00. Disposition—Deposited with the Secretary of the Senate | His Excellency Dai Bingguo, State Councilor of the People's Republic of China | Non-acceptance would cause embarrassment to donor and U.S. Government.
The Honorable John F. Kerry, Senator of the United States | Customized Jordanian iPhone and flip video. Rec'd—5/16/2011. Est. Value—$100.00. Disposition—Deposited with the Secretary of the Senate | His Majesty King Abdullah II ibn Al Hussein, King of the Hashemite Kingdom of Jordan | Non-acceptance would cause embarrassment to donor and U.S. Government.
The Honorable Mark Kirk, Senator of the United States | Blue lacquered vase. Rec'd—5/18/2011. Est. Value—$200.00. Disposition—Deposited with the Secretary of the Senate | Mr. Chen Bingde, Commanding General of the People's Liberation Army, General Staff Department of Beijing, People's Republic of China | Non-acceptance would cause embarrassment to donor and U.S. Government.
Mr. James A. Wolfe, Director of Security, Select Committee on Intelligence, United States Senate | Traser watch. Rec'd—5/19/2011. Est. Value—$225.00. Disposition—Deposited with the Secretary of the Senate | His Majesty King Abdullah II ibn Al Hussein, King of the Hashemite Kingdom of Jordan | Non-acceptance would cause embarrassment to donor and U.S. Government.
The Honorable John F. Kerry, Senator of the United States | 118″ x 9″ rug. 118″ x 39″ rug. Rec'd—5/19/2011. Est. Value—$200.00. Disposition—Deposited with the Secretary of the Senate | General Atta Mohammad Noor, Governor of the Balkh Province of the Islamic Republic of Afghanistan | Non-acceptance would cause embarrassment to donor and U.S. Government.
The Honorable Rob Portman, Senator of the United States | Gold and silver dagger. Rec'd—5/24/2011. Est. Value—$200.00. Disposition—Deposited with the Secretary of the Senate | His Excellency Aleksandar Miscevic, State Secretary of Defense of the Republic of Serbia | Non-acceptance would cause embarrassment to donor and U.S. Government.
The Honorable Rob Portman, Senator of the United States | Blue floral vase. Rec'd—6/10/2011. Est. Value—$150.00. Disposition—Deposited with the Secretary of the Senate | His Excellency Hamid Karzai, President of the Islamic Republic of Afghanistan | Non-acceptance would cause embarrassment to donor and U.S. Government.
The Honorable John F. Kerry, Senator of the United States | Delvaux leather portfolio. Rec'd—6/28/2011. Est. Value—$200.00. Disposition—Deposited with the Secretary of the Senate | His Royal Highness Prince Philippe, Crown Prince of Belgium | Non-acceptance would cause embarrassment to donor and U.S. Government.
The Honorable John McCain, Senator of the United States | Carved stone bowl. Rec'd—7/2011. Est. Value—$200.00. Disposition—Deposited with the Secretary of the Senate | His Excellency Hamid Karzai, President of the Islamic Republic of Afghanistan | Non-acceptance would cause embarrassment to donor and U.S. Government.
The Honorable John F. Kerry, Senator of the United States | Six silk neck ties. Rec'd—10/3/2011. Est. Value—$100.00. Disposition—Deposited with the Secretary of the Senate | His Excellency Silvio Berlusconi, President of the Council of Ministers of the Italian Republic | Non-acceptance would cause embarrassment to donor and U.S. Government.
The Honorable Mitch McConnell, Minority Leader of the United States Senate | Lacquered jewelry box. Rec'd—10/12/2011. Est. Value—$200.00. Disposition—Deposited with the Secretary of the Senate | His Excellency Lee Myung-bak, President of the Republic of Korea | Non-acceptance would cause embarrassment to donor and U.S. Government.
The Honorable Orrin G. Hatch, Senator of the United States | Silk scarf and tie set. Rec'd—10/17/2011. Est. Value—$100.00. Disposition—Deposited with the Secretary of the Senate | Children's Welfare Delegation of the Government of the People's Republic of China | Non-acceptance would cause embarrassment to donor and U.S. Government.
The Honorable John McCain, Senator of the United States | 21″ x 17″ gold framed painting. Rec'd—11/1/2011. Est. Value—$270.00. Disposition—Deposited with the Secretary of the Senate | Mr. David Bakradze, Chairman of the Parliament of Georgia | Non-acceptance would cause embarrassment to donor and U.S. Government.
The Honorable Charles Schmuer, Senator of the United States | Samsung digital camera. Rec'd—1/2/2012. Est. Value—$140.00. Disposition—Deposited with the Secretary of the Senate | His Excellency Yousef Al Otaiba, Ambassador of the United Arab Emirates to the United States | Non-acceptance would cause embarrassment to donor and U.S. Government.
The Honorable John F. Kerry, Senator of the United States | William & Son fountain pen. Silver necklace and earring set. Replica dagger with holder. Rec'd—1/4/2012. Est. Value—$300.00. Disposition—Deposited with the Secretary of the Senate | His Highness Qaboos bin Said Al Said, Sultan of Oman | Non-acceptance would cause embarrassment to donor and U.S. Government.
The Honorable Barbara Mikulski, Senator of the United States | Long Jerusalem tea box. Rec'd—1/5/2012. Est. Value—$140.00. Disposition—Deposited with the Secretary of the Senate | His Excellency Ehud Barak, Minister of Defense of the State of Israel and Former Prime Minister of the State of Israel | Non-acceptance would cause embarrassment to donor and U.S. Government.
The Honorable Mitch McConnell, Senator of the United States | Lasting Impressions gift basket. Rec'd—1/9/2012. Est. Value—$200.00. Disposition—Deposited with the Secretary of the Senate | His Excellency Ali Bin Fahad Al-Hajri, Ambassador of the State of Qatar to the United States | Non-acceptance would cause embarrassment to donor and U.S. Government.
The Honorable John F. Kerry, Senator of the United States | Waterman ballpoint pen. Rec'd—1/11/2012. Est. Value—$100.00. Disposition—Deposited with the Secretary of the Senate | His Excellency Taher Nashat al-Masri, Former President of the Upper House of the Parliament of the Hashemite Kingdom of Jordan | Non-acceptance would cause embarrassment to donor and U.S. Government.
The Honorable John F. Kerry, Senator of the United States | Bagrationi Gonio Eniseli brandy with cigar. Rec'd—1/31/2012. Est. Value—$100.00. Disposition—Deposited with the Secretary of the Senate | His Excellency Mikheil Saakashvili, President of Georgia | Non-acceptance would cause embarrassment to donor and U.S. Government.
The Honorable Jeff Sessions, Senator of the United States | 4′ x 6′ Afghan rug. Rec'd—2/19/2012. Est. Value—$100.00. Disposition—Deposited with the Secretary of the Senate | His Excellency Hamid Karzai, President of the Islamic Republic of Afghanistan | Non-acceptance would cause embarrassment to donor and U.S. Government.
The Honorable Lindsey Graham, Senator of the United States | 4′ x 6′ Afghan rug. Rec'd—2/19/2012. Est. Value—$100.00. Disposition—Deposited with the Secretary of the Senate | His Excellency Hamid Karzai, President of the Islamic Republic of Afghanistan | Non-acceptance would cause embarrassment to donor and U.S. Government.
The Honorable Christopher A. Coons, Senator of the United States | Juan Valdez Samurai Pods coffee maker and pods of Juan Valdez coffee. Rec'd—2/27/2012. Est. Value—$160.00. Disposition—Deposited with the Secretary of the Senate | His Excellency Juan Manuel Santos, President of the Republic of Colombia | Non-acceptance would cause embarrassment to donor and U.S. Government.
The Honorable Christopher A. Coons, Senator of the United States | National Geographic DVD, title: The Last Place on Earth. Rec'd—3/7/2012. Est. Value—$175.00. Disposition—Deposited with the Secretary of the Senate | His Excellency Carlos Victor Boungou, Former Ambassador of the Gabonese Republic to the United States | Non-acceptance would cause embarrassment to donor and U.S. Government.
The Honorable John F. Kerry, Senator of the United States | Amouage Memoir cologne and perfume gift set. Rec'd—3/8/2012. Est. Value—$100.00. Disposition—Deposited with the Secretary of the Senate | Dr. Salem Nasser Al-Ismaily, Chairman of the Oman Center for Investment Promotion and Export Development | Non-acceptance would cause embarrassment to donor and U.S. Government.
The Honorable Barbara Milkulski, Senator of the United States | Tissot watch. Rec'd—3/21/2012. Est. Value—$219.00. Disposition—Deposited with the Secretary of the Senate | His Excellency General Mashal Al-Zaben, Advisor to His Majesty the King for Military Affairs and Chairman of the Joint Chiefs of Staff of the Hashemite Kingdom of Jordan | Non-acceptance would cause embarrassment to donor and U.S. Government.
The Honorable Tom Harkin, Senator of the United States | Framed painting. Rec'd—4/28/2012. Est. Value—$200.00. Disposition—Deposited with the Secretary of the Senate | His Excellency Alassane Qauttara, President of the Republic of Côte d'Ivoire | Non-acceptance would cause embarrassment to donor and U.S. Government.
The Honorable Tom Udall, Senator of the United States | Framed painting. Rec'd—5/5/2012. Est. Value—$200.00. Disposition—Deposited with the Secretary of the Senate | His Excellency Alassane Qauttara, President of the Republic of Côte d'Ivoire | Non-acceptance would cause embarrassment to donor and U.S. Government.
The Honorable Roger F. Wicker, Senator of the United States | Framed African textile. Rec'd—5/6/2012. Est. Value—$200.00. Disposition—Deposited with the Secretary of the Senate | His Excellency Alassane Qauttara, President of the Republic of Côte d'Ivoire | Non-acceptance would cause embarrassment to donor and U.S. Government.
The Honorable Christopher A. Coons, Senator of the United States | Taiwanese ceramic vase. Rec'd—5/9/2012. Est. Value—$225.00. Disposition—Deposited with the Secretary of the Senate | Mr. Jason Yuan, Taiwan Representative to the United States and Head of the Taipei Economic and Cultural Representative Office | Non-acceptance would cause embarrassment to donor and U.S. Government.
The Honorable Marco Rubio, Senator of the United States | Davidoff cigars. Rec'd—5/28/2012. Est. Value—$135.00. Disposition—Deposited with the Secretary of the Senate | Mr. Jason Yuan, Taiwan Representative to the United States and Head of the Taipei Economic and Cultural Representative Office | Non-acceptance would cause embarrassment to donor and U.S. Government.
The Honorable Christopher A. Coons, Senator of the United States | Zanzibar door. Rec'd—6/2/2012. Est. Value—$100.00. Disposition—Deposited with the Secretary of the Senate | His Excellency Ali Mohamed Shein, President of Zanzibar, United Republic of Tanzania | Non-acceptance would cause embarrassment to donor and U.S. Government.
The Honorable John McCain, Senator of the United States | Lebanese knit tablecloth and towel set. Rec'd—7/5/2012. Est. Value—$150.00. Disposition—Deposited with the Secretary of the Senate | Sheikh Fouad Siniora, Member of Parliament of the Lebanese Republic | Non-acceptance would cause embarrassment to donor and U.S. Government.
The Honorable Joseph I. Lieberman, Senator of the United States | Ornate gold statue. S.T. Dupont pen. Rec'd—8/1/2012. Est. Value—$200.00. Disposition—Deposited with the Secretary of the Senate | The Custodian of the Two Holy Mosques Abdullah bin Abdulaziz Al Saud, King of the Kingdom of Saudi Arabia | Non-acceptance would cause embarrassment to donor and U.S. Government.
The Honorable Mitch McConnell, Minority Leader of the United States Senate | Painting by artist Aung Min Min. Rec'd—9/19/2012. Est. Value—$300.00. Disposition—Deposited with the Secretary of the Senate | Daw Aung San Suu Kyi, Chairperson and General Secretary of the National League for Democracy of the Republic of the Union of Myanmar | Non-acceptance would cause embarrassment to donor and U.S. Government.
The Honorable John F. Kerry, Senator of the United States | Trinitae soaps and lotions. Rec'd—9/21/2012. Est. Value—$100.00. Disposition—Deposited with the Secretary of the Senate | His Majesty King Abdullah II ibn Al Hussein, King of the Hashmite Kingdom of Jordan | Non-acceptance would cause embarrassment to donor and U.S. Government.
The Honorable Mitch McConnell, Minority Leader of the United States Senate | Burmese painting. Rec'd—9/24/2012. Est. Value—$250.00. Disposition—Deposited with the Secretary of the Senate | Daw Aung San Suu Kyi, Chairperson and General Secretary of the National League for Democracy of the Republic of the Union of Myanmar | Non-acceptance would cause embarrassment to donor and U.S. Government.
The Honorable Mark Udall, Senator of the United States | Collection of silk Chinese paintings by Yun Shouping. Rec'd—12/7/2012. Est. Value—$250.00. Disposition—Deposited with the Secretary of the Senate | Dr. Wang Jiarui, Vice Chairman of the Chinese People's Political Consultative Conference | Non-acceptance would cause embarrassment to donor and U.S. Government.
The Honorable John F. Kerry, Senator of the United States | 4′ x 6′ Afghan rug. Rec'd—12/13/2012. Est. Value—$100.00. Disposition—Deposited with the Secretary of the Senate | His Excellency Salahuddin Rabbani, Chairman of the High Peace Council of the Islamic Republic of Afghanistan | Non-acceptance would cause embarrassment to donor and U.S. Government.
The Honorable Jeanne Shaheen, Senator of the United States | Two bottles of Chivas Brothers scotch whiskey. Rec'd—12/13/2012. Est. Value—$270.00. Disposition—Deposited with the Secretary of the Senate | Her Excellency Sherry Rehman, Ambassador of the Islamic Republic of Pakistan to the United States | Non-acceptance would cause embarrassment to donor and U.S. Government.
The Honorable Mark Udall, Senator of the United States | Chivas Brothers scotch whiskey. Rec'd—12/13/2012. Est. Value—$200.00. Disposition—Deposited with the Secretary of the Senate | Her Excellency Sherry Rehman, Ambassador of the Islamic Republic of Pakistan to the United States | Non-acceptance would cause embarrassment to donor and U.S. Government.
The Honorable John D. Rockefeller IV, Senator of the United States | Chivas Brothers scotch whiskey. Rec'd—12/13/2012. Est. Value—$150.00. Disposition—Deposited with the Secretary of the Senate | Her Excellency Sherry Rehman, Ambassador of the Islamic Republic of Pakistan to the United States | Non-acceptance would cause embarrassment to donor and U.S. Government.
The Honorable Clair McCaskill, Senator of the United States | Chivas Brothers scotch whiskey. Rec'd—12/15/2012. Est. Value—$169.99. Disposition—Deposited with the Secretary of the Senate | Her Excellency Sherry Rehman, Ambassador of the Islamic Republic of Pakistan to the United States | Non-acceptance would cause embarrassment to donor and U.S. Government.
The Honorable Charles Schumer, Senator of the United States | iPad Mini. Rec'd—12/17/2012. Est. Value—$325.00. Disposition—Deposited with the Secretary of the Senate | His Excellency Yousef Al Otaiba, Ambassador of the United Arab Emirates to the United States | Non-acceptance would cause embarrassment to donor and U.S. Government.
The Honorable Robert Menendez, Senator of the United States | Chivas Brothers scotch whiskey. Rec'd—12/18/2012. Est. Value—$189.99. Disposition—Deposited with the Secretary of the Senate | Her Excellency Sherry Rehman, Ambassador of the Islamic Republic of Pakistan to the United States | Non-acceptance would cause embarrassment to donor and U.S. Government.
The Honorable Debbie Stabenow, Senator of the United States | Chivas Brothers scotch whiskey. Rec'd—12/18/2012. Est. Value—$125.00. Disposition—Deposited with the Secretary of the Senate | Her Excellency Sherry Rehman, Ambassador of the Islamic Republic of Pakistan to the United States | Non-acceptance would cause embarrassment to donor and U.S. Government.
The Honorable Jack Reed, Senator of the United States | Chivas Brothers scotch whiskey. Rec'd—12/18/2012. Est. Value—$135.00. Disposition—Deposited with the Secretary of the Senate | Her Excellency Sherry Rehman, Ambassador of the Islamic Republic of Pakistan to the United States | Non-acceptance would cause embarrassment to donor and U.S. Government.
Mr. Neil Campbell, Chief of Staff for Senator Jack Reed | Chivas Brothers scotch whiskey. Rec'd—12/18/2012. Est. Value—$135. Disposition—Deposited with the Secretary of the Senate | Her Excellency Sherry Rehman, Ambassador of the Islamic Republic of Pakistan to the United States | Non-acceptance would cause embarrassment to donor and U.S. Government.
The Honorable Jeff Sessions, Senator of the United States | Chivas Brothers scotch whiskey. Rec'd—12/19/2012. Est. Value—$170.00. Disposition—Deposited with the Secretary of the Senate | Her Excellency Sherry Rehman, Ambassador of the Islamic Republic of Pakistan to the United States | Non-acceptance would cause embarrassment to donor and U.S. Government.
The Honorable Mitch McConnell, Minority Leader of the United States Senate | Chivas Brothers scotch whiskey. Rec'd—12/19/2012. Est. Value—$160.00. Disposition—Deposited with the Secretary of the Senate | Her Excellency Sherry Rehman, Ambassador of the Islamic Republic of Pakistan to the United States | Non-acceptance would cause embarrassment to donor and U.S. Government.
The Honorable Johnny Isakson, Senator of the United States | Chivas Brothers scotch whiskey. Rec'd—12/19/2012. Est. Value—$175.00. Disposition—Deposited with the Secretary of the Senate | Her Excellency Sherry Rehman, Ambassador of the Islamic Republic of Pakistan to the United States | Non-acceptance would cause embarrassment to donor and U.S. Government.
The Honorable Chuck Grassley, Senator of the United States | Chivas Brothers scotch whiskey. Rec'd—12/19/2012. Est. Value—$170.00. Disposition—Deposited with the Secretary of the Senate | Her Excellency Sherry Rehman, Ambassador of the Islamic Republic of Pakistan to the United States | Non-acceptance would cause embarrassment to donor and U.S. Government.
The Honorable Roger F. Wicker, Senator of the United States | Chivas Brothers scotch whiskey. Rec'd—12/19/2012. Est. Value—$135.00. Disposition—Deposited with the Secretary of the Senate | Her Excellency Sherry Rehman, Ambassador of the Islamic Republic of Pakistan to the United States | Non-acceptance would cause embarrassment to donor and U.S. Government.
The Honorable Roy Blunt, Senator of the United States | iPad Mini. Rec'd—12/20/2012. Est. Value—$330.00. Disposition—Deposited with the Secretary of the Senate | His Excellency Yousef Al Otaiba, Ambassador of the United Arab Emirates to the United States | Non-acceptance would cause embarrassment to donor and U.S. Government.
The Honorable Max Baucus, Senator of the United States | Chivas Brothers scotch whiskey. Rec'd—12/27/2012. Est. Value—$200.00. Disposition—Deposited with the Secretary of the Senate | Her Excellency Sherry Rehman, Ambassador of the Islamic Republic of Pakistan to the United States | Non-acceptance would cause embarrassment to donor and U.S. Government.
The Honorable Dianne Feinstein, Senator of the United States | Chivas Brothers scotch whiskey. Rec'd—12/27/2012. Est. Value—$250.00. Disposition—Deposited with the Secretary of the Senate | Her Excellency Sherry Rehman, Ambassador of the Islamic Republic of Pakistan to the United States | Non-acceptance would cause embarrassment to donor and U.S. Government.
The Honorable Christopher A. Coons, Senator of the United States | Lapis lazuli mosaic bowl. Rec'd—1/17/2013. Est. Value—$250.00. Disposition—Deposited with the Secretary of the Senate | His Excellency Hamid Karzai, President of the Islamic Republic of Afghanistan | Non-acceptance would cause embarrassment to donor and U.S. Government.
The Honorable Christopher A. Coons, Senator of the United States | Congolese wooden and brass statue. Rec'd—1/23/2013. Est. Value—$100.00. Disposition—Deposited with the Secretary of the Senate | His Excellency Joseph Kabila, President of the Democratic Republic of the Congo | Non-acceptance would cause embarrassment to donor and U.S. Government.
The Honorable John D. Rockefeller IV, Senator of the United States | Black lacquer pencil case with gold leaf floral design. Rec'd—1/24/2013. Est. Value—$100.00. Disposition—Deposited with the Secretary of the Senate | His Excellency Kenichiro Sasae, Ambassador of Japan to the United States | Non-acceptance would cause embarrassment to donor and U.S. Government.
The Honorable John McCain, Senator of the United States | 5′ x 10 Afghan rug. Rec'd—1/2013. Est. Value—$300.00. Disposition—Deposited with the Secretary of the Senate | His Excellency Hamid Karzai, President of the Islamic Republic of Afghanistan | Non-acceptance would cause embarrassment to donor and U.S. Government.
The Honorable Mazie K. Hirono, Senator of the United States | Black lacquer box. Rec'd—2/14/2013. Est. Value—$2000.00. Disposition—Deposited with the Secretary of the Senate | His Excellency Kenichiro Sasae, Ambassador of Japan to the United States | Non-acceptance would cause embarrassment to donor and U.S. Government.
The Honorable Christopher A. Coons, Senator of the United States | Congolese wooden and brass statue. Rec'd—2/24/2013. Est. Value—$100.00. Disposition—Deposited with the Secretary of the Senate | Ms. Jaynet Kabila, National Deputy of the Democratic Republic of the Congo National Assembly` | Non-acceptance would cause embarrassment to donor and U.S. Government.
The Honorable Carl Levin, Senator of the United States | Rug. Rec'd—3/12/2013. Est. Value—$300.00. Disposition—Deposited with the Secretary of the Senate | His Excellency Ali Zaidan, Prime Minister of the State of Libya | Non-acceptance would cause embarrassment to donor and U.S. Government.
The Honorable Charles Schumer, Senator of the United States | Book, title: Istanbul—City of Memories and Hopes. Rec'd—3/13/2013. Est. Value—$168.00. Disposition—Deposited with the Secretary of the Senate | Mr. Kadir Topbas, Mayor of Istanbul of the Republic of Turkey | Non-acceptance would cause embarrassment to donor and U.S. Government.
The Honorable Mazie K. Hirono, Senator of the United States | Tatsumura Japanese brocade bag. Rec'd—4/9/2013. Est. Value—$150.00. Disposition—Deposited with the Secretary of the Senate | Dr. Genshitsu Sen, Goodwill Ambassador, United Nations Educational, Scientific, and Cultural Organization | Non-acceptance would cause embarrassment to donor and U.S. Government.
The Honorable Sherrod Brown, Senator of the United States | Box of high quality tea. Rec'd—5/21/2013. Est. Value—$100.00. Disposition—Deposited with the Secretary of the Senate | Mr. King Putsung, Taiwan Representative to the United States and Head of the Taipei Economic and Cultural Representative Office | Non-acceptance would cause embarrassment to donor and U.S. Government.
The Honorable Jack Reed, Senator of the United States | Woven Afghan area rug. Rec'd—6/4/2013. Est. Value—$200.00. Disposition—Deposited with the Secretary of the Senate | His Excellency Hamid Karzai, President of the Islamic Republic of Afghanistan | Non-acceptance would cause embarrassment to donor and U.S. Government.
Ms. Carolyn Chuhta, Military Legislative Assistant for Senator Jack Reed | Woven Afghan area rug. Rec'd—6/6/2013. Est. Value—$200.00. Disposition—Deposited with the Secretary of the Senate | His Excellency Hamid Karzai, President of the Islamic Republic of Afghanistan | Non-acceptance would cause embarrassment to donor and U.S. Government.
The Honorable Carl Levin, Senator of the United States | Small Afghan area rug. Rec'd—6/6/2013. Est. Value—$150.00. Disposition—Deposited with the Secretary of the Senate | His Excellency Hamid Karzai, President of the Islamic Republic of Afghanistan | Non-acceptance would cause embarrassment to donor and U.S. Government.
The Honorable Bill Nelson, Senator of the United States | Velvet framed wood tree on mother-of-pearl. Rec'd—6/11/2013. Est. Value—$120.00. Disposition—Deposited with the Secretary of the Senate | Government of the State of Israel | Non-acceptance would cause embarrassment to donor and U.S. Government.
The Honorable Patrick J. Leahy, Senator of the United States | Japanese Kyoto silk dolls. Rec'd—6/20/2013. Est. Value—$200.00. Disposition—Deposited with the Secretary of the Senate | The Democratic Party of Japan | Non-acceptance would cause embarrassment to donor and U.S. Government.
The Honorable Nancy Erickson, Senator of the United States | Decorative plate. Rec'd—8/1/2013. Est. Value—$115.00. Disposition—Deposited with the Secretary of the Senate | The Honorable Chung Jin Suk, Secretary General of the National Assembly of the Republic of Korea | Non-acceptance would cause embarrassment to donor and U.S. Government.
The Honorable Tim Kaine, Senator of the United States | Medalla. Rec'd—10/2/2013. Est. Value—$136.00. Disposition—Deposited with the Secretary of the Senate | Ms. Marcela Guerra Castillo, Mexican Senator and President of the North American Foreign Affairs Committee | Non-acceptance would cause embarrassment to donor and U.S. Government.
The Honorable Ted Cruz, Senator of the United States | Medalla. Rec'd—10/3/2013. Est. Value—$136.00. Disposition—Deposited with the Secretary of the Senate | Ms. Marcela Guerra Castillo, Mexican Senator and President of the North American Foreign Affairs Committee | Non-acceptance would cause embarrassment to donor and U.S. Government.
The Honorable Angus S. King, Jr., Senator of the United States | Haddad cutlery set. Rec'd—2/19/2014. Est. Value—$220.00. Disposition—Deposited with the Secretary of the Senate | General Jean Kahwagi, Commander of the Lebanese Armed Forces | Non-acceptance would cause embarrassment to donor and U.S. Government.
The Honorable Tim Kaine, Senator of the United States | Haddad cutlery set. Rec'd—3/27/2014. Est. Value—$220.00. Disposition—Deposited with the Secretary of the Senate | General Jean Kahwagi, Commander of the Lebanese Armed Forces | Non-acceptance would cause embarrassment to donor and U.S. Government.
The Honorable Mazie K. Hirono, Senator of the United States | Mikimoto frame. Rec'd—4/7/2014. Est. Value—$137.48. Disposition—Deposited with the Secretary of the Senate | Mr. Banri Kaieda, President of the Democratic Party of Japan | Non-acceptance would cause embarrassment to donor and U.S. Government.
The Honorable John Hoeven, Senator of the United States | Six bottles of wine. Bottle of vintage cognac. Rec'd—4/15/2014. Est. Value—$250.00. Disposition—Deposited with the Secretary of the Senate | Mr. Vlad Filat, President of the Liberal Demoratic Party of Moldova | Non-acceptance would cause embarrassment to donor and U.S. Government.
The Honorable John Barrasso, Senator of the United States | Vintage cognac. Rec'd—4/18/2014. Est. Value—$137.00. Disposition—Deposited with the Secretary of the Senate | Mr. Vlad Filat, President of the Liberal Demoratic Party of Moldova | Non-acceptance would cause embarrassment to donor and U.S. Government.
The Honorable John McCain, Senator of the United States | Vintage cognac. Rec'd—4/18/2014. Est. Value—$137.00. Disposition—Deposited with the Secretary of the Senate | Mr. Vlad Filat, President of the Liberal Demoratic Party of Moldova | Non-acceptance would cause embarrassment to donor and U.S. Government.
The Honorable Ron Johnson, Senator of the United States | Vintage cognac. Rec'd—4/18/2014. Est. Value—$137.00. Disposition—Deposited with the Secretary of the Senate | Mr. Vlad Filat, President of the Liberal Demoratic Party of Moldova | Non-acceptance would cause embarrassment to donor and U.S. Government.
The Honorable Patrick Leahy, Senator of the United States | Bamboo xylophone. Wooden Flaun gong. Rec'd—4/18/2014. Est. Value—$370.00. Disposition—Deposited with the Secretary of the Senate | His Excellency Truong Tan Sang, President of the Socialist Republic of Vietnam | Non-acceptance would cause embarrassment to donor and U.S. Government.
The Honorable Mazie K. Hirono, Senator of the United States | Artwork, title: Stength in Unity. Rec'd—4/25/2014. Est. Value—$100.08. Disposition—Deposited with the Secretary of the Senate | Councilor Martin Reilly, Mayor of Londonderry of Northern Ireland | Non-acceptance would cause embarrassment to donor and U.S. Government.
The Honorable Mike Crapo, Senator of the United States | Framed floral print. Rec'd—5/15/2014. Est. Value—$125.00. Disposition—Deposited with the Secretary of the Senate | His Excellency Ngiyen Sing Hung, Chairman of the National Assembly of the Socialist Republic of Vietnam | Non-acceptance would cause embarrassment to donor and U.S. Government.
The Honorable John Hoeven, Senator of the United States | Four bottles of wine. Bottle of vintage cognac. Rec'd—5/21/2014. Est. Value—$150.00. Disposition—Deposited with the Secretary of the Senate | Mr. Vlad Filat, President of the Liberal Demoratic Party of Moldova | Non-acceptance would cause embarrassment to donor and U.S. Government.
The Honorable Mitch McConnell, Minority Leader of the United States Senate | Sullivan's Cove single malt whiskey. Rec'd—6/11/2014. Est. Value—$146.00. Disposition—Deposited with the Secretary of the Senate | The Honorable Tony Abbott, MP, Prime Minister of Australia | Non-acceptance would cause embarrassment to donor and U.S. Government.
The Honorable Mazie K. Hirono, Senator of the United States | Chinese silk brocade scroll. Rec'd—6/17/2014. Est. Value—$250.00. Disposition—Deposited with the Secretary of the Senate | Mr. Zhang Ping, Vice Chairman of the Standing Committee of the National People's Congress of the People's Republic of China | Non-acceptance would cause embarrassment to donor and U.S. Government.
The Honorable Christopher Murphy, Senator of the United States | Gift basket of cookies and crackers. Rec'd—12/10/2014. Est. Value—$150.00. Disposition—Deposited with the Secretary of the Senate. Perishable items handled pursuant to the guidelines set forth by General Services Administration | His Excellency Elin Suleymanov, Ambassador of the Republic of Azerbaijan to the United States | Non-acceptance would cause embarrassment to donor and U.S. Government.
The Honorable Christopher A. Coons, Senator of the United States | Handmade bedspread and pillow shams. Rec'd—12/19/2014. Est. Value—$200.00. Disposition—Deposited with the Secretary of the Senate | Her Excellency Ellen Sirleaf Johnson, President of the Republic of Liberia | Non-acceptance would cause embarrassment to donor and U.S. Government.
The Honorable John McCain, Senator of the United States | Lapis lazuli bowl. Rec'd—12/2014. Est. Value—$300.00. Disposition—Deposited with the Secretary of the Senate | His Excellency Mohammed Ashraf Ghani, President of the Islamic Republic of Afghanistan | Non-acceptance would cause embarrassment to donor and U.S. Government.
Ms. Elizabeth O'Bagy, Legislative Assistant for Senator John McCain | Lapis lazuli candelabra. Rec'd—12/2014. Est. Value—$200.00. Disposition—Deposited with the Secretary of the Senate | His Excellency Mohammed Ashraf Ghani, President of the Islamic Republic of Afghanistan | Non-acceptance would cause embarrassment to donor and U.S. Government.
The Honorable Charles Schumer, Senator of the United States | Chest of assorted premium dates. Rec'd—1/16/2015. Est. Value—$250.00. Disposition—Deposited with the Secretary of the Senate | His Highness Abdullah bin Zayed Al Nahyan, Minister of Foreign Affairs and International Cooperation of the United Arab Emirates | Non-acceptance would cause embarrassment to donor and U.S. Government.
The Honorable Pat Roberts, Senator of the United States | Decorative revolving vase with swimming fish. Rec'd—1/29/2015. Est. Value—$350.00. Disposition—Deposited with the Secretary of the Senate | Dr. Shen Lyu-sheun, Taiwan Representative to the United States and Head of the Taipei Economic and Cultural Representative Office | Non-acceptance would cause embarrassment to donor and U.S. Government.
The Honorable Mitch McConnell, Majority Leader of the United States Senate | Lapis lazuli stone. Rec'd—3/25/2015. Est. Value—$150.00. Disposition—Deposited with the Secretary of the Senate | His Excellency Mohammad Ashraf Ghani, President of the Islamic Republic of Afghanistan | Non-acceptance would cause embarrassment to donor and U.S. Government.
The Honorable Mitch McConnell, Majority Leader of the United States Senate | Gold-plated replica of parliament building. Rec'd—4/30/2015. Est. Value—$110.00. Disposition—Deposited with the Secretary of the Senate | His Excellency Thura U Shwe Mann, Speaker of the Lower House of Parliament of the Republic of the Union of Myanmar | Non-acceptance would cause embarrassment to donor and U.S. Government.
The Honorable Mitch McConnell, Majority Leader of the United States Senate | Royal Delft plate. Framed picture of the King and Queen of the Netherlands. Rec'd—6/1/2015. Est. Value—$759.00. Disposition—Deposited with the Secretary of the Senate | His Majesty King William-Alexander, King of the Netherlands | Non-acceptance would cause embarrassment to donor and U.S. Government.
The Honorable Mitch McConnell, Majority Leader of the United States Senate | Montblanc pen. Rec'd—6/11/2015. Est. Value—$220.00. Disposition—Deposited with the Secretary of the Senate | Dr. Saleem Al-Jabouri, Speaker of the Council of Representatives of the Republic of Iraq | Non-acceptance would cause embarrassment to donor and U.S. Government.
The Honorable John McCain, Senator of the United States | Painting by Dembereldorj Munkh. Rec'd—7/2015. Est. Value—$320.00. Disposition—Deposited with the Secretary of the Senate | His Excellency Mr. Chimediin Saikhanbileg, Prime Minister of Mongolia | Non-acceptance would cause embarrassment to donor and U.S. Government.
The Honorable John McCain, Senator of the United States | Decorative vase. Rec'd—7/8/2015. Est. Value—$200.00. Disposition—Deposited with the Secretary of the Senate | His Excellency Nguyen Phu Trong, General Secretary of the Communist Party of Vietnam | Non-acceptance would cause embarrassment to donor and U.S. Government.
The Honorable Jack Reed, Senator of the United States | Framed set of prints of sites in Vietnam. Rec'd—7/31/2015. Est. Value—$120.00. Disposition—Deposited with the Secretary of the Senate | His Excellency Nguyen Sinh Hung, Chairman of the National Assembly of the Socialist Republic of Vietnam | Non-acceptance would cause embarrassment to donor and U.S. Government.
The Honorable Orrin G. Hatch, President Pro Tempore of the United States Senate | Framed wire art depicting an Indonesian god. Rec'd—9/10/2015. Est. Value—$116.00. Disposition—Deposited with the Secretary of the Senate | His Excellency Setya Novanto, Speaker of the House of Representatives of the Republic of Indonesia | Non-acceptance would cause embarrassment to donor and U.S. Government.
The Honorable Edward J. Markey, Senator of the United States | Guinea-shaped woodcarving. Rec'd—9/16/2015. Est. Value—$150.00. Disposition—Deposited with the Secretary of the Senate | His Excellency Alpha Condé, President of the Republic of Guinea | Non-acceptance would cause embarrassment to donor and U.S. Government.
The Honorable Angus S. King, Jr., Senator of the United States | Decorative ceramic egg. Rec'd—10/17/2015. Est. Value—$120.00. Disposition—Deposited with the Secretary of the Senate | His Excellency Einar Guofinnsson, Speaker of Parliament of the Republic of Iceland | Non-acceptance would cause embarrassment to donor and U.S. Government.
The Honorable Roy Blunt, Senator of the United States | Painted silk scroll of the Forbidden City. Rec'd—10/29/2015. Est. Value—$500.00. Disposition—Deposited with the Secretary of the Senate | Mr. Lu Zushan, Member of the Communist Party of the Central Committee and Vice Chairman of the Financial and Economic Committee of the National People's Assembly of the People's Republic of China | Non-acceptance would cause embarrassment to donor and U.S. Government.
The Honorable Orrin G. Hatch, President Pro Tempore of the United States Senate | Kaizan Yo porcelain plate. Rec'd—12/8/2015. Est. Value—$135.00. Disposition—Deposited with the Secretary of the Senate | Mr. Keiji Furuya, Member of the House of Representatives in the National Diet of Japan | Non-acceptance would cause embarrassment to donor and U.S. Government.
The Honorable Mitch McConnell, Majority Leader of the United States Senate | Engraved silver Tiffany & Co. box. Rec'd—12/13/2015. Est. Value—$135.00. Disposition—Deposited with the Secretary of the Senate | His Excellency Jaham Al Kuwari, Ambassador of the State of Qatar to the United States | Non-acceptance would cause embarrassment to donor and U.S. Government.
Mr. Mark E. Morrison, Deputy Staff Director for Senator Robert F. Bennett | TRAVEL: Transportation within France via bus to various government and business facilities, lodging, and meals. Rec'd—5/26-6/1/2007. Est. Value—Unknown | Government of the French Republic | Non-acceptance would cause embarrassment to donor and U.S. Government.
Ms. Paula Burg, Legislative Assistant to Senator Patty Murray | TRAVEL: Lodging, meals, and transportation within Tanzania. Rec'd—2/14-20/2009. Est. Value—Unknown | Joint United Nations Program on HIV/AIDS | Non-acceptance would cause embarrassment to donor and U.S. Government.
Ms. Sarah Kyle, Legislative Assistant to Senator Evan Bayh | TRAVEL: Lodging, meals, and transportation within Tanzania. Rec'd—2/14-20/2009. Est. Value—Unknown | Joint United Nations Program on HIV/AIDS | Non-acceptance would cause embarrassment to donor and U.S. Government.
The Honorable Mitch McConnell, Minority Leader of the United States Senate | TRAVEL: Transportation within Egypt. Rec'd—4/5/2009. Est. Value—Unknown | Multinational Force and Observers | Non-acceptance would cause embarrassment to donor and U.S. Government.
The Honorable Saxby Chambliss, Senator of the United States | TRAVEL: Transportation within Egypt. Rec'd—4/5/2009. Est. Value—Unknown | Multinational Force and Observers | Non-acceptance would cause embarrassment to donor and U.S. Government.
The Honorable James Risch, Senator of the United States | TRAVEL: Transportation within Egypt. Rec'd—4/5/2009. Est. Value—Unknown | Multinational Force and Observers | Non-acceptance would cause embarrassment to donor and U.S. Government.
Ms. Sharon Soderstrom, Deputy Chief of Staff, Office of the Republican Leader | TRAVEL: Transportation within Egypt. Rec'd—4/5/2009. Est. Value—Unknown | Multinational Force and Observers | Non-acceptance would cause embarrassment to donor and U.S. Government.
Mr. Tom Hawkins, National Security Advisor, Office of the Republican Leader | TRAVEL: Transportation within Egypt. Rec'd—4/5/2009. Est. Value—Unknown | Multinational Force and Observers | Non-acceptance would cause embarrassment to donor and U.S. Government.
Mr. Reb Brownell, Legislative Assistant, Office of Senator Mitch McConnell | TRAVEL: Transportation within Egypt. Rec'd—4/5/2009. Est. Value—Unknown | Multinational Force and Observers | Non-acceptance would cause embarrassment to donor and U.S. Government.
Admiral Brian Monahan, Attending Physician, United States Congress | TRAVEL: Transportation within Egypt. Rec'd—4/5/2009. Est. Value—Unknown | Multinational Force and Observers | Non-acceptance would cause embarrassment to donor and U.S. Government.
The Honorable Barbara Mikulski, Senator of the United States | TRAVEL: Transportation within Montenegro and lunch. Rec'd—5/27/2009. Est. Value—Unknown | Government of Montenegro | Non-acceptance would cause embarrassment to donor and U.S. Government.
The Honorable Benjamin Cardin, Senator of the United States | TRAVEL: Transportation within Montenegro and lunch. Rec'd—5/27/2009. Est. Value—Unknown | Government of Montenegro | Non-acceptance would cause embarrassment to donor and U.S. Government.
The Honorable Roger Wicker, Senator of the United States | TRAVEL: Transportation within Montenegro and lunch. Rec'd—5/27/2009. Est. Value—Unknown | Government of Montenegro | Non-acceptance would cause embarrassment to donor and U.S. Government.
The Honorable Jim Webb, Senator of the United States | TRAVEL: Transportation within Myanmar and lodging and meals in Naypyidaw. Rec'd—8/14-15/2009. Est. Value—Unknown | Government of the Republic of the Union of Myanmar | Non-acceptance would cause embarrassment to donor and U.S. Government.
Mrs. Hong Le Webb, Spouse of Senator Jim Webb | TRAVEL: Transportation within Myanmar and lodging and meals in Naypyidaw. Rec'd—8/14-15/2009. Est. Value—Unknown | Government of the Republic of the Union of Myanmar | Non-acceptance would cause embarrassment to donor and U.S. Government.
Ms. Marta McLellan Ross, Legislative Assistant for Senator Jim Webb | TRAVEL: Transportation within Myanmar and lodging and meals in Naypyidaw. Rec'd—8/14-15/2009. Est. Value—Unknown | Government of the Republic of the Union of Myanmar | Non-acceptance would cause embarrassment to donor and U.S. Government.
The Honorable Bob Corker, Senator of the United States | TRAVEL: Transportation within Pakistan. Rec'd—8/21/2009. Est. Value—Unknown | Government of the Islamic Republic of Pakistan | Non-acceptance would cause embarrassment to donor and U.S. Government.
The Honorable Sherrod Brown, Senator of the United States | TRAVEL: Transportation within Pakistan. Rec'd—8/21/2009. Est. Value—Unknown | Government of the Islamic Republic of Pakistan | Non-acceptance would cause embarrassment to donor and U.S. Government.
Mr. Mark Powden, Chief of Staff for Senator Sherrod Brown | TRAVEL: Transportation within Pakistan. Rec'd—8/21/2009. Est. Value—Unknown | Government of the Islamic Republic of Pakistan | Non-acceptance would cause embarrassment to donor and U.S. Government.
Mr. Isaac Edwards, Republican Counsel, Committee on Energy and Natural Resources | TRAVEL: Transportation within Palau via small boat to Peleliu State and the Islands of Koror. Rec'd—8/30/2009. Est. Value—Unknown | Government of Republic of Palau | Non-acceptance would cause embarrassment to donor and U.S. Government.
Mr. Allen Stayman, Professional Staff Member, Committee on Energy and Natural Resources | TRAVEL: Transportation within Palau via small boat to Peleliu State and the Islands of Koror. Rec'd—8/30/2009. Est. Value—Unknown | Government of Republic of Palau | Non-acceptance would cause embarrassment to donor and U.S. Government.
The Honorable Lindsey Graham, Senator of the United States | TRAVEL: Transportation within Saskatchewan via aircraft. Rec'd—9/18-19/2009. Est. Value—Unknown | Government of Saskatchewan, Canada | Non-acceptance would cause embarrassment to donor and U.S. Government.
Mr. Richard Perry, Chief of Staff for Senator Lindsey Graham | TRAVEL: Transportation within Saskatchewan via aircraft. Rec'd—9/18-19/2009. Est. Value—Unknown | Government of Saskatchewan, Canada | Non-acceptance would cause embarrassment to donor and U.S. Government.
Mr. Matthew Rimkunas, Legislative Assistant for Senator Lindsey Graham | TRAVEL: Transportation within Saskatchewan via aircraft. Rec'd—9/18-19/2009. Est. Value—Unknown | Government of Saskatchewan, Canada | Non-acceptance would cause embarrassment to donor and U.S. Government.
The Honorable Tim Kaine, Senator of the United States | TRAVEL: Transportation to military installations within Colombia via military helicopter. Rec'd—2/21/2015. Est. Value—Unknown | Government of the Republic of Colombia | Non-acceptance would cause embarrassment to donor and U.S. Government.
Ms. Mary Naylor, Legislative Director for Senator Tim Kaine | TRAVEL: Transportation to military installations within Colombia via military helicopter. Rec'd—2/21/2015. Est. Value—Unknown | Government of the Republic of Colombia | Non-acceptance would cause embarrassment to donor and U.S. Government.
The Honorable Thomas R. Carper, Senator of the United States | TRAVEL: Transportation to sites within Tanzania. Rec'd—8/15-22/2015. Est. Value—Unknown | Government of the United Republic of Tanzania | Non-acceptance would cause embarrassment to donor and U.S. Government.
Mrs. Martha Carper, Spouse of Senator Thomas R. Carper | TRAVEL: Transportation to sites within Tanzania. Rec'd—8/15-22/2015. Est. Value—Unknown | Government of the United Republic of Tanzania | Non-acceptance would cause embarrassment to donor and U.S. Government.
Mr. Christopher Carper, Dependent Child of Senator Thomas R. Carper | TRAVEL: Transportation to sites within Tanzania. Rec'd—8/15-22/2015. Est. Value—Unknown | Government of the United Republic of Tanzania | Non-acceptance would cause embarrassment to donor and U.S. Government.
Mr. Benjamin Carper, Dependent Child of Thomas R. Carper | TRAVEL: Transportation to sites within Tanzania. Rec'd—8/15-22/2015. Est. Value—Unknown | Government of the United Republic of Tanzania | Non-acceptance would cause embarrassment to donor and U.S. Government.
The Honorable Tom Udall, Senator of the United States | TRAVEL: Transportation to sites within Tanzania. Rec'd—8/15/2015 and 8/18/2015. Est. Value—Unknown | Government of the United Republic of Tanzania | Non-acceptance would cause embarrassment to donor and U.S. Government.
The Honorable Jeff Merkley, Senator of the United States | TRAVEL: Transportation to sites within Gabon via military helicopter. Rec'd—8/27/2015. Est. Value—Unknown | Government of the Gabonese Republic | Non-acceptance would cause embarrassment to donor and U.S. Government.
Mr. Adrian Snead, Legislative Counsel for Senator Jeff Merkley | TRAVEL: Transportation to sites within Gabon via military helicopter. Rec'd—8/27/2015. Est. Value—Unknown | Government of the Gabonese Republic | Non-acceptance would cause embarrassment to donor and U.S. Government.
The Honorable Christopher A. Coons, Senator of the United States | TRAVEL: Transportation to sites within Gabon via military helicopter. Rec'd—8/27/2015. Est. Value—Unknown | Government of the Gabonese Republic | Non-acceptance would cause embarrassment to donor and U.S. Government.
Ms. Christy Gleason, Senior Strategist for Senator Christopher A. Coons | TRAVEL: Transportation to sites within Gabon via military helicopter. Rec'd—8/27/2015. Est. Value—Unknown | Government of the Gabonese Republic | Non-acceptance would cause embarrassment to donor and U.S. Government.
Mr. Thomas Mancinelli, Legislative Assistant for Senator Christopher A. Coons | TRAVEL: Transportation to sites within Gabon via military helicopter. Rec'd—8/27/2015. Est. Value—Unknown | Government of the Gabonese Republic | Non-acceptance would cause embarrassment to donor and U.S. Government.
The Honorable Al Franken, Senator of the United States | TRAVEL: Transportation to sites within Gabon via military helicopter. Rec'd—8/27/2015. Est. Value—Unknown | Government of the Gabonese Republic | Non-acceptance would cause embarrassment to donor and U.S. Government.

[FR Doc. 2016-24481 Filed 10-11-16; 8:45 am]

BILLING CODE 4710-20-P